DEPARTMENT OF HOMELAND SECURITY

U.S. Customs and Border Protection

DEPARTMENT OF THE TREASURY

19 CFR Parts 10, 24, 113, 123, 141, 144, 163, 174, and 182

[USCBP-2024-0017; CBP Dec. 24-18]

RIN 1685-AA00 (Formerly RIN 1515-AE65)

Agreement Between the United States of America, the United Mexican States, and Canada (USMCA) Implementing Regulations Related to Textile and Apparel Goods, Automotive Goods, and Other USMCA Provisions

AGENCY: U.S. Customs and Border Protection, Department of Homeland Security; Department of the Treasury.

ACTION: Interim final rule; request for comments.

SUMMARY: This interim final rule amends the U.S. Customs and Border Protection (CBP) regulations to add implementing regulations for the preferential tariff treatment and related customs provisions of the Agreement Between the United States of America, the United Mexican States, and Canada (USMCA) with respect to general definitions, drawback and duty-deferral programs, textile and apparel goods, and automotive goods. This document also amends the regulations to implement the temporary admission of goods, to delineate recordkeeping and protest requirements, to clarify the fee provisions, and to make conforming amendments, including technical corrections to other laws as required by statute.

DATES: This interim final rule is effective on March 18, 2025. However, compliance with the labor value content certification, steel purchasing certification, and aluminum purchasing certification provisions in §§ 182.95, 182.96, and 182.97 will only be required for those vehicle certifications submitted to CBP on or after May 19, 2025. Comments regarding this interim final rule must be received by March 18, 2025.

ADDRESSES: Please submit comments, identified by docket number USCBP-2024-0017, by the following method:

Federal eRulemaking Portal at http://www.regulations.gov. Follow the instructions for submitting comments.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov.

FOR FURTHER INFORMATION CONTACT: Operational Aspects and Audit Aspects: Raymond J. Irizarry, Director, Textiles and Trade Agreements Division, Trade Policy and Programs, Office of Trade, U.S. Customs and Border Protection, (202) 945-7236 or FTA@cbp.dhs.gov.

Legal Aspects: Yuliya A. Gulis, Director, Commercial and Trade Facilitation Division, Regulations and Rulings, Office of Trade, U.S. Customs and Border Protection, (202) 325-0042 or yuliya.a.gulis@cbp.dhs.gov.

SUPPLEMENTARY INFORMATION:

I. Public Participation

Interested persons are invited to participate in this rulemaking by submitting written data, views, or arguments on all aspects of this interim final rule. U.S. Customs and Border Protection (CBP) also invites comments that relate to the economic, environmental, or federalism effects that might result from this interim final rule. Comments that will provide the most assistance to CBP will reference a specific portion of the interim final rule, explain the reason for any recommended change, and include data, information or authority that support such recommended change.

II. Background

On November 30, 2018, the “Protocol Replacing the North American Free Trade Agreement with the Agreement Between the United States of America, the United Mexican States, and Canada” (the Protocol) was signed to replace the North American Free Trade Agreement (NAFTA). The Agreement Between the United States of America, the United Mexican States (Mexico), and Canada (the USMCA) ¹ is attached as an annex to the Protocol and was subsequently amended to reflect certain modifications and technical corrections in the “Protocol of Amendment to the Agreement Between the United States of America, the United Mexican States, and Canada” (the Amended Protocol), which the Office of the United States Trade Representative (USTR) signed on December 10, 2019.

¹ The Agreement Between the United States of America, the United Mexican States, and Canada is the official name of the USMCA treaty. Please be aware that, in other contexts, the same document is also referred to as the United States-Mexico-Canada Agreement.

Pursuant to section 106 of the Bipartisan Congressional Trade Priorities and Accountability Act of 2015 (19 U.S.C. 4205) and section 151 of the Trade Act of 1974 (19 U.S.C. 2191), the United States approved and implemented the USMCA through the enactment of the United States—Mexico—Canada Agreement Implementation Act (USMCA Implementation Act), Pub. L. 116-113, 134 Stat. 11 (19 U.S.C. Chapter 29), on January 29, 2020. Section 103(a)(1)(B) of the USMCA Implementation Act (19 U.S.C. 4513(b)(1)) provides the authority for new or amended regulations to be issued to implement the USMCA, as of the date of its entry into force.

Mexico, Canada, and the United States certified their preparedness to implement the USMCA on December 12, 2019, March 13, 2020, and April 24, 2020, respectively. As a result, pursuant to paragraph 2 of the Protocol, which provides that the USMCA will take effect on the first day of the third month after the last signatory party provides written notification of the completion of its domestic procedures required for entry into force, the USMCA entered into force on July 1, 2020.

Subsequent to the USMCA's entry into force date, on December 27, 2020, the Consolidated Appropriations Act, 2021 (Appropriations Act), Pub. L. 116-260, was enacted with Title VI of the Act containing technical corrections to the USMCA Implementation Act. All of the changes contained within Title VI of the Appropriations Act are retroactively effective on July 1, 2020, the USMCA's entry into force date. See sections 601(h) and 602(g) of Title VI of the Appropriations Act. These changes included amending section 202 of the USMCA Implementation Act (19 U.S.C. 4531) to prohibit non-originating goods used in production processes within foreign trade zones (FTZs) from qualifying as originating goods under the USMCA. See section 601(b) of Title VI of the Appropriations Act. Additionally, section 601(e) of Title VI of the Appropriations Act amended 19 U.S.C. 1520(d) to allow the refund of merchandise processing fees for USMCA post-importation claims. The Appropriations Act also included technical corrections to other laws. These other laws, such as the African Growth and Opportunity Act and the Caribbean Basin Economic Recovery Act, implemented the relevant trade preference programs using the NAFTA rules of origin. With the repeal of the North American Free Trade Agreement Implementation Act (NAFTA Implementation Act), section 602(a) and (b) of Title VI of the Appropriations Act amended these other laws to include the USMCA rules of origin.

Pursuant to USMCA Article 5.16, the United States, Mexico, and Canada trilaterally negotiated and agreed to Uniform Regulations. The USMCA Free Trade Commission adopted the Uniform Regulations in its Decision No.1, effective as of the date of entry into force of the USMCA. Annex I to that decision includes: ²

² Available at: https://ustr.gov/trade-agreements/free-trade-agreements/united-states-mexico-canada-agreement/free-trade-commission-decisions/usmca-free-trade-commission-decision-no-1.

• The Uniform Regulations Regarding the Interpretation, Application, and Administration of Chapter 4 (Rules of Origin) and Related Provisions in Chapter 6 (Textile and Apparel Goods) of the Agreement Between the United States of America, the United Mexican States, and Canada (Uniform Regulations regarding Rules of Origin), and

• The Uniform Regulations Regarding the Interpretation, Application, and Administration of Chapters 5 (Origin Procedures), 6 (Textile and Apparel Goods), and 7 (Customs Administration and Trade Facilitation) of the Agreement Between the United States of America, the United Mexican States, and Canada (Uniform Regulations regarding Origin Procedures).

In accordance with USMCA Article 5.16, modifications or additions to the Uniform Regulations shall be considered regularly by the USMCA Parties to reduce their complexity and to ensure better compliance. To this end, further iterations of the Uniform Regulations may be negotiated. Part 182 of title 19 of the Code of Federal Regulations (CFR) (19 CFR part 182) contains the Uniform Regulations regarding Chapter 4 Rules of Origin and related provisions of Chapter 6 in Appendix A. The Uniform Regulations for Chapter 5, remaining provisions of Chapter 6, and Chapter 7 regarding Origin Procedures are incorporated in title 19 of the CFR, including 19 CFR part 182, as appropriate for U.S. administrative processes and procedures. Part 182 of title 19 of the CFR will be amended through subsequent rulemaking to reflect future changes to both sets of the Uniform Regulations, as needed.

The USMCA superseded NAFTA and its related provisions on the date that USMCA entered into force. See Protocol, paragraph 1. Section 601 of the USMCA Implementation Act repealed the NAFTA Implementation Act, Pub. L. 103-182, 107 Stat. 2057 (19 U.S.C. 3301), as of the date that the USMCA entered into force. The NAFTA provisions set forth in part 181 of title 19 of the CFR (19 CFR part 181) and in General Note 12, Harmonized Tariff Schedule of the United States (HTSUS), continue to apply to goods entered for consumption, or withdrawn from warehouse for consumption, prior to July 1, 2020.

Claims for preferential treatment under the USMCA may be made as of July 1, 2020. On July 1, 2020, CBP published an interim final rule (IFR), entitled “Implementation of the Agreement Between the United States of America, the United Mexican States, and Canada (USMCA) Uniform Regulations Regarding Rules of Origin,” (CBP Dec. 20-11) in the Federal Register (85 FR 39690), amending part 181 and adding a new part 182 containing several USMCA provisions, including the Uniform Regulations regarding Rules of Origin as Appendix A of part 182 to title 19 of the CFR (19 CFR part 182), which was trilaterally agreed upon by the United States, Mexico, and Canada. CBP later published an IFR on July 6, 2021, entitled, “Agreement Between the United States of America, the United Mexican States, and Canada (USMCA) Implementing Regulations Related to the Marking Rules, Tariff-rate Quotas, and Other USMCA Provisions,” (CBP Dec. 21-10) in the Federal Register (86 FR 35566), which was effective on July 1, 2021. The IFR amended part 182 to implement USMCA Chapters 1, 2, 5, and 7 related to general definitions, confidentiality, import requirements, export requirements, post-importation duty refund claims, a portion of the drawback and duty-deferral programs, general verifications and determinations of origin, commercial samples, goods re-entered after repair or alteration in Canada or Mexico, and penalties. It also amended several other parts of title 19 of the CFR necessary to implement the USMCA. In addition to those regulations and the regulations set forth in this document, persons intending to make USMCA preference claims may refer to the CBP website at https://www.cbp.gov/trade/priority-issues/trade-agreements/free-trade-agreements/USMCA for further guidance. The United States International Trade Commission has modified the HTSUS to include the addition of General Note 11, incorporating the USMCA rules of origin for preference purposes, and the insertion of the special program indicator “S” or “S+” for the USMCA in the HTSUS “special” rate of duty subcolumn.³

³ The S+ indicator is used for certain agricultural goods and textile tariff preference levels (TPLs).

A. The Customs Related USMCA Provisions

The USMCA is composed of 34 chapters along with additional side letters. CBP is responsible for administering the customs related provisions contained within Chapters 1 (Initial Provisions and General Definitions), 2 (National Treatment and Market Access for Goods), 4 (Rules of Origin), 5 (Origin Procedures), 6 (Textile and Apparel Goods) and 7 (Customs Administration and Trade Facilitation) of the USMCA and, pursuant to Article 5.16 of the USMCA, the Uniform Regulations regarding Rules of Origin as well as the Uniform Regulations regarding Origin Procedures. This IFR amends the CBP regulations to implement remaining customs related USMCA provisions that CBP is responsible for administering, as described below.

Chapter 1 of the USMCA contains the general definitions and country-specific definitions applicable to the USMCA, unless otherwise provided.

Chapter 2 of the USMCA sets forth the national treatment and market access provisions. Unless otherwise provided, each USMCA country shall apply a customs duty on an originating good in accordance with its Schedule in Annex 2-B (Tariff Commitments) of Chapter 2 of the USMCA. See Article 2.4 of the USMCA. USMCA Chapter 2 also contains the drawback and duty-deferral program provisions (Article 2.5) and the temporary admission of goods provisions (Article 2.7).

USMCA Chapter 4 contains the general rules of origin for preferential tariff treatment. Annex 4-B contains the product-specific rules of origin. Specifically, the Appendix to Annex 4-B of Chapter 4 of the USMCA sets forth the provisions related to the product-specific rules of origin for automotive goods. See USMCA Article 4.10. USMCA Appendix to Annex 4-B includes the automotive good-specific definitions (Article 1); the averaging provisions for purposes of calculating the regional value content of a passenger vehicle, light truck, heavy truck, or automotive good (Article 5); the steel purchasing and aluminum purchasing requirements (Article 6); the labor value content requirements (Article 7); and the provisions related to the transition period during which a qualifying passenger vehicle, light truck, or heavy truck may be originating under the USMCA pursuant to an alternative staging regime (Article 8).

Chapter 5 of the USMCA sets forth the origin procedures. This includes the recordkeeping requirements for importers, exporters, and producers (Article 5.8); the general origin verification requirements and procedures (Article 5.9); determinations of origin (Article 5.10); advance rulings relating to origin (Article 5.14); and the review and appeal of determinations of origin and advance rulings (Article 5.15).

Chapter 6 includes the product-specific rules of origin specific to textiles and apparel goods. Except as specifically provided for in USMCA Chapter 6, USMCA Chapters 4 (Rules of Origin) and 5 (Origin Procedures) apply to textile and apparel goods as well. See USMCA Article 6.1. Chapter 6 contains the textile and apparel goods site visit verification provisions (Article 6.6), and the determination of origin provisions (Article 6.7). Annex 6-A of Chapter 6 of the USMCA sets forth the special provisions applicable to certain textile and apparel goods. See USMCA Article 6.3. Section C of Annex 6-A sets forth the tariff preference level provisions related to preferential tariff treatment for non-originating goods of another USMCA country, including the requirements and applicable procedures. USMCA Annex 6-B contains the schedule of conversion factors that apply to tariff preference levels.

USMCA Chapter 7 sets forth provisions related to customs administration and trade facilitation, specifically provisions on advance rulings (Article 7.5) and on review and appeal of customs determinations (Article 7.15).

The Chapters 1, 2, 4, 5, 6, and 7 provisions discussed above are reflected in this IFR. CBP is soliciting public comments in this document. CBP will address any public comments received from the IFRs implementing the USMCA in a final rule published in the Federal Register. Additionally, future trilateral negotiations on the Uniform Regulations may result in additional provisions that will be included in a future rulemaking process at a later date.

B. Textiles and Apparel Goods

Under the USMCA, a textile or apparel good is defined as a good classified in Harmonized System (HS) subheading 4202.12, 4202.22, 4202.32, or 4202.92 (luggage, handbags and similar articles with an outer surface of textile materials); headings 50.04 through 50.07, 51.04 through 51.13, 52.04 through 52.12, 53.03 through 53.11; Chapters 54 through 63; heading 66.01 (umbrellas) or heading 70.19 (yarns and fabrics of glass fiber); subheading 9404.90 (articles of bedding and similar furnishing); or heading 96.19 (babies diapers and other sanitary textile articles). See USMCA Article 1.5. Chapter 6 of the USMCA contains the provisions that apply only to the treatment of textile and apparel goods. Unless otherwise noted, the provisions in USMCA Chapter 6 are additional requirements, with the rules of origin in USMCA Chapter 4 and the origin procedures in USMCA Chapter 5 also applying to textile and apparel goods.

Tariff Preference Levels (TPLs)

USMCA Chapter 6 contains special provisions in Annex 6-A allowing specified quantities of certain textile and apparel goods, which do not meet the rules of origin in General Note 11, HTSUS, or the Uniform Regulations regarding Rules of Origin, to claim USMCA preferential tariff treatment because the goods undergo significant processing in one or more USMCA countries. See USMCA Article 6.3. Specifically, Section C of Annex 6-A sets the tariff preference levels (TPLs). TPLs require that each USMCA country apply the preferential tariff treatment applicable to originating goods (as set out in the goods' schedule in USMCA Annex 2-B (Tariff Commitments)) for certain non-originating apparel goods of Chapters 61 and 62, HTSUS, and textile and apparel goods, other than wadding, of heading 9619, HTSUS; certain non-originating cotton or man-made fiber fabrics and textile goods, and certain goods of subheading 9404.90, HTSUS; and certain non-originating cotton or man-made fiber spun yarn, up to the annual quantities specified in the appendices to Annex 6-A, in the square meter equivalent measurement (SME) indicated. The SME is a unit of measurement that results from the application of the conversion factors set out in Annex 6-B, to a primary unit of measure such as a unit, dozen, or kilogram and is used in the appendices to Annex 6-A to determine the annual quantities of each specified textile and apparel good that is eligible for USMCA preferential tariff treatment under the TPLs. See USMCA Annex 6-A, Section A.

A USMCA country will manage each TPL on a first-come, first-served basis, and will calculate the quantity of goods that enter under a TPL on the basis of its imports. See USMCA Annex 6-A, Section C. When imports exceed the established annual quantitative levels, the imported goods are subject to most-favored nation (MFN) rates of duty. An importer may make a claim for preferential tariff treatment of a good under a TPL for at least one year after the good is imported, if the annual quantitative limit has not been reached and other TPL requirements are met. Goods imported under TPLs are exempt from merchandise processing fees.

Pursuant to section 103(c)(1) of the USMCA Implementation Act (19 U.S.C. 4513(c)), which grants the President proclamation authority to take the actions necessary to apply USMCA Article 6.3 and Annex 6-A, the special classification provisions in Subchapter XXIII of Chapter 98 of the HTSUS have been modified to insert U.S. Note 11 containing the Mexican and Canadian textile and apparel goods, with the SME indicated, that are eligible for special tariff treatment subject to the TPLs. Additionally, the HTSUS was modified to include the insertion of the special program indicator “S+” in the HTSUS “special” rate of duty subcolumn. The special program indicator “S+” is used when the HTSUS provides different preferential tariff treatment to each of the USMCA countries such as with TPLs.

As goods subject to TPLs are not originating goods, the certification of origin requirement does not apply for textile or apparel goods subject to a TPL claiming USMCA preferential tariff treatment. Instead, pursuant to USMCA Annex 6-A, Section C, the USMCA country where the good is being imported may require a document issued by the competent authority of a USMCA country, such as a certificate of eligibility, to provide information demonstrating that the good qualifies for duty-free treatment under a TPL, to track allocation and use of a TPL, or as a condition to grant duty-free treatment to the good under a TPL. Each USMCA country must notify the other USMCA countries if it requires a certificate of eligibility or other documentation. CBP has determined that TPLs under the USMCA will be administered using a certificate of eligibility. Thus, CBP is adding the TPL requirements, including the requirements for the certificate of eligibility, to 19 CFR part 182, subpart H.

The USMCA provisions related to claims for preferential tariff treatment generally apply, with the exception of the certification of origin requirement, to textile or apparel goods subject to TPLs, including the general verification requirements under USMCA Article 5.9 and the textile and apparel goods-specific verification provisions in USMCA Article 6.6. See USMCA Annex 6-A, Section C.

Textile and Apparel Good Verifications

Pursuant to USMCA Article 5.9, a USMCA country may conduct a verification to determine whether a good qualifies for preferential tariff treatment by one or more of the following means: a written request or questionnaire issued to the importer, exporter, or producer; a verification visit to the premises of the exporter or producer; for a textile or apparel good, the procedures set out in USMCA Article 6.6; or any other procedure as may be decided by the USMCA countries.

Accordingly, the USMCA provides a USMCA country with the discretion to conduct a textile or apparel good verification either pursuant to the general verification procedures set forth in USMCA Article 5.9 or pursuant to a site visit under USMCA Article 6.6. A verification under USMCA Article 5.9 is conducted to verify whether a good qualifies for preferential tariff treatment. A site visit under USMCA Article 6.6 (hereinafter referred to as a “site visit”) may only be conducted to verify textile and apparel goods. A USMCA country may perform a site visit of an exporter or producer to verify whether a textile or apparel good qualifies for USMCA preferential tariff treatment or to verify whether customs offenses with regard to a textile or apparel good are occurring or have occurred. Consequently, under USMCA Article 6.6.3, during a site visit, a USMCA country may request access to records and facilities relevant to the claim for preferential tariff treatment or records and facilities relevant to the customs offenses being verified.

USMCA Article 1.5 defines a customs offense to mean any act committed for the purpose of, or having the effect of, avoiding a USMCA country's laws or regulations pertaining to the provisions of the USMCA governing importations or exportations of goods between, or transit of goods through, the territories of the USMCA countries, specifically those that violate a customs law or regulation for restrictions or prohibitions on imports or exports, duty evasion, transshipment, falsification of documents relating to the importation or exportation of goods, fraud, or smuggling of goods.

A site visit's procedures and processes differ significantly from a verification visit under USMCA Article 5.9. Prior to conducting a site visit in a USMCA country, the USMCA country conducting the site visit is not required to notify the exporter or producer whose premises are going to be visited. The USMCA country conducting the site visit, however, must notify the USMCA country where the site visit will occur (the “host USMCA country”). USMCA Article 6.6 sets forth the requirements and specific information that the USMCA country that is seeking to conduct the site visit with respect to a textile or apparel good must provide to the host USMCA country, not later than 20 days prior to the date of the first visit to an exporter or producer. This information exchange between the USMCA countries is governed by the confidentiality provisions in USMCA Article 5.12 to ensure that information is treated as confidential when it is designated as confidential or is confidential under the receiving USMCA country's laws.⁴ See USMCA Articles 5.12 and 6.9. Additionally, in accordance with USMCA Article 6.6.7(c), the USMCA countries will limit communication regarding the site visit to relevant government officials and not inform any person outside the government of the host USMCA country in advance of the site visit or provide any other information not publicly available that could undermine the effectiveness of the site visit.

⁴ The exchange of information between USMCA countries is governed by 19 U.S.C. 1628. See also 19 CFR 182.2(b) for the USMCA confidentiality regulations setting forth the legally permitted disclosures that allow CBP to share the confidential information it receives from the public, including the disclosures CBP is authorized to make to other USMCA countries. Please also refer to the Agreement Between the United States of America, the United Mexican States, and Canada (USMCA) Implementing Regulations Related to the Marking Rules, Tariff-rate Quotas, and Other USMCA Provisions interim final rule (86 FR 35566), published in the Federal Register on July 6, 2021, for additional information regarding confidential information and the USMCA.

The USMCA country conducting the site visit is required to request permission in order to access the relevant records or facilities from the exporter, producer, or a person having capacity to consent on behalf of the exporter or producer, either prior to the site visit, if this would not undermine the effectiveness of the site visit, or at the time of the site visit. See USMCA Article 6.6.7(d). Pursuant to the Uniform Regulations regarding Origin Procedures, the USMCA country performing the site visit would inform the person from whom it is requesting permission, at the time of the request for permission, of the legal authority for the visit, the specific purpose of the visit, and the names and titles of the officials performing the visit. Pursuant to USMCA Article 6.6.7(e), if permission is denied or access to the records or facilities is denied, the site visit will not occur. If the exporter, producer, or person having capacity to consent on behalf of the exporter or producer is not able to receive the USMCA country officials to carry out the site visit, the site visit will be conducted on the following business day unless the USMCA country conducting the site visit agrees otherwise, or there is a valid reason that the site visit cannot occur at that time. An unsubstantiated reason or a reason that the USMCA country conducting the site visit does not deem acceptable may result in the consent for the site visit to be deemed denied, though the USMCA country conducting the site visit should give consideration to any reasonable alternative proposed dates. See USMCA Article 6.6.7(e).

On completion of a site visit, the USMCA country performing the site visit will, upon request of the host USMCA country or the exporter or producer, provide its relevant findings of the results of the site visit. See USMCA Article 6.6.8. Pursuant to USMCA Article 6.7, a USMCA country may deny a claim for preferential tariff treatment for a textile or apparel good for the reasons listed in USMCA Article 5.10; or, if pursuant to a site visit, the USMCA country has not received sufficient information to determine that the textile or apparel good qualifies for preferential tariff treatment; or, if the USMCA country is unable to conduct the site visit as access or permission for a site visit is denied, the USMCA country officials are prevented from completing the site visit, or the exporter or producer does not provide access to the relevant records or facilities during a site visit.

Under USMCA Article 6.6.11, if verifications of identical textile or apparel goods indicate a pattern of conduct by an exporter or producer of making false or unsupported representations that a good imported into the USMCA country qualifies for preferential tariff treatment, the USMCA country may withhold preferential treatment for identical textile or apparel goods imported, exported, or produced by that person until it is demonstrated to the USMCA country that the identical goods qualify for preferential tariff treatment.

Section 207(a)(2) of the USMCA Implementation Act (19 U.S.C. 4533(a)(2)) provides the Secretary of the Treasury authority to conduct a USMCA Article 6.6 site visit to verify whether the textile or apparel good qualifies for preferential tariff treatment under the USMCA or whether customs offenses are occurring or have occurred with respect to the good. Section 207(b) of the USMCA Implementation Act (19 U.S.C. 4533(b)(1)) sets forth the basis for issuing a negative determination of origin. Specifically, section 207(b)(1)(B)(iv) of the USMCA Implementation Act provides that, for a Chapter 6 site visit, a negative determination is a determination by the Secretary that access or permission for a site visit is denied; U.S. officials are prevented from completing a site visit on the proposed date and the exporter or producer does not provide an acceptable alternative date for the site visit; or the exporter or producer does not provide access to relevant documents or facilities during a site visit. Upon making a negative determination of origin, the Secretary may deny preferential tariff treatment under the USMCA. See 19 U.S.C. 4533(c)(1). The Secretary also may withhold preferential tariff treatment for identical goods based on a pattern of conduct. See section 207(c)(2) of the USMCA Implementation Act (19 U.S.C. 4533(c)(2)).

To address the specific requirements and procedures for filing a claim for USMCA preferential tariff treatment for a textile or apparel good subject to a TPL and to set forth the procedures related to USMCA Article 6.6 site visits, CBP has included a separate subpart H, Textile and Apparel Goods, in part 182 of title 19 of the CFR, that applies only to textile and apparel goods.

C. Automotive Goods

An automotive good is defined as either a covered vehicle (a passenger vehicle, light truck, or heavy truck), or a part, component, or material listed in Tables A.1, A.2, B, C, D, E, F, or G of the Appendix to Annex 4-B of the USMCA (also referred to as the “Automotive Appendix”). See section 202A(a)(4) and (a)(7) of the USMCA Implementation Act (19 U.S.C. 4532(a)(4) and (a)(7)). The definitions of passenger vehicle, light truck, and heavy truck are contained in the USMCA Automotive Appendix. In addition to the general rules of origin set forth in USMCA Chapter 4, the USMCA contains numerous product-specific rules of origin for automotive goods and additional provisions. These product-specific rules of origin and additional requirements are contained in the USMCA Automotive Appendix, including higher regional value content (RVC) thresholds than those in NAFTA, labor value content (LVC) requirement, steel purchasing requirement, and aluminum purchasing requirement. See USMCA Article 4.10 and Appendix to Annex 4-B. The importer, exporter, or producer who completes the certification of origin for a covered vehicle is certifying that the covered vehicle is an originating good that has complied with all the product-specific rules of origin, including the LVC, steel purchasing, and aluminum purchasing requirements.

Section 202A of the USMCA Implementation Act (19 U.S.C. 4532) sets forth the special rules for automotive goods, including definitions specific to automotive goods, the vehicle certification requirements for covered vehicles, the alternative staging regime provisions, the administration of the high-wage components of the LVC requirement by the Department of Labor (DOL), and the extra procedures for verification of the LVC requirement. Covered vehicles imported into the United States are only eligible for USMCA preferential tariff treatment if the producer of the covered vehicle (passenger vehicles, light trucks, and heavy trucks) submits three properly filed vehicle certifications to CBP. These vehicle certifications are the LVC certification, steel purchasing certification, and aluminum purchasing certification.

The product-specific rules of origin for automotive goods are set forth in General Note 11, HTSUS, Appendix A to part 182 of title 19 of the CFR (containing the Uniform Regulations regarding Rules of Origin), and the USMCA Automotive Appendix. To address the specific additional requirements and procedures applicable to claims for USMCA preferential tariff treatment for covered vehicles, CBP has included subpart I, Automotive Goods, in part 182 of title 19 of the CFR.

Steel Purchasing and Aluminum Purchasing Requirements

USMCA Article 6 of the Automotive Appendix sets forth the steel purchasing and aluminum purchasing requirements. In addition to the other product-specific rules of origin and requirements in USMCA Chapter 4, a covered vehicle imported into the United States is eligible for USMCA preferential tariff treatment only if the producer of the covered vehicle meets both the steel purchasing and the aluminum purchasing requirements, as set forth in USMCA Article 6 of the Automotive Appendix, section 17 of the Uniform Regulations regarding Rules of Origin, and General Note 11(k)(v), HTSUS, or, if the producer is subject to an alternative staging regime, as set forth in USMCA Articles 6 and 8 of the Automotive Appendix, section 19 of the Uniform Regulations regarding Rules of Origin, and General Note 11(k)(viii), HTSUS.

Generally, subject to certain exceptions and conditions, the steel purchasing and aluminum purchasing requirements provide that a passenger vehicle, light truck, or heavy truck is originating under the USMCA only if, during the calculation period specified, at least 70 percent, by value, of the vehicle producer's purchases, at the corporate level in the territories of one or more of the USMCA countries, of steel are of originating goods, and at least 70 percent, by value, of the vehicle producer's purchases at the corporate level in the territories of one or more of the USMCA countries of aluminum are of originating goods. See USMCA Article 6 of the Automotive Appendix and section 17(1) of the Uniform Regulations regarding Rules of Origin. In order to facilitate implementation of the steel and aluminum purchasing requirements in accordance with USMCA Article 6.3 of the Automotive Appendix, Table S of the Uniform Regulations regarding Rules of Origin contains the HS subheadings for the steel and aluminum, including structural steel or aluminum goods used in the production of covered vehicles, that are subject to the USMCA steel purchasing and aluminum purchasing requirements.

For purposes of determining whether the producer of a covered vehicle has met the steel purchasing and aluminum purchasing requirements, the producer may calculate the purchases of this steel and aluminum on the basis of the categories set forth in section 17(9) of the Uniform Regulations regarding Rules of Origin. The applicable calculation periods, over which the producer of a covered vehicle may calculate the purchases of steel or aluminum, are provided for in sections 16(4), 16(5) and 17(7) of the Uniform Regulations regarding Rules of Origin. The producer of a covered vehicle may choose different calculation periods for its steel purchasing calculation and its aluminum purchasing calculation. See section 17(10) of the Uniform Regulations regarding Rules of Origin.

A covered vehicle is eligible for USMCA preferential tariff treatment only if the producer of the covered vehicle provides a properly filed certification to CBP that the producer meets its steel purchasing and aluminum purchasing requirements, and the producer has information on record to support the calculations relied on for the certification. See section 202A(c)(2)(A) of the USMCA Implementation Act (19 U.S.C. 4532(c)(2)(A)). The producer of a covered vehicle is required to provide both a steel purchasing certification and an aluminum purchasing certification to CBP. CBP must ensure that both the steel purchasing certification and the aluminum purchasing certification do not contain omissions or errors before the certification is considered properly filed. See 19 U.S.C. 4532(c)(2)(B)(i). Section 202A(c)(2)(C) of the USMCA Implementation Act (19 U.S.C. 4532(c)(2)(C)) authorizes the Secretary of the Treasury to prescribe regulations for a producer of a covered vehicle to certify that it meets the steel purchasing and aluminum purchasing requirements to qualify for USMCA preferential tariff treatment. Accordingly, CBP is adding regulations to 19 CFR part 182, subpart I, setting forth the steel purchasing and aluminum purchasing requirements, and the requirements and procedures for submission of the steel purchasing certification and the aluminum purchasing certification.

LVC Requirement

USMCA Article 7 of the Automotive Appendix sets forth the LVC requirement. In addition to the other product-specific rules of origin and requirements in USMCA Chapter 4, a covered vehicle imported into the United States is eligible for USMCA preferential tariff treatment only if the producer of the covered vehicle meets the LVC requirement, as set forth in USMCA Article 7 of the Automotive Appendix, section 18 of the Uniform Regulations regarding Rules of Origin, and General Note 11(k)(vi), HTSUS, or, if the producer is subject to an alternative staging regime, as set forth in USMCA Articles 7 and 8 of the Automotive Appendix, section 19 of the Uniform Regulations regarding Rules of Origin, and General Note 11(k)(viii), HTSUS. The applicable calculation periods, over which the producer of a covered vehicle may calculate the LVC, are provided for in sections 16(4), 16(5), and 18(19) (note only the calculation periods in section 18(19) are referenced in the DOL interim regulations at 29 CFR part 810) of the Uniform Regulations regarding Rules of Origin.

The LVC requirement is administered by both CBP and DOL. Section 202A of the USMCA Implementation Act (19 U.S.C. 4532) prescribes CBP's and DOL's roles in implementing and administering the LVC requirement. Each agency has distinct areas of responsibility and CBP will work in conjunction with DOL to review the LVC certification and to perform verifications of covered vehicles that involve the LVC requirement. Pursuant to section 202A of the USMCA Implementation Act (19 U.S.C. 4532), DOL is responsible for implementing and administering the high-wage components of the LVC requirement, which include the wage components of the high-wage material and manufacturing expenditures, the high-wage technology expenditures, and the high-wage assembly expenditures. CBP is responsible for determining whether a covered vehicle meets the LVC requirement generally, based on DOL's high-wage components analysis and CBP's analysis of the valuation and other components of the LVC calculation. CBP is solely responsible for determining whether a covered vehicle is an originating good qualifying for USMCA preferential tariff treatment. The DOL regulations that set forth the high-wage components of the LVC requirement and the applicable procedures are contained in 29 CFR part 810. The DOL and CBP regulations, including the requirements and procedures, are intended to operate in conjunction with each other in accordance with 19 U.S.C. 4532(c)(1) and (e). CBP's and DOL's roles in the implementation and the administration of the LVC requirement are described in more detail below.

A covered vehicle is only eligible for USMCA preferential tariff treatment if the producer of the covered vehicle provides a properly filed certification to CBP that the production of covered vehicles by the producer meets the LVC requirement, and the producer has information on record to support those calculations. See section 202A(c)(1)(A) of the USMCA Implementation Act (19 U.S.C. 4532(c)(1)(A)). For purposes of determining whether a covered vehicle meets the LVC requirement, the producer of the covered vehicle must calculate the LVC requirement pursuant to General Note 11(k)(vi), HTSUS, section 18 of the Uniform Regulations regarding Rules of Origin, the requirements for the high-wage components of the LVC requirement set forth in the DOL regulations at 29 CFR part 810, and these regulations.

The USMCA Implementation Act also sets forth CBP's and DOL's responsibilities with respect to the review of the LVC certification. The Secretary of Labor, in consultation with the Commissioner of CBP, must ensure that the LVC certification does not contain omissions or errors before the certification is considered properly filed. See 19 U.S.C. 4532(c)(1)(B)(i). Consistent with the USMCA Implementation Act and the DOL regulations, DOL's role in the LVC certification is limited to reviewing the high-wage components of the LVC certification for omissions or errors. Section 202A(c)(1)(C) of the USMCA Implementation Act (19 U.S.C. 4532(c)(1)(C)) authorizes the Secretary of the Treasury, in consultation with the Secretary of Labor, to prescribe regulations for a producer of a covered vehicle to certify that it meets the LVC requirement to qualify for USMCA preferential tariff treatment. On July 1, 2020, DOL promulgated its USMCA implementing regulations in an IFR published in the Federal Register (85 FR 39782), entitled “High-Wage Components of the Labor Value Content Requirements Under the United States-Mexico-Canada Agreement Implementation Act,” which added a new part 810 to title 29 of the CFR to address the requirements and establish procedures for vehicle producers to follow concerning the high-wage components of the LVC requirement. In this document, CBP is adding regulations to 19 CFR part 182, subpart I, setting forth the LVC requirement, and the requirements and procedures for submission of the LVC certification to CBP.

Alternative Staging Regime

The USMCA includes a standard staging regime for automotive good requirements to allow for a period of transition to lessen the burden on vehicle producers and grant them more time to meet the new requirements. Additionally, the USMCA Automotive Appendix includes provisions allowing vehicle producers to request an alternative staging regime to facilitate a longer period of transition to ensure that future production is able to meet the new requirements of the USMCA. The alternative staging regime differs from the standard staging regime by providing the vehicle producer with additional time, different phase-ins for certain product-specific rules of origin for automotive goods, and different threshold requirements.

While an alternative staging regime provides an alternative to certain product-specific rules of origin requirements for covered vehicles, it does not replace any other USMCA rules of origin or provisions of general applicability for covered vehicles claiming USMCA preferential tariff treatment. Specifically, USMCA Article 8 of the Automotive Appendix states that each USMCA country will provide that, for a period ending no later than five years after entry into force (July 1, 2025) or any other period provided for in the producer's approved alternative staging regime for passenger vehicles or light trucks and for a period ending no later than seven years after entry into force (July 1, 2027) for heavy trucks, covered vehicles may be originating under the USMCA pursuant to an alternative staging regime. An alternative staging regime is the application of the less stringent requirements of USMCA Article 8 of the Automotive Appendix to the production of covered vehicles for the duration of the alternative staging regime period to allow producers of such vehicles to bring production into full compliance with the more stringent requirements of USMCA Articles 2 through 7 of the Automotive Appendix. See 19 U.S.C. 4532(a)(1). As provided in USMCA Article 8.6 of the Automotive Appendix, a rule of origin applicable to a covered vehicle as a result of an alternative staging regime applies in place of any other rule of origin for that good.

Pursuant to General Note 11(k)(viii), HTSUS, including as may be further provided for in subchapter XXIII of chapter 99 of the HTSUS, and the Uniform Regulations regarding Rules of Origin, a covered vehicle may be originating pursuant to an alternative staging regime. Section 202A(d) of the USMCA Implementation Act (19 U.S.C. 4532(d)) sets forth the U.S. alternative staging regime. USTR, in consultation with the Interagency Committee on Trade in Automotive Goods established in Executive Order 13908 (February 28, 2020) (“Interagency Committee”), has the authority to set the alternative staging regime requirements, procedures, and criteria to submit petitions to use an alternative staging regime, as well as to review petitions to use an alternative staging regime, approve an alternative staging regime, approve requests for modifications of the petitions, as necessary, and make determinations that a vehicle producer subject to the alternative staging regime failed to meet the requirements of the alternative staging regime.

In accordance with 19 U.S.C. 4532(d)(1), on April 21, 2020, USTR published a notice in the Federal Register (85 FR 22238), entitled “Procedures for the Submission of Petitions by North American Producers of Passenger Vehicles or Light Trucks To Use the Alternative Staging Regime for the USMCA Rules of Origin for Automotive Goods,” providing guidance to vehicle producers seeking to request an alternative staging regime for the USMCA rules of origin for automotive goods. The Federal Register notice specified the vehicle producers that are eligible to petition for an alternative staging regime and the requirements that vehicle producers must comply with during and after the alternative staging regime.

CBP may deny USMCA preferential tariff treatment for claims where vehicle producers fail to meet the standard automotive good requirements without an authorized alternative staging regime, or a determination has been made that the producer fails to meet the requirements of the alternative staging regime as outlined by USTR in the Federal Register notice. An alternative staging regime for a passenger vehicle or light truck is valid for five years (in contrast to seven years for heavy trucks) after the USMCA's entry into force unless the vehicle producer requests a longer period and that longer period is accepted by USTR. In accordance with 19 U.S.C. 4532(d)(3)(B), USTR will maintain a public list of the names of vehicle producers it has authorized to use an alternative staging regime. If USTR subsequently determines pursuant to 19 U.S.C. 4532(d)(5) that a producer failed to meet the requirements of its alternative staging regime, USTR may remove the producer's name from the public list. In that instance, the producer's vehicles will no longer be eligible for USMCA preferential tariff treatment pursuant to the previously approved alternative staging regime and notwithstanding the finality of a liquidation of an entry, the importer of any covered vehicle of that producer will be liable for the duties, taxes, and fees that would have been applicable to that vehicle if USMCA preferential tariff treatment pursuant to the alternative staging regime had not been applied plus interest assessed on or after the date of entry and before the date of the USTR determination. See 19 U.S.C. 4532(d)(5)(A). After expiration of the alternative staging period, all claims for USMCA preferential tariff treatment for covered vehicles must meet the rules of origin set forth in USMCA Articles 2 through 7 of the Automotive Appendix.

Recordkeeping

As explained in more detail below in section III.D. of this IFR, section 206(a) of the USMCA Implementation Act amended 19 U.S.C. 1508 to implement the USMCA recordkeeping requirements. Certain amendments apply only to covered vehicles. Pursuant to section 206(a) of the USMCA Implementation Act (19 U.S.C. 1508(b)(4)(B)), any vehicle producer whose goods are the subject of a claim for USMCA preferential tariff treatment must make, keep, and pursuant to the rules and regulations promulgated by the Secretary of the Treasury and Secretary of Labor, render for examination and inspection records and supporting documents related to the LVC, steel purchasing, and aluminum purchasing requirements. The vehicle producer must retain these records and supporting documents for a period of at least five years after the date of filing of the vehicle certifications and render them for examination and inspection upon request. See 19 U.S.C. 1508(b)(5)(C)(ii). The DOL recordkeeping requirements related to the high-wage components for the LVC requirement for vehicle producers are located at 29 CFR part 810.

Any importer who claims USMCA preferential tariff treatment for a good imported into the United States must make, keep, and, pursuant to the rules and regulations prescribed by the Secretary of the Treasury and the Secretary of Labor, render for examination and inspection the records and supporting documentation related to the importation, all records and supporting documents related to the origin of the good if the importer completed the certification of origin, and the transshipment records. See 19 U.S.C. 1508(b)(4)(A). Since the vehicle certifications and any records and supporting documents related to the LVC, steel purchasing, and aluminum purchasing certifications are records related to the origin of the good under 19 U.S.C. 1508(b)(4)(A)(ii), an importer is only required to make, keep, and render for examination and inspection these records if the importer completed the certification of origin. The DOL recordkeeping requirements, related to the high-wage components of the LVC requirement, for importers making a claim for USMCA preferential tariff treatment for covered vehicles, are located at 29 CFR part 810.

Verifications

A USMCA country may conduct a verification of a covered vehicle pursuant to the general verification means, requirements, and procedures set forth in USMCA Article 5.9. Pursuant to section 202A(e)(1) of the USMCA Implementation Act (19 U.S.C. 4532(e)(1)), as part of a general verification conducted under USMCA Article 5.9 (19 U.S.C. 4533), the Secretary of the Treasury, in conjunction with the Secretary of Labor, may conduct a verification of whether a covered vehicle complies with the LVC requirement. The USMCA Implementation Act specifies the role of CBP and the role of DOL in a verification of a covered vehicle. DOL, in cooperation with the Secretary of the Treasury, will participate in any verification of the LVC requirement by verifying whether the production of covered vehicles by a producer meets the high-wage components of the LVC requirement, including the wage component of the high-wage material and manufacturing expenditures, the high-wage technology expenditures, and the high-wage assembly expenditures. See 19 U.S.C. 4532(e)(2). During a verification of a covered vehicle involving the LVC requirement, the Secretary of the Treasury will verify the components of the LVC requirement not covered by DOL and determine whether the producer has met the LVC requirement. See 19 U.S.C. 4532(e)(3). The USMCA Implementation Act also specifies the actions that DOL will take during a verification and the nature of the information that may be requested. See 19 U.S.C. 4532(e)(4). In accordance with these requirements, CBP is adding verification requirements and procedures to the regulations in 19 CFR part 182, subpart I, addressing verifications of covered vehicles involving the LVC requirement. These verification requirements will apply in addition to the general verification regulations in 19 CFR part 182, subpart G. Furthermore, the DOL regulations at 29 CFR part 810 set forth the parameters, requirements, and procedures for DOL's verification of the high-wage component of the LVC requirement.

III. Amendments to the Regulations

Pursuant to section 210(a) of the USMCA Implementation Act (19 U.S.C. 4535(a)), the Secretary of the Treasury has the authority to prescribe regulations as needed to implement the USMCA. Pursuant to this authority, this IFR codifies numerous key USMCA provisions implementing the USMCA for the United States. This IFR promulgates CBP regulations to implement the USMCA requirements and procedures trilaterally agreed to by the USMCA countries under the USMCA, the Uniform Regulations regarding the Rules of Origin, and the Uniform Regulations regarding Origin Procedures. Specifically, this IFR amends existing provisions and adds new provisions to the CBP regulations to implement the additional USMCA Chapter 1 general definitions; the remaining USMCA Chapter 2 drawback and duty-deferral program provisions; the USMCA Article 2.7 temporary admission of goods provisions; the USMCA Chapter 4 product-specific rules of origin for automotive goods; the USMCA Article 5.8 recordkeeping requirements for importers, exporters, and producers; the USMCA general origin verification requirements and procedures; the USMCA Article 5.10 determination of origin provisions; the USMCA Article 5.14 advance rulings requirements; the USMCA Article 5.15 review and appeal of determinations of origin and advance rulings provisions; the USMCA Chapter 6 product-specific rules of origin for textiles and apparel goods; and the USMCA Chapter 7 provisions related to customs administration and trade facilitation.

In order to provide transparency and facilitate their use, the majority of the USMCA implementing regulations are set forth in part 182 of title 19 of the CFR, entitled the United States-Mexico-Canada Agreement. Part 182 sets forth the USMCA preferential tariff treatment and other customs related provisions. This IFR amends part 182 to add regulations implementing remaining portions of USMCA Chapters 1, 2, 4, 5, and 6, as discussed above, to the existing part 182 regulatory framework. Additionally, this IFR makes amendments to other parts of title 19 of the CFR, including parts 10, 24, 113, 123, 141, 144, 163, and 174, to implement relevant provisions in USMCA Chapters 2, 5, 6, and 7.

All of the regulatory amendments made in this document implement the USMCA, the Uniform Regulations regarding Rules of Origin, and the Uniform Regulations regarding Origin Procedures, as trilaterally agreed to by the United States, Mexico, and Canada, into the CBP regulations. These regulatory amendments are also consistent with the USMCA Implementation Act (19 U.S.C. Chapter 29). The United States adopted the USMCA through the enactment of the USMCA Implementation Act, which provides CBP with the statutory authority to promulgate these additional USMCA implementing regulations appropriate to carry out the actions required by or authorized under the USMCA Implementation Act or proposed in the Statement of Administrative Action approved under 19 U.S.C. 4511(a)(2) to implement the USMCA, as required by Section 103(b)(1) of the USMCA Implementation Act (19 U.S.C. 4513(b)(1)).

A. Part 10

1. Section 10.31

Section 10.31 sets forth the temporary importations under bond (TIB) provisions for articles brought into the United States temporarily and claimed to be exempt from duty under Chapter 98, Subchapter XIII, HTSUS. Paragraph (f) of § 10.31 provides exceptions to the general rule that for temporary importations, a bond is required in an amount equal to double the duties and fees (or a larger amount as required by the Center of Excellence and Expertise (Center) director), which it is estimated the articles would accrue had all the articles covered by the entry been entered under an ordinary consumption entry.

USMCA Article 2.7, Temporary Admission of Goods, provides that each USMCA country must grant duty-free temporary admission for: (a) professional equipment, including equipment for the press or television, software, and broadcasting and cinematographic equipment, that is necessary for carrying out the business activity, trade, or profession of a person who qualifies for temporary entry; (b) a good intended for display or demonstration, including its component parts, ancillary apparatus and accessories; (c) commercial samples and advertising films and recordings; and (d) a good admitted for sports purposes, admitted from the territory of another USMCA country, regardless of its origin. See USMCA Article 2.7.1. Under USMCA Article 2.7.2, a USMCA country may condition the duty-free temporary admission of the above-mentioned goods on certain requirements. Under Article 2.7.2(d) of the USMCA, a USMCA country may also condition the duty-free temporary admission of one of the above-mentioned goods on the requirement that the good be accompanied by security in an amount no greater than 110 percent of the charges that would otherwise be owed on entry or importation, and releasable on exportation of the good. Section 10.31(f) currently provides that “the bond required to be given shall be in an amount equal to 110 percent of the estimated duties, including fees, determined at the time of entry.” Section 10.31(f) applies this 110 percent limitation to the goods listed in USMCA Article 2.7.1(a) through (d) when the goods are originating and applies to the goods listed in USMCA Article 2.7.1(a) and (c) when the goods are non-originating. Thus, CBP is adding a new last sentence to 19 CFR 10.31(f) to clarify that this 110 percent limitation also applies to the goods listed in USMCA Article 2.7.1(b) and (d) when the goods are non-originating. The new last sentence reads: “In the case of articles imported for sports purposes and articles intended for display or demonstration, if brought into the United States by a national of Canada or Mexico, the bond shall be without surety or cash deposit in an amount equal to 110 percent of the estimated duties and fees determined at the time of entry, if the entered article is not originating, within the meaning of General Notes 11 and 12, HTSUS, in the country of which the importer is a national.”

Pursuant to USMCA Article 2.7.2(a), another requirement that a USMCA country may condition the duty-free temporary admission of a good on is the good being imported by a national of another USMCA country who seeks temporary entry. Article 1.5 (Section B) of USMCA Chapter 1 defines “a national of the United States” as defined in the Immigration and Nationality Act. Additionally, a bond for customs duties must not be required for an originating good. See USMCA Article 2.7.2(d).

In accordance with these requirements, § 10.31(f) allows for the duty-free temporary importation of the remaining above-mentioned articles without a bond if the articles qualify as originating. Section 10.31(f) currently states that, in the case of professional equipment necessary for carrying out the business activity, trade or profession of a business person, equipment for the press or for sound or television broadcasting, cinematographic equipment, articles imported for sports purposes and articles intended for display or demonstration, if brought into the United States by a resident of Canada or Mexico and entered under Chapter 98, Subchapter XIII, HTSUS, no bond or other security will be required if the entered article is an originating good. For this purpose, an originating good is defined as originating within the meaning of certain general notes of the HTSUS listed in § 10.31(f), in the country of which the importer is a resident.

In accordance with USMCA Article 2.7.2(a), CBP is revising the sixth sentence of 19 CFR 10.31(f) to require that the article being brought into the United States be brought in by a national of Canada or Mexico, as opposed to a resident of Canada or Mexico, to qualify as originating goods. Additionally, CBP is revising the sixth sentence of 19 CFR 10.31(f) to add General Note 11, HTSUS, to the list of applicable general notes.

Finally, CBP is revising 19 CFR 10.31(f) to clarify the general rule that, for temporary importations, a bond is required in an amount equal to double the duties and fees (or a larger amount as required by the Center of Excellence and Expertise (Center) director), which it is estimated the articles would accrue had all the articles covered by the entry been entered under an ordinary consumption entry. Fees and duties are distinct and are covered by separate articles in the General Agreement on Tariffs and Trade (GATT). Thus, CBP is revising the language in 19 CFR 10.31(f) from “duties, including fees” in both instances where it is referenced to “duties and fees” to clarify that fees are not included in duties.

2. Section 10.36a

Section 10.36a sets forth the provisions for the temporary importation of vehicles, pleasure boats, and aircraft brought into the United States by an operator for repair or alteration. Specifically, § 10.36a currently defines the phrase “for repair or alteration” with a reference to §§ 10.8, 10.490, 10.570, and 181.64 of title 19 of the CFR. The definition of “repairs or alterations” in §§ 10.490, 10.570, and 181.64 of title 19 of the CFR provides that “repairs or alterations” means restoration, addition, renovation, re-dyeing, cleaning, re-sterilizing, or other treatment that does not destroy the essential characteristics of, or create a new or commercially different good from, the good exported from the United States. This definition of “repairs or alterations” is included in 19 CFR 182.112, which contains the rules that apply for purposes of obtaining duty-free treatment of goods returned after repair or alteration in Canada or Mexico under the USMCA. CBP has decided that, rather than adding additional cross-references in § 10.36a to § 182.112 and the other relevant FTA regulations, CBP will add the definition of “repair or alteration” to § 10.36a to make it more transparent to the public. Thus, CBP is revising § 10.36a to remove the cross-references and to add the text of the definition of “repairs or alterations.”

3. Section 10.41a

Pursuant to section 322(a) of the Tariff Act of 1930, as amended (19 U.S.C. 1322(a)), vehicles and other instruments of international traffic, of any class specified by the Secretary of the Treasury, shall be excepted from the application of the customs laws to the extent that such terms and conditions are prescribed in regulations or instructions. Sections 10.41, 10.41a, and 10.41b of title 19 of the CFR set forth the qualifications for designating instruments of international traffic (IITs) and the conditions under which they may be released without entry or the payment of duty. Section 10.41a(a)(1) designates lift vans, cargo vans, shipping tanks, skids, pallets, caul boards, and cores for textile fabrics, arriving (whether loaded or empty) in use or to be used in the shipment of merchandise in international traffic as “instruments of international traffic.” The Commissioner of CBP is also authorized, under § 10.41a(a)(1), to designate additional articles or classes of articles as instruments of international traffic. CBP has repeatedly held that to qualify as an instrument of international traffic, the article must be a substantial container or holder.

A container that is designated as an instrument of international traffic is deemed to remain in international traffic provided that the container exits the United States within 365 days of the date it was admitted. See 19 CFR 10.41a(g)(1). When such a container does not exit the United States within 365 days of the date on which it is admitted, it shall be considered to have been removed from international traffic and an entry for consumption must be made. See 19 CFR 10.41a(g)(3).

Currently, § 10.41a(g) does not allow for an extension beyond the prescribed 365-day time period. Any instrument of international traffic that remains in the United States for a period exceeding 365 days triggers the entry requirement imposed by § 10.41a(g)(3). However, USMCA Article 2.7.11 specifically requires that each USMCA country must extend the timeframe for temporary admission of a shipping container or other substantial holder beyond the period initially fixed at the request of the person concerned. Accordingly, CBP is revising 19 CFR 10.41a(g)(1) to allow CBP to grant an extension and permit the IIT container to remain in international traffic beyond the 365-day time period, at the request of the person who filed the application for release under § 10.41a(a)(1), when the container is designated as an instrument of international traffic and was admitted from Canada or Mexico. The request for extension should be submitted to CBP in the Automated Commercial Environment (ACE), prior to the end of the 365-day time period. The request must contain the container number, last arrival date, intended departure date, and the reason for delay in removing the container or holder from the United States. CBP will notify the individual who filed the application for release of the details of the extension in ACE.

CBP is also amending paragraph (g)(3) to clarify that a container that does not exit the United States by the date the extension expires shall be treated the same as a container, without an extension, that does not exit the United States within the prescribed 365-day time period. A container that is designated as an instrument of international traffic and granted an extension under paragraph (g)(1) will be considered to have been removed from international traffic and an entry for consumption must be made if the container does not exit the United States prior to the date of expiration of the extension granted.

4. Section 10.301

Subpart G of part 10 sets forth the provisions related to the United States-Canada Free Trade Agreement. Specifically, § 10.301 provides the scope and applicability of the United States-Canada Free Trade Agreement, including that the United States and Canada agreed to suspend operation of the Agreement from January 1, 1994. This suspension date was to coincide with the entry into force of NAFTA. With the simultaneous repeal of NAFTA (see section 601 of the USMCA Implementation Act) and the entry into force of the USMCA as of July 1, 2020, the United States and Canada have agreed to continue suspending operation of the United States-Canada Free Agreement.

Section 501(c) of the United States-Canada Free Trade Agreement Implementation Act of 1988 (Pub. L. 100-449; 19 U.S.C. 2112 note) sets forth the termination or suspension provisions of the United States-Canada Free Trade Agreement. In section 602 of the USMCA Implementation Act, Congress amended section 501(c)(3) of the United States-Canada Free Trade Agreement Implementation Act of 1988 to state that the United States and Canada agreed to suspend the operation of the United States-Canada Free Trade Agreement by reason of the entry into force of the USMCA until such time as the suspension of the United States-Canada Free-Trade Agreement may be terminated. Accordingly, CBP is revising 19 CFR 10.301 to add a reference to the USMCA to indicate that the United States-Canada Free Trade Agreement continues to remain suspended with the entry into force of the USMCA and to provide the public with the relevant citation to the USMCA regulations in part 182.

5. Technical Corrections in Part 10

The implementing legislation for the African Growth and Opportunity Act (AGOA) and the Caribbean Basin Economic Recovery Act (CBERA), as amended by the United States-Caribbean Basin Trade Partnership Act (CBTPA), trade preference programs contained the NAFTA rules of origin. See 19 U.S.C. 3721 and 19 U.S.C. 2702. Accordingly, the implementing regulations for these programs in part 10 of title 19 of the CFR, which followed the statutory language, contain numerous references to NAFTA. Subpart D of part 10 sets forth the textile and apparel articles under the AGOA provisions (see 19 CFR 10.211-10.217) and subpart E of part 10 contains the textile and apparel articles and the non-textile articles under the CBTPA provisions (see 19 CFR 10.221-10.237).

As stated above, on July 1, 2020, section 601 of the USMCA Implementation Act repealed the NAFTA Implementation Act and references to NAFTA became outdated. On December 27, 2020, section 602 of Title VI of the Appropriations Act set forth technical corrections to other laws, including AGOA and CBERA (as amended by CBTPA), which replaced the outdated references to NAFTA with references to the USMCA. See section 602(a) and (b) of Title VI of the Appropriations Act. These technical corrections are retroactively effective on July 1, 2020, the USMCA's entry into force date. See section 602(g) of Title VI of the Appropriations Act. Accordingly, CBP is amending §§ 10.212(l), 10.213(a)(8), 10.214(b), 10.214(c)(12), 10.222, 10.223(a)(7), 10.224(c)(12), 10.232, 10.233(b), and 10.237(b), which include various references to NAFTA (e.g., definitions for “NAFTA” in §§ 10.212, 10.222, and 10.232), to include accurate references to the USMCA in accordance with the technical corrections made to 19 U.S.C. 3721 and 19 U.S.C. 2702.

B. Part 24

1. Section 24.23

Section 24.23 provides the terms and conditions for merchandise processing fees. Paragraph (c) contains the exemptions. Specifically, paragraph (c)(3) states that the ad valorem, surcharge, and specific fees provided for under paragraphs (b)(1) and (b)(2) will not apply to goods originating in Canada or Mexico under NAFTA within the meaning of General Note 12, HTSUS.

The USMCA also provides a merchandise processing fee exemption. USMCA Article 2.16.3 states that no USMCA country shall adopt or maintain a customs user fee on an originating good, with footnote 3 further clarifying that this commitment only applies to the United States with respect to the merchandise processing fee. In accordance with this commitment, section 203 of the USMCA Implementation Act amended section 13031(b)(10)(B) of the Consolidated Omnibus Budget Reconciliation Act of 1985 (19 U.S.C. 58c(b)(10)(B)) to specify that no fee for the processing of merchandise may be charged for goods that qualify as originating goods under 19 U.S.C. 4531 or that qualify for duty-free treatment under USMCA Annex 6-A.

Accordingly, CBP is revising 19 CFR 24.23(c)(3) to clarify that originating goods and textile or apparel goods subject to a TPL, for which a claim for preferential tariff treatment under the USMCA is made, are also exempt from the merchandise processing fees. When the importer makes a claim for USMCA preferential tariff treatment, the ad valorem, surcharge, and specific fees provided for under § 24.23(b)(1) and (b)(2) do not apply to goods originating under the USMCA within the meaning of General Note 11, HTSUS (see also 19 U.S.C. 4531), or to textile or apparel goods subject to a TPL that qualify for preferential tariff treatment under § 182.82 (see also Annex 6-A of the USMCA), that are entered for consumption, or withdrawn from warehouse for consumption, on or after July 1, 2020.

2. Section 24.36

Section 24.36 sets forth the procedures and conditions under which a refund of excessive duties, taxes, fees, or interest will be due when discovered upon, or prior to, liquidation or reliquidation of an entry or reconciliation. Paragraph (a)(1) provides that the refund shall include interest on the excess money deposited with CBP and the dates that such interest shall start to accrue, including for proper claims filed under 19 U.S.C. 1520(d) and subpart D of part 181. Since the statutory authority for this regulation, 19 U.S.C. 1505, allows for interest on excess moneys to accrue for claims made under 19 U.S.C. 1520(d), CBP is removing the specific reference to subpart D of part 181. The addition of the cross-reference to subpart D of part 181, which contains the NAFTA post-importation claim provisions, unintentionally limited § 24.36 to apply only to NAFTA post-importation claims when 19 U.S.C. 1505 allows for interest on refunds on 19 U.S.C. 1520(d) claims.

C. Part 123

Section 123.0

Part 123 contains the special regulations pertaining to CBP procedures at the Canadian and Mexican borders including provisions governing reports of arrival, manifesting, unlading and lading, instruments of international traffic, shipments in transit through Canada or Mexico, commercial traveler's samples transiting the United States or Canada, baggage arriving from Canada or Mexico, and electronic information for rail and truck cargo in advance of arrival. Section 123.0 sets forth the scope of part 123 and provides the relevant cross-references to the other applicable parts of title 19 of the CFR that address CBP procedures for Canadian and Mexican goods. Accordingly, CBP is revising § 123.0 to add the applicable cross-reference to the USMCA regulations in part 182.

D. Part 163

Part 163, Recordkeeping, sets forth the recordkeeping requirements and procedures governing the maintenance, production, inspection, and examination of records. Pursuant to section 508 of the Tariff Act of 1930, as amended (19 U.S.C. 1508(a)), any owner, importer, consignee, importer of record, entry filer, or other party who imports merchandise into the customs territory of the United States, files a drawback claim, transports or stores merchandise carried or held under bond, or knowingly causes the importation or transportation or storage of merchandise carried or held under bond into or from the customs territory of the United States, or an agent of any of these parties, or a person whose activities require the filing of a declaration or entry or both, must make, keep, and render for examination and inspection certain records. The USMCA recordkeeping requirements are set forth in USMCA Article 5.8 and the Uniform Regulations regarding Origin Procedures. USMCA Article 5.8.1 provides the types of records that importers must maintain and the retention periods while Article 5.8.2 includes a list of records applicable exporters and producers must maintain and the retention periods. To implement these USMCA recordkeeping requirements, section 206 of the USMCA Implementation Act amended 19 U.S.C. 1508(b) and (e)(1) to add the recordkeeping requirements and penalty provisions that apply to USMCA exports and imports.

CBP is amending part 163, as applicable, to include these recordkeeping requirements. Also, as noted in the scope of part 163, § 163.0, which was previously amended in a prior rulemaking, additional provisions concerning records maintenance and examination applicable to U.S. importers, exporters, and producers under the USMCA are contained in part 182. If the importer, exporter, or producer who is required to maintain records pursuant to parts 163 and 182 does not maintain, or denies access to, the records or documentation required under 19 U.S.C. 1508, CBP may deny USMCA preferential tariff treatment. Failure to comply with these recordkeeping requirements by U.S. importers, exporters, or producers may result in the imposition of penalties under 19 U.S.C. 1508(e)(1).

1. Exporter and Producer Recordkeeping Responsibilities

In accordance with 19 U.S.C. 1508(a), the part 163 recordkeeping provisions generally do not apply to exporters and producers, with a few notable exceptions. These exceptions are set forth in § 163.2(c) and include applicable NAFTA exporters and USMCA exporters and producers. CBP, in a prior rulemaking, amended § 163.2(c)(2) to add USMCA exporters and producers who complete a certification of origin, or USMCA producers who provide a written representation, for a good exported from the United States to Canada or Mexico, to the list of persons required to maintain records in accordance with part 163. Accordingly, U.S. USMCA exporters and producers must maintain the required records pursuant to the requisite retention periods in part 163 and in the prescribed format as described in § 163.5. An exporter or producer who completes a certification of origin or a producer that provides a written representation must maintain all records necessary to demonstrate that the good is originating, including the records specified in USMCA Article 5.8.2(a), (b), and (c), for five years after the date on which the certification of origin was completed. See also 19 U.S.C. 1508(b)(2). To implement this USMCA requirement, CBP, in a prior rulemaking, added 19 CFR 182.21(c) requiring U.S. exporters or producers exporting from the United States to Canada or Mexico to maintain these records.

Additionally, in accordance with 19 U.S.C. 1508(b), CBP has promulgated recordkeeping requirements on foreign exporters and producers whose goods are imported into the United States under the USMCA. It is important to note that these requirements are set forth in 19 CFR part 182, not part 163, because the requirements are imposed on foreign exporters and producers whose goods are imported into the United States, and not on the U.S. exporters and producers covered by part 163. See 19 CFR 163.2(c)(2). These additional provisions concerning records maintenance and examination applicable to exporters and producers under the USMCA include 19 CFR 182.73(a)(2) and 182.74(c), which require exporters and producers subject to a verification to make the records available for inspection by a CBP official during the verification, 19 CFR part 182, subpart H, which requires that exporters and producers subject to a USMCA Article 6.6 site visit make certain records available, and 19 CFR part 182, subpart I, which establishes additional recordkeeping requirements for producers of covered vehicles whose vehicles are imported into the United States in accordance with 19 U.S.C. 1508(b)(4)(B), including the requirement in § 182.103 for vehicle exporters and producers to maintain records.

2. Importer Recordkeeping Responsibilities

USMCA Article 5.8.1 requires that an importer making a claim for USMCA preferential tariff treatment maintain certain records for a period of no less than five years from the date of importation of the good. In accordance with USMCA Article 5.8.1, 19 U.S.C. 1508(b)(4)(A) requires that any importer who claims preferential tariff treatment under the USMCA for a good imported into the United States must make, keep, and, pursuant to the regulations prescribed by the Secretary of the Treasury and the Secretary of Labor, render for examination and inspection: the records and supporting documentation related to the importation; all records and supporting documents related to the origin of the good, if the importer completed the certification of origin; and records and supporting documents related to transshipment.

To implement this USMCA requirement, CBP, in a prior rulemaking, added these importer recordkeeping requirements to 19 CFR 182.15. CBP also added 19 CFR 182.73(a)(2), which requires importers subject to a verification to make the records available for inspection by a CBP official during the verification. Importers making a claim for USMCA preferential tariff treatment for covered vehicles imported into the United States must meet the additional recordkeeping requirements set forth in subpart I of part 182, as described in more detail in section III.F., Subpart I—Automotive Goods, of this IFR, and must maintain any records related to the high-wage component of the LVC requirement as required by DOL pursuant to 29 CFR part 810. In accordance with 19 U.S.C. 1508(b)(4)(A)(ii), CBP's additional recordkeeping responsibilities for importers of covered vehicles are dependent on whether the importer completed the certification of origin. Specifically, as provided in § 182.104, importers who complete the certification of origin must maintain the vehicle certifications and all the records and supporting documents related to whether the covered vehicle is originating under the LVC, steel purchasing, and aluminum purchasing requirements while an importer who claims USMCA preferential tariff treatment for a covered vehicle based on a certification of origin completed by the exporter or producer must only maintain the records and supporting documents related to the vehicle certifications that are in the importer's possession.

CBP is amending part 163, as described below, to implement the recordkeeping requirements contained in 19 U.S.C. 1508(b)(4)(A), USMCA Article 5.8, the Uniform Regulations regarding Origin Procedures, and 19 CFR part 182.

a. Section 163.1

Pursuant to § 163.2(a), all importers must maintain, produce, and make the records available for inspection and examination as required under part 163. Section 163.1(a)(1) defines the terms “records,” for purposes of part 163, as any information made or normally kept in the ordinary course of business that pertains to any activity listed in § 163.1(a)(2). The term “records” includes any information required for the entry of merchandise (the (a)(1)(A) list) and other information pertaining to, or from which is derived, any information element set forth in a collection of information required by the Tariff Act of 1930, as amended, in connection with any activity listed in § 163.1(a)(2). Thus, CBP is amending § 163.1(a)(2) to redesignate paragraph (xviii) as (xix) and add a new paragraph (xviii) to include USMCA records in the list of activities. Specifically, the new paragraph (xviii) will provide for the maintenance of any documentation in support of a claim for preferential tariff treatment under the USMCA pursuant to part 182, including the certification of origin. These records must be maintained by the importer pursuant to § 163.2(a) and the U.S. exporter or producer pursuant to § 163.2(c)(2). Vehicle certifications are not specified in § 163.1(a)(2)(xviii) because, as explained above, the importer is not required to maintain the vehicle certifications and supporting documentation in all instances. Instead, the specific requirements for importers of covered vehicles are addressed by adding 19 CFR 182.104.

b. Section 163.7

Section 163.7 describes the parties to whom CBP may issue a summons to appear and produce records or to give relevant testimony under oath or both, during the course of an investigation, audit, or other inquiry. This includes, among others, importers and any person who exported merchandise or knowingly caused merchandise to be exported to a NAFTA country. CBP is revising § 163.7(a)(2) to add any person who exported merchandise, or knowingly caused merchandise to be exported, to a USMCA country.

c. Appendix to Part 163—Interim (a)(1)(A) List

Section 509(a)(1)(A) of the Tariff Act of 1930, as amended by title VI of Public Law 103-182, commonly referred to as the Customs Modernization Act (19 U.S.C. 1509(a)(1)(A)), requires the production of records, within a reasonable time after demand by CBP if such record is required by law or regulation for the entry of the merchandise, whether or not CBP required its presentation at the time of entry. Pursuant to 19 U.S.C. 1509(e), CBP is required to identify and publish a list of the records and entry information that is required to be maintained and produced under subsection (a)(1)(A) of section 509 (19 U.S.C. 1509(a)(1)(A)). This list is commonly referred to as “the (a)(1)(A) list.” CBP is amending section IV of the appendix to part 163 (the (a)(1)(A) list) to add the USMCA documents to the list of records or information required for the entry of merchandise. Accordingly, CBP is adding a reference to 19 CFR 182.13, which sets forth the USMCA importer's obligations, to the (a)(1)(A) list to indicate that USMCA records that the importer may have in support of a USMCA claim for preferential tariff treatment, including the certification of origin, are required entry documents. Vehicle certifications are not included in the (a)(1)(A) list because, as explained above, the importer is not required to maintain the vehicle certifications and supporting documentation in all instances. CBP is also revising the § 10.307 listing in the (a)(1)(A) list to clarify that the United States-Canada Free Trade Agreement (CFTA) provisions continue to be suspended while USMCA remains in effect.

E. Part 174

Part 174, Protests, sets forth the general protest procedures pursuant to 19 U.S.C. 1514 for the administrative review of decisions of the port director and Center director. This part contains the requirements for the filing of protests, amendments of protests, review of protests, requests for accelerated disposition, and provisions dealing with further administrative review. Pursuant to 19 U.S.C. 1514(c)(3), a protest of a decision must be filed with CBP within 180 days after the date of liquidation or reliquidation, or if such a date is inapplicable, the date of the decision as to which protest is made.

In extending the protest rights under part 174 to USMCA importers and qualifying exporters or producers, CBP is fulfilling its USMCA commitments under Articles 5.15.1 and 7.15. Article 5.15.1 of the USMCA requires each USMCA country to grant substantially the same rights of review and appeal for determinations of origin to exporters and producers who completed a certification of origin as are granted to importers in its territory. Accordingly, an importer, or a qualified exporter or producer, may file a protest to contest a denial of USMCA preferential tariff treatment of a claim made at entry or a denial of a USMCA post-importation claim. Pursuant to 19 CFR 174.21, the Center director generally must review and act on a protest within two years from the date the protest was filed. If the protest is allowed in whole or in part, the goods will be eligible for USMCA preferential tariff treatment and CBP will refund the duties in accordance with § 174.29.

Article 7.15 of the USMCA addresses the review and appeal of customs determinations. Article 7.15 provides, in part, that the USMCA country must provide the protesting party its decision in the review or appeal in writing and include the reasons for the decision. Article 7.15 also requires that each USMCA country ensure that any person to whom a customs administration issues a determination has access to an administrative appeal or review by an administrative authority higher than or independent of the employee or office that issued the determination, and access to a quasi-judicial or judicial review or appeal made at the final level of administrative review. In accordance with Article 7.15, if the protest is denied, CBP will issue a notice of denial of a protest to any person filing a protest or his/her agent, with the exception of those in which accelerated disposition was requested and no action has been taken within 30 days. The notice of denial will include a statement of the reasons for the denial and a statement informing the protesting party of the right to file a civil action contesting the denial of the protest under 19 U.S.C. 1514. See 19 CFR 174.30. Any person whose protest has been denied, in whole or in part, may contest the denial by filing a civil action with the United States Court of International Trade in accordance with 28 U.S.C. 2632. See 19 CFR 174.31.

1. Section 174.12

Section 174.12 sets forth the procedures for filing a protest. Specifically, paragraph (a) states who may file a protest, including the importer, consignee, or their surety, any person paying or receiving a refund of any charge or exaction, any person seeking entry or delivery, any person filing for drawback, and any of these persons' authorized agents. USMCA Article 5.15.1 requires each USMCA country to grant substantially the same rights of review and appeal of determinations of origin to USMCA exporters and producers, who have completed a certification of origin for a good that is the subject of the determination of origin, as it provides to its importers.

Pursuant to 19 U.S.C. 1514(c)(2)(E), any USMCA exporter or producer of merchandise subject to a determination of origin as provided for under 19 U.S.C. 4531 may file a protest, if the exporter or producer completed and signed the certification of origin. Accordingly, CBP is amending § 174.12 by redesignating paragraph (a)(6) as paragraph (a)(7) and by adding a new paragraph (a)(6) stating that, with respect to a determination of origin under subpart G of part 182, any exporter or producer of the merchandise subject to the determination, who completed and signed the USMCA certification of origin, may file a protest. CBP is also amending the redesignated paragraph (a)(7) to allow any authorized agent of the exporter or producer described in paragraph (a)(6) to file a protest on their behalf, subject to the provisions of § 174.3.

While CBP will issue a determination of origin to USMCA exporters and producers of textile or apparel goods subject to TPLs, as explained in more detail in section III.F., Subpart H-Textile and Apparel Goods, of this IFR, as required under § 182.75(b), these exporters and producers may not file a protest of this determination of origin under part 174, unless the exporter or producer is also acting as the importer of record. As explained above, pursuant to 19 U.S.C. 1514(c)(2)(E), any USMCA exporter or producer of merchandise subject to a determination of origin as provided for under 19 U.S.C. 4531 may file a protest if the exporter or producer completed and signed the certification of origin. Since goods subject to TPLs are not originating goods, the certification of origin requirement does not apply to textile or apparel goods subject to a TPL claiming USMCA preferential tariff treatment. Accordingly, CBP has no statutory authority to allow these exporters or producers to file a protest under part 174.

Additionally, it is important to note that while USMCA exporters and producers may, to the extent described above, file a protest of a determination of origin, USMCA exporters and producers may not file a protest of a marking determination under the USMCA, unless the exporter or producer is also acting as the importer of record. As noted in the scope of part 174 (19 CFR 174.0), Canadian and Mexican exporters and producers seeking administrative review and appeal of adverse marking decisions under NAFTA had the right to appeal and such rights were set forth in part 181. These specific rights of review and appeal for marking determinations were explicitly contained in Article 510 of NAFTA. However, the USMCA does not provide any such rights. Section 209 of the USMCA Implementation Act struck the language from subsection (k) of section 304 of the Tariff Act of 1930, as amended (19 U.S.C. 1304(k)), that provided these specific petition rights, such as adverse marking decisions, for NAFTA exporters and producers. Thus, these specific rights and procedures are not provided for under the USMCA or the USMCA Implementation Act, or the relevant statutory or regulatory authority for protests in 19 U.S.C. 1514 and 19 CFR part 174. Accordingly, Canadian and Mexican exporters and producers may not request administrative review of and appeal of marking decisions under the USMCA.

2. Section 174.13

Section 174.13 sets forth the required contents of a protest. Paragraph (a)(9) currently requires the protestant to include a declaration as to whether the entry is the subject of drawback, or whether the entry has been referenced on a certificate of delivery or certificate of manufacture and delivery so as to enable a party to make such entry the subject of drawback. CBP is revising § 174.13(a)(9) to remove the references to the certificate of delivery and the certificate of manufacture and delivery because these certificates were eliminated by the Trade Facilitation and Trade Enforcement Act of 2015 (TFTEA) (Pub. L. 114-125, 130 Stat. 122, February 24, 2016). Accordingly, paragraph (a)(9) will only require a declaration as to whether the entry is the subject of drawback or if there is the ability for a party to make such entry the subject of drawback. CBP is also updating the list of cross-references in § 174.13(a)(9) to include the USMCA drawback provision, § 182.50, and the relevant part 190, Modernized Drawback, provision, § 190.81.

3. Section 174.15

Section 174.15 provides for the consolidation of separate protests relating to the same category of merchandise covered by an entry filed by different parties. Pursuant to 19 U.S.C. 1514(c)(1), only one protest may be filed for each entry of merchandise, except that where the entry covers merchandise of different categories, a separate protest may be filed for each category. Separate protests filed by different parties with respect to any one category of merchandise or with respect to a USMCA determination of origin under 19 U.S.C. 4531 are deemed to be part of a single protest. See 19 U.S.C. 1514(c)(1). Section 174.15(b) addresses the consolidation of multiple protests concerning a determination of origin for NAFTA transactions, if a NAFTA exporter or producer files one of the protests. In accordance with 19 U.S.C. 1514(c)(1), CBP is revising § 174.15(b) to include determinations of origin for USMCA transactions, if a USMCA exporter or producer described in § 174.12(a)(6) files one of the protests. Paragraph (b)(1) of § 174.15 covers USMCA transactions where all the interested parties who filed protests specifically submit written requests for consolidation. In these instances, all the interested parties are deemed to have waived their rights to confidentiality under § 182.2. Paragraph (b)(2) covers USMCA transactions where no such written requests for consolidation are submitted. In these instances, the interested parties are not deemed to have waived their rights to confidentiality under § 182.2. A separate notice of the decision will be issued to each interested party and must adhere to the USMCA confidentiality provisions set forth in § 182.2.

4. Section 174.22

Pursuant to 19 U.S.C. 1515(a), unless a request for an accelerated disposition of a protest is filed, CBP must review the protest and allow or deny the protest in whole or in part within two years from the date the protest is filed. Subsection (b) of 19 U.S.C. 1515 allows for a request for accelerated disposition of a protest to be submitted to CBP at any time concurrent with or following the filing of the protest, in accordance with 19 U.S.C. 1514. Section 174.22 of title 19 of the CFR sets forth the procedure for filing a request for an accelerated disposition of a protest.

Section 202A(e)(6)(A) of the USMCA Implementation Act (19 U.S.C. 4532(e)(6)(A)) provides that when a protest of a decision regarding the eligibility for USMCA preferential tariff treatment of a covered vehicle relates to DOL's analysis of the high-wage components of the LVC requirement, the Secretary of Labor will conduct an administrative review of the portion of the decision relating to such requirements and provide the results of that review to the CBP Commissioner. The DOL regulations at 29 CFR part 810 contain the administrative review procedures of DOL's initial analysis when notified by CBP of a protest involving DOL's analysis of the high-wage components of the LVC requirement. Pursuant to 29 CFR part 810, DOL will strive to issue a decision within one year from the date that it receives the notice of protest from CBP and will provide a determination containing the results of the administrative review to CBP.

Section 202A(e)(6)(B) of the USMCA Implementation Act (19 U.S.C. 4532(e)(6)(B)) explicitly states that an importer may not request accelerated disposition under 19 U.S.C. 1515 of a protest against a decision related to the DOL's analysis of the high-wage components for a covered vehicle's LVC requirement. Accordingly, CBP is revising 19 CFR 174.22(a) to limit the availability of the accelerated disposition of a protest. CBP is adding a sentence to § 174.22(a) stating that the accelerated disposition of a protest is not available for protests involving eligibility for USMCA preferential tariff treatment of a covered vehicle if the protest relates to the DOL's analysis of the high-wage components of the LVC requirement as described in 19 CFR part 182, subpart I, and 29 CFR part 810.

5. Section 174.29

Section 174.29 provides the conditions under which CBP allows or denies protests and describes the process through which the Center director will remit or refund any duties, charge, or exaction found to be collected in excess if the protest is allowed. Specifically, § 174.29 states that if a protest filed by an exporter or producer related to a NAFTA determination of origin is allowed in whole or in part, any monies found to have been collected in excess shall be refunded to the party who paid the monies even if such party did not file an appropriate and timely protest. CBP is revising this language to add a cross-reference to § 174.12(a)(6), which applies to protests filed by a qualified exporter or producer with respect to a USMCA determination of origin.

F. Part 182

Part 182, United States-Mexico-Canada Agreement, implements the duty preference and related customs provisions applicable to goods imported under the USMCA. CBP is amending part 182 of title 19 of the CFR (19 CFR part 182) to promulgate additional remaining USMCA implementing regulations related to USMCA Chapters 1, 2, 4, 5, and 6. Currently, part 182 contains a significant portion of the USMCA implementing regulations and a framework for the remaining subparts. The existing part 182 substantive provisions include Subpart A (General Provisions), which contains the scope, general definitions, and confidentiality provisions, Subparts B (Import Requirements), C (Export Requirements), D (Post-Importation Duty Refund Claims), numerous substantive provisions related to drawback in subpart E (Restrictions on Drawback and Duty-Deferral Programs), F (Rules of origin), G (Origin Verifications and Determinations), J (Commercial Samples and Goods Returned after Repair or Alteration), K (Penalties), and Appendix A, which contains the Uniform Regulations regarding Rules of Origin, which were trilaterally agreed upon by the United States, Mexico, and Canada.

This document amends part 182 to revise § 182.0 (Scope) and subpart G (Origin Verifications and Determinations), and to add general definitions in § 182.1, additional drawback and duty-deferral provisions in Subpart E (Restrictions on Drawback and Duty-Deferral Programs), and implementing regulations in subparts H (Textile and Apparel Goods) and I (Automotive Goods).

Subpart A—General Provisions

1. Scope

Section 182.0 contains the scope of part 182. Part 182 implements the duty preference and related customs provisions applicable to imported and exported goods under the USMCA. While § 182.0 was added in a prior rulemaking, CBP is revising the section to provide the relevant cross-references to the other parts of the CBP regulations that apply to the USMCA. Accordingly, CBP is adding a new sentence to § 182.0 to clarify that additional provisions applicable to the USMCA are contained in parts 10, 24, 163, 174, and 177 of title 19 of the CFR.

In addition to the CBP regulations in parts 10, 24, 163, and 174 that are being amended in this document, CBP is also including a cross-reference to part 177. Part 177, Administrative Rulings, allows CBP to issue rulings to importers and other interested parties. Applying the advance ruling requirements and procedures in part 177 of title 19 of the CFR (19 CFR part 177) to all advance rulings related to USMCA transactions fulfills CBP's commitment under USMCA Article 7.5 requiring each USMCA country to issue written advance rulings, prior to the importation of a good into its territory, regarding the treatment the good will receive at the time of importation. While no amendments to part 177 are necessary to implement USMCA Articles 5.14 and 7.5, CBP is including the cross-reference to part 177 in § 182.0 to clarify that part 177 applies to advance rulings related to USMCA transactions. CBP believes this clarification is needed since § 177.0 specifically excludes advance rulings related to NAFTA transactions from the scope of part 177. CBP wishes to further clarify that while producers are not explicitly granted the right to request a ruling pursuant to § 177.1(c), CBP considers a Canadian or Mexican producer of a good imported into the United States under the USMCA, a Canadian or Mexican producer of a material that is used in the production of a good imported into the United States under the USMCA, and a Canadian or Mexican exporter of a material used in the production of a good under the USMCA to be persons with a direct and demonstrable interest who have the right to request a ruling pursuant to § 177.1(c), in accordance with USMCA Article 7.5.2. Please note that CBP publishes its advance rulings on the Customs Rulings Online Search System (CROSS), available on the publicly accessible website, https://rulings.cbp.gov/home.

2. Definitions

Section 182.1 sets forth the general definitions applicable to part 182. Chapter 1 of the USMCA sets forth the general and country-specific definitions to be applied throughout the USMCA, unless otherwise noted. Since § 182.1 contains the definitions of the common terms that are used in multiple places in part 182, it includes definitions from 19 U.S.C. 4502, several Chapters of the USMCA, and the Uniform Regulations regarding Rules of Origin set forth in Appendix A to part 182. General definitions containing references to specific HTSUS subheadings, if these subheadings were trilaterally negotiated and agreed upon under the USMCA, contain additional language clarifying that the subheadings that apply are those HTSUS subheadings that were in effect on July 1, 2020, the date that the USMCA entered into force. Additional definitions that are not common terms throughout part 182 and are applicable only to the Uniform Regulations regarding Rules of Origin are set forth in Appendix A to part 182.

Subpart E—Restrictions on Drawback and Duty-Deferral Programs

Subpart E of part 182 (19 CFR 182.41-182.55) sets forth the provisions regarding drawback claims and duty-deferral programs, as provided for under Article 2.5 of the USMCA, and applies to any good that is a “good subject to USMCA drawback” within the meaning of 19 U.S.C. 4534. Drawback, as generally provided for in section 313 of the Tariff Act of 1930, as amended (19 U.S.C. 1313), is the refund or remission, in whole or in part, of certain duties, taxes, and fees imposed and paid under Federal law upon entry or importation. Article 1.5 of the USMCA defines a “duty deferral program” to include measures such as those governing foreign trade zones, temporary importations under bond, bonded warehouses, “maquiladoras,” and inward processing programs.

The requirements and procedures set forth in subpart E for USMCA drawback are in addition to the general definitions, requirements, and procedures for drawback claims set forth in part 190 of title 19 of the CFR, unless otherwise specified. Further, the requirements and procedures of subpart E are also in addition to those for manipulation, manufacturing, and smelting and refining warehouses contained in parts 19 and 144, for FTZs under part 146, and for temporary importations under bond in part 10.

CBP previously promulgated a significant portion of the USMCA implementing regulations for drawback and duty-deferral programs in subpart E of part 182 of title 19 of the CFR. Sections 182.41, 182.46, 182.49, 182.51, 182.52, and 182.54 in subpart E are unchanged from the prior rulemaking. In this document, CBP is revising § 182.42(c) to provide clarification regarding the USMCA requirements. The other specific regulatory amendments provided for in this document are, for the most part, the result of subsequent policy determinations and supplement the provisions in subpart E that were added in the prior rulemaking. Accordingly, CBP is also revising §§ 182.43, 182.45(c), 182.47, as appropriate, revising § 182.50(b), which was reserved in the prior rulemaking, and adding a new § 182.44(h) and (i). CBP is also adding §§ 182.48, Person entitled to receive drawback, and 182.53, Collection and waiver or reduction of duty under duty-deferral programs, to subpart E, which were not previously reserved in the prior rulemaking. Sections 182.48 and 182.53 generally follow the corresponding regulation in part 181, with some conforming and nomenclature changes made. However, with respect to the FTZ provisions in § 182.53, it should be noted that the USMCA Implementation Act did not include an exception to the rules of origin for goods produced in an FTZ, which was included for NAFTA in section 202 of the NAFTA Implementation Act and prevented a claim of U.S. origin on non-originating materials used in the production of a good when those goods are produced in an FTZ. This exception was enacted in subsequent legislation, the Appropriations Act, which was retroactive to July 1, 2020. Section 601(b) of Title VI of the Appropriations Act amended section 202 of the USMCA Implementation Act (19 U.S.C. 4531(c)(3)) to prohibit, under USMCA, producers from using non-originating materials in an FTZ manufacturing to claim U.S. origin.

Finally, CBP is adding a new section to subpart E, which was also not previously reserved in the prior rulemaking and for which there is no corresponding regulation in part 181. Section 182.55, Goods exported from duty-deferral programs that are not subject to USMCA drawback within the meaning of 19 U.S.C. 4534, is being added to subpart E to provide clarity regarding the timing of claims for when the importer or its agent is claiming that a good is not subject to USMCA drawback within the meaning of 19 U.S.C. 4534.

Subpart G—Origin Verifications and Determinations

Subpart G of part 182 (19 CFR 182.71-182.76) contains the general USMCA verification and determination of origin provisions. These regulations were promulgated during a prior rulemaking. CBP is amending certain sections of subpart G in this document to add the relevant cross-references for textile and apparel goods and for automotive goods.

Section 182.71 contains the applicability provision for subpart G. CBP is adding two sentences to § 182.71 to clarify that there are additional verification requirements and procedures applicable to automotive goods in subpart I and alternative verification means and procedures for textile and apparel goods in § 182.83 of subpart H.

Section 182.75 sets forth the determination of origin provisions. Specifically, § 182.75(c) contains the provisions that apply to negative determinations of origin when CBP intends to deny USMCA preferential tariff treatment. Paragraph (c)(2) contains the reasons that CBP may deny USMCA preferential tariff treatment as set forth in USMCA Article 5.10.2. CBP is amending § 182.75(c)(2) to reflect the application of the USMCA Article 5.10.2 reasons for denial related to textile and apparel goods and automotive goods to ensure that paragraph (c)(2) contains a comprehensive list of the reasons for denial with the appropriate cross-references.

Section 182.75(c)(4) describes when CBP will issue a negative determination of origin and the determination of origin contents. Currently, § 182.75(c)(4) states that, in addition to the contents of the determination of origin set forth in § 182.75(a), unless CBP determines that there is a pattern of conduct of false or unsupported representations pursuant to § 182.76, a negative determination of origin will provide the exporter or producer with the information necessary to file a protest as provided for in 19 U.S.C. 1514(e) and part 174. CBP is revising § 182.75(c)(4) to remove the language “unless CBP determines that a pattern of conduct of false or unsupported representations pursuant to § 182.76” to fulfill our commitment to USMCA Article 7.15. As stated above, Article 7.15 of the USMCA addresses the review and appeal of customs determinations. Article 7.15.2 provides, in part, that the USMCA country must provide each person to whom it issues an administrative determination with access to information on how to request reviews and appeals. Thus, to fulfill this USMCA commitment, CBP must provide all exporters and producers, who are issued a negative determination of origin, with the information necessary to file a protest. In practice, CBP has already been providing all importers, exporters, and producers issued a negative determination of origin with this information necessary to file a protest since the USMCA entered into force.

It is important to note that, as discussed above, while CBP will issue a determination of origin to USMCA exporters and producers of textile or apparel goods subject to TPLs as required under § 182.75(b), these exporters and producers may not file a protest of this determination of origin under part 174, in accordance with 19 U.S.C. 1514(c)(2)(E), unless the exporter or producer is also acting as the importer of record. Accordingly, since 19 U.S.C. 1514(e) only authorizes CBP to disclose the entry information necessary to file a protest to the exporters or producers referred to in 19 U.S.C. 1514(c)(2)(E), CBP will not provide exporters or producers of textile or apparel goods subject to TPLs with the information necessary to file a protest when issuing a negative determination under § 182.75(c)(4).

Subpart H—Textile and Apparel Goods

Subpart H of part 182 (19 CFR 182.81-182.83) contains the USMCA textile and apparel good provisions, as provided for in USMCA Chapter 6, including the TPL provisions and the site visit provisions. The applicable definitions, including the definition of a textile or apparel good, are set forth in § 182.1, which is the general definitions section of part 182.

1. Tariff Preference Level

A TPL is defined in § 182.1 to mean a quantitative limit for certain non-originating textile or apparel goods that may be entitled to preferential tariff treatment based on the goods meeting the requirements set forth in § 182.82. Section 182.82, Claim for preferential tariff treatment under tariff preference level, contains the TPL requirements and procedures. These regulations are in accordance with USMCA Annex 6-A, which as explained in detail above in Section II.B. of this IFR, governs the USMCA preferential tariff treatment of eligible non-originating textile or apparel goods subject to a TPL. As these goods are non-originating, the rules of origin set forth in General Note 11, HTSUS, and Appendix A to part 182 do not apply.

While a claim for USMCA preferential tariff treatment is typically made pursuant to § 182.11(b), a claim for preferential tariff treatment for textile or apparel goods subject to a TPL is made pursuant to § 182.82. Paragraph (a) of § 182.82, Basis of claim, sets forth the requirements that must be met for an importer to make a claim for USMCA preferential tariff treatment, including an exemption from the merchandise processing fee, for textile or apparel goods subject to a TPL, including that the goods be eligible for a TPL claim, that the annual quantitative limit has not been reached for the subject TPL, and that the claim is based on a certificate of eligibility. Paragraph (b), Goods eligible for TPL claims, lists the specific types of textile or apparel goods that are eligible for TPLs. These eligible goods and the quantitative limits that are eligible for TPLs are contained in U.S. Note 11, Subchapter XXIII, Chapter 98, HTSUS. Paragraph (c), Making a TPL claim, provides the procedure that an importer must follow to properly file a claim for USMCA preferential tariff treatment. A TPL claim must be filed as an entry type “02” as it is subject to quantitative restraints.

As a TPL claim is for non-originating textile or apparel goods, an importer who makes a claim for preferential tariff treatment, pursuant to § 182.82(c), is not required to submit a certification of origin, as otherwise required under § 182.12. Instead, an importer who makes a claim for preferential tariff treatment subject to a TPL, pursuant to § 182.82(c), must submit, at the request of CBP, a certificate of eligibility issued by an authorized official of the government of Mexico or Canada. The number assigned to the certificate of eligibility is required to be submitted to CBP when the TPL claim is filed in accordance with the procedures in paragraph (c). Paragraph (d), Certificate of eligibility, sets forth the requirements and procedures for submitting the certificate of eligibility.

Pursuant to USMCA Annex 6-A, Section C, an importer may make a claim for preferential tariff treatment of a good under a TPL at least one year after the good is imported, if the annual quantitative limit has not been reached and the other TPL requirements are met. While post-importation claims for USMCA preferential tariff treatment are otherwise filed in accordance with 19 U.S.C. 1520(d) and subpart D of part 182, post-importation claims for preferential tariff treatment for textile or apparel goods subject to a TPL are not. Under 19 U.S.C. 1520(d), CBP may reliquidate an entry to refund any excess duties paid at importation on a good qualifying for preferential tariff treatment under the rules of origin for certain enumerated trade agreements for which a claim for preferential tariff treatment was not filed at importation. Since goods that qualify for preferential tariff treatment subject to a TPL do not qualify as originating under the rules of origin, there is no statutory authority to apply 19 U.S.C. 1520(d) to these claims. Accordingly, paragraph (e), Post-importation claims, sets forth the right to make a post-importation claim for preferential tariff treatment within one year after the date of importation of the good pursuant to the filing procedures created for these post-importation claims in paragraph (e)(2). The post-importation claim must be filed with a certificate of eligibility dated the same calendar year that the textile or apparel goods were imported. Post-importation claims will not be granted if the quantitative limits for the subject TPL for the year the entry summary, or equivalent documentation, is accepted by CBP, have already been reached.

An importer making a TPL claim for USMCA preferential tariff treatment under § 182.82(c) must adhere to the recordkeeping requirements in § 182.15 and part 163. Section 182.15, Maintenance of records, requires an importer claiming USMCA preferential tariff treatment to maintain all records and documents that demonstrate that the good qualifies for preferential tariff treatment, for a minimum of five years from the date of importation of the good. For a TPL claim, these records and documents would include a copy of the certificate of eligibility.

Paragraph (f), Denial of preferential tariff treatment, sets forth the circumstances when CBP may deny preferential tariff treatment that are only applicable to TPLs. Additional reasons CBP may deny preference are set forth in § 182.75(c)(2). Paragraph (g), Verifications, notes that CBP will conduct verifications of goods subject to TPLs using the same verification means and procedures that CBP has the discretion to utilize for all textile and apparel goods. Specifically, CBP has the discretion to choose to conduct a verification of textile or apparel goods subject to TPLs pursuant to either the general verification means and procedures set forth in part 182, subpart G, or pursuant to the site visit procedures in § 182.83 of subpart H.

2. Textile and Apparel Goods Verification Procedures

Section 182.83, Verifications of textile and apparel goods, contains the requirements and procedures for a textile or apparel good verification conducted pursuant to a USMCA Article 6.6 site visit. As described in more detail above in Section II.B. of this IFR, for textile and apparel goods, CBP has two alternative means of conducting a verification. CBP may conduct a verification for purposes of determining whether a textile and apparel good qualifies for preferential tariff treatment using the USMCA Article 5.9 general verification means described in § 182.72(a) and the procedures set forth in subpart G of part 182. Alternatively, as described in § 182.83(a), CBP may conduct a site visit to the premises of the exporter or producer of textile or apparel goods in Mexico or Canada for the purpose of determining that a textile or apparel good qualifies for preferential tariff treatment or that customs offenses with regard to a textile or apparel good are occurring or have occurred. The term “customs offenses” is defined in § 182.1, which provides the general definitions that are applicable to part 182. Paragraph (b) of § 182.83, Verification of a material during a site visit, allows for the verification of a material, that is used in the production of a textile or apparel good, during a site visit.

Paragraph (c), Site visit procedures, sets forth the site visit procedures applicable to the exporter or producer in Mexico or Canada whose premises CBP is going to visit during the site visit. Pursuant to USMCA Article 6.6, while CBP must notify the Canadian or Mexican customs administration of CBP's intention to conduct the visit prior to conducting a site visit in Canada or Mexico, CBP is not required to notify the exporter or producer whose premises are going to be visited prior to conducting the site visit if doing so will undermine the effectiveness of the verification. Paragraph (c) provides the consent requirements for the site visit, what happens when the exporter, producer, or person having the capacity to consent on behalf of the exporter or producer is not able to receive CBP on the initial date of the site visit, and the records and facilities that CBP may request access to during the site visit.

Paragraph (d), Right to request report of the site visit, provides the circumstances under which the exporter or producer may request that CBP send its relevant findings from the written report of the results of the site visit upon completion of the site visit. Paragraph (e), Denial of preferential tariff treatment, states the reasons that CBP may deny preferential tariff treatment to any textile or apparel good imported or produced by the person that is the subject of the verification.

Paragraph (f), Intent to deny and determination of origin, states that, after CBP has completed a site visit pursuant to § 182.83, CBP will issue a determination of origin in accordance with the requirements and procedures set forth in § 182.75, with the exception of § 182.75(c)(1). CBP is extending the notification of the intent to deny to more parties than is required under USMCA Article 6.6.9. Specifically, in accordance with § 182.75(c)(3), CBP will send an intent to deny to the importer, and the exporter or producer who is subject to the verification and either completed the certification of origin or provided information directly to CBP during the verification, subject to the confidentiality provisions in § 182.2. By cross-referencing the procedures set forth in § 182.75 in subpart H, including the intent to deny, CBP is ensuring that consistent determination of origin procedures and notifications are applied to all textile and apparel good verifications regardless of whether CBP chooses to conduct the verification pursuant to the USMCA Article 5.9 general verification procedures in subpart G or the site visit procedures in § 182.83. Paragraph (g), Pattern of conduct for textile or apparel goods, provides that CBP may withhold preferential tariff treatment to identical textile or apparel goods imported or produced by an exporter or producer when CBP determines that a pattern of conduct of false or unsupported representations exists.

Subpart I—Automotive Goods

Subpart I of part 182 (19 CFR 182.91-182.107) contains the USMCA automotive good provisions, as provided for in USMCA Chapter 4 and the Uniform Regulations regarding Rules of Origin. The applicable definitions, including the definitions of automotive good, covered vehicle, passenger vehicle, light truck, and heavy truck, are set forth in § 182.1, which is the general definitions section of part 182. Subpart I of part 182 applies to all automotive goods, including new and used covered vehicles, entered for consumption, or withdrawn from warehouse for consumption, on or after July 1, 2020. As noted in the applicability section of subpart I, § 182.91, covered vehicles claiming USMCA preferential tariff treatment must also meet the applicable requirements and follow the applicable procedures contained throughout part 182.

An importer may only make a claim for USMCA preferential tariff treatment if the covered vehicle complies with the USMCA rules of origin, including the product-specific rules of origin, and the additional requirements and procedures set forth in subpart I. Section 182.92, Claim for preferential tariff treatment for covered vehicles, specifies additional requirements that a covered vehicle must meet to make a claim for USMCA preferential tariff treatment, including the LVC requirement in § 182.93, the steel purchasing and aluminum purchasing requirements in § 182.94, and certifications attesting that the vehicle producer has complied with the LVC, steel purchasing, and aluminum purchasing certification requirements under §§ 182.95, 182.96, and 182.97. When making a claim for preferential tariff treatment under § 182.11(b) or § 182.32, an importer must also submit the unique identifier assigned by CBP for each of the LVC, steel purchasing, and aluminum purchasing certifications that form the basis for the covered vehicle's eligibility for preferential tariff treatment. These unique identifiers provide CBP with the ability to link the importation of the covered vehicle to the specific vehicle certifications that form the basis for the covered vehicle's eligibility for preferential tariff treatment and to demonstrate compliance with the vehicle certification requirements.

1. LVC, Steel Purchasing, and Aluminum Purchasing Requirements and Certifications

Sections 182.93, Labor value content (LVC) requirement, and 182.94, Steel purchasing and aluminum purchasing requirements, specify the requirements that must be met in General Note 11, HTSUS, and Appendix A to part 182, the applicable requirements if the producer is subject to an alternative staging regime, the calculation methods, and the choice of calculation periods. With respect to the LVC requirement, DOL is responsible for implementing and administering the high-wage components of the LVC requirement. The DOL regulations are contained in 29 CFR part 810. The producer of a covered vehicle must use the rules set forth in the DOL regulations, including for high-wage material and manufacturing expenditures, high-wage technology expenditures, and high-wage assembly expenditures, to properly calculate and determine the high-wage components of the LVC requirement. CBP determines whether a covered vehicle meets the LVC requirement generally based on an analysis of the high-wage components by DOL and CBP's determination of the components of the LVC requirement not governed by DOL, including the valuation and other components of the LVC calculation. CBP has sole authority to determine whether a covered vehicle qualifies for USMCA preferential tariff treatment.

Sections 182.95, Labor value content (LVC) certification, 182.96, Steel purchasing certification, and 182.97, Aluminum purchasing certification, contain the respective vehicle certification provisions. A covered vehicle is eligible for USMCA preferential tariff treatment only if the producer of the covered vehicle has certified to CBP that the production of the vehicle by the producer meets the LVC requirement, as described in § 182.93, the steel purchasing requirement, as described in § 182.94, and the aluminum purchasing requirement, as described in § 182.94. Unless specifically exempt under an alternative staging regime, all three vehicle certifications must be submitted to CBP and considered properly filed for a covered vehicle to qualify for USMCA preferential tariff treatment. The producer of the covered vehicle must have information in its possession that proves the accuracy of the calculations relied on for the certifications.

Paragraph (c) of §§ 182.95, 182.96, and 182.97 contains the data elements for each of the vehicle certifications. With respect to § 182.95(c)(1), CBP wishes to clarify that the alternative unique identification number of the producer's choosing must be a publicly available identifier, such as the examples provided in § 182.95(c)(1) and may not be an identification number generated internally by the producer's organization, such as a business partner ID or supplier code.

CBP has added several data elements in §§ 182.95(c), 182.96(c), and 182.97(c), in addition to the list of data elements contained in the U.S. Implementing Instructions issued on June 30, 2020 (and in the DOL regulations at 29 CFR part 810), for each of the vehicle certifications to ensure that CBP has all the information needed to establish that the producer meets the LVC, steel purchasing, and aluminum purchasing requirements. The data elements that have been added to the CBP regulations for the steel purchasing and aluminum purchasing certifications are: any Manufacturers Identification Code (MID), Federal Employer Identification Number (EIN), or Importer of Record number (IOR) associated with the producer; the vehicle category for which the steel or aluminum purchases are calculated, as specified in section 17(9) of Appendix A to part 182; and the name and address for each steel or aluminum producer, service center, or distributor relied upon in calculating the total value of purchases of steel or aluminum that qualify as originating goods and any MID, EIN, or IOR numbers associated with those entities. These enumerated data elements are necessary to clarify information in the certifications and consist of information that the certifier, who is completing the vehicle certification, must already have to certify compliance with the steel purchasing and aluminum purchasing requirements. CBP has also added LVC certification data elements to further align the LVC certification with the steel purchasing and aluminum purchasing requirements, to clarify information in the certification, and to collect information that the vehicle producer already has when making the underlying LVC calculation. The added LVC certification data elements are: the name, title, and contact information of the certifier (the person completing the LVC certification); the LVC calculation used to determine that the production of the covered vehicles meets the LVC requirement in General Note 11(k)(vi), HTSUS, 19 CFR 182.93(c), and Appendix A to part 182 including the resulting LVC percentage; and the authorized certifier's signature, date signed, and certifying statement. An LVC certification submitted to CBP must include all the information in § 182.95(c) and the DOL regulations at 29 CFR part 810.

Any vehicle certification submitted to CBP pursuant to § 182.95(f), 182.96(f), or 182.97(f) on or after the delayed compliance date of May 19, 2025 must contain the full list of data elements in § 182.95(c), 182.96(c), or 182.97(c) and the DOL regulations at 29 CFR part 810, with vehicle certifications for covered vehicles subject to an exemption or different requirements under an alternative staging regime required to comply with the requirements set forth in § 182.95(b), 182.96(b), or 182.97(b), and § 182.106(c). Revised vehicle certifications resubmitted to CBP under the procedures set forth in § 182.95(i), 182.96(i), or 182.97(i), which were initially submitted to CBP prior to the IFR's delayed compliance date, are not required to contain the full list of data elements. Furthermore, vehicle producers are not required to request a modification of a properly filed certification submitted prior to the IFR's delayed compliance date, under § 182.95(k), 182.96(k), or 182.97(k), solely due to the absence of the full list of data elements in § 182.95(c), 182.96(c), or 182.97(c). However, any new, modified vehicle certification that the producer submits to CBP on or after the IFR's delayed compliance date, pursuant to § 182.95(k), 182.96(k), or 182.97(k), must include all the data elements in § 182.95(c), 182.96(c), or 182.97(c) for the entirety of the certification period, with vehicle certifications for covered vehicles subject to an exemption or different requirements under an alternative staging regime required to comply with the requirements set forth in § 182.95(b), 182.96(b), or 182.97(b) and § 182.106(c). Please see below for additional information regarding the resubmission and modification process.

In order to grant the trade additional time to adjust its business practices to comply with the new USMCA automotive good requirements, CBP, in accordance with its USMCA Phase I Implementation Policy, allowed vehicle producers until December 31, 2020 to submit the required vehicle certifications needed to receive preferential tariff treatment beginning July 1, 2020. However, following this initial submission, the submission date for vehicle certifications is based on each producer's chosen calculation period(s) under § 182.93(d) and (e) or § 182.94(c) and (d). Pursuant to §§ 182.95(f), 182.96(f), and 182.97(f), for any vehicle certification submitted to CBP on or after the delayed compliance date of May 19, 2025, the producer of the covered vehicle must submit the LVC, steel purchasing, and aluminum purchasing certifications to CBP through an authorized electronic data interchange system or other specified means at least 90 days prior to the beginning of the certification period. Vehicle certifications submitted to CBP prior to the IFR's delayed compliance date are not required to comply with the 90-day submission requirement. The IFR's delayed compliance date allows vehicle producers sufficient time to timely submit the vehicle certifications at least 90 days prior to the beginning of the certification period and to include the additional required data elements.

It is important to note that the calculation period does not necessarily align with the certification period. The calculation period is the period over which the LVC requirement was calculated or the qualifying steel or aluminum purchases were made for a given vehicle category. In contrast, the certification period is the period over which the vehicle certification is effective for the vehicles produced (or exported, if applicable) within that period for a given vehicle category. Since the certification period determines which vehicles are eligible for USMCA preferential tariff treatment, the certification period is the relevant period for determining when the vehicle producer must submit the vehicle certification. Different certification periods are applicable depending on the calculation period that the vehicle producer selects to calculate the LVC, steel purchasing, and aluminum purchasing requirements for U.S. imports. The producer may select from several different calculation periods, such as the previous fiscal year of the producer, previous calendar year, and the other calculation periods set forth in § 182.93(d) and (e) or § 182.94(c) and (d). If the producer relies on a calculation period based on its fiscal year, the producer must indicate in the vehicle certification that the calculation period corresponds to its fiscal year. A vehicle producer may choose different calculation periods for its LVC calculation, its steel purchasing calculation and its aluminum purchasing calculation. Paragraph (j) of §§ 182.95, 182.96, and 182.97 sets forth the applicable certification periods based on the calculation period that the producer chooses.

The producer of the covered vehicle must submit the LVC, steel purchasing, and aluminum purchasing certifications to CBP through an authorized electronic data interchange system or other specified means. See §§ 182.95(f), 182.96(f), and 182.97(f). Details on how to submit the certifications can be found at the CBP website at https://www.cbp.gov/trade/priority-issues/trade-agreements/free-trade-agreements/USMCA and https://trade.cbp.gov/USMCA/s/. Currently, vehicle producers can file vehicle certifications through a portal on the CBP website at https://trade.cbp.gov/USMCA/s/automotive-certification-request. If the USMCA portal is down, certifications can be emailed to USMCAautoRoO@cbp.dhs.gov. CBP will notify the public on our website at https://www.cbp.gov/trade/priority-issues/trade-agreements/free-trade-agreements/USMCA and https://trade.cbp.gov/USMCA/s/, and update the regulations, as needed, if the means of submission are updated at a later date.

After the producer submits the LVC, steel purchasing, and aluminum purchasing certification(s) to CBP, the certification(s) will be reviewed for omissions and errors. An omission would include, for example, the vehicle producer failing to include with its vehicle certification one of the data elements listed in § 182.95(c), 182.96(c), or 182.97(c). An error would include, for example, a vehicle certification that is based on the wrong type of information, such as calculating the producer's purchases of steel over a calculation period not provided for in § 182.94(c) and (d). For the LVC certification, in accordance with 19 U.S.C. 4532(c)(1)(B)(i), the Secretary of Labor, in consultation with the Commissioner of CBP, will ensure that the LVC certification does not contain omissions or errors before the certification is considered properly filed. CBP is solely responsible for ensuring that the steel purchasing and aluminum purchasing certifications do not contain omissions or errors before the certification is considered properly filed. See 19 U.S.C. 4532(c)(2)(B)(i).

Paragraph (g) of §§ 182.95, 182.96, and 182.97 details the review process for omissions and errors. If the vehicle certification is determined to be properly filed, the certification is effective for the certification period specified in paragraph (j). Upon receipt of a notification that an omission or error was discovered, the producer will have five business days to submit to CBP a revised vehicle certification, correcting the error or omission that CBP or DOL discovered or providing an explanation of why the producer believes that the certification contains no omissions or errors. The submission of this revised certification is an opportunity for the producer to correct the discovered error or omission or provide an explanation before a determination is made regarding whether the certification is properly filed. If the revised certification contains an omission or error or if no revised certification is submitted within the prescribed timeframe, CBP will provide written or electronic notification to the producer of the covered vehicle that the certification was not properly filed.

While the vehicle certification is being reviewed for omissions and errors, an importer may make a claim for USMCA preferential tariff treatment under § 182.11(b) or § 182.32 for such covered vehicles until the producer has received notice from CBP that the certification that forms the basis for the covered vehicle's eligibility for preferential tariff treatment has not been properly filed. As described in the U.S. Implementing Instructions, at this time, the review process for omissions and errors may take up to 120 days. Consequently, this provision facilitates trade by allowing importers to make claims for USMCA preferential tariff treatment while CBP and DOL, if applicable, are still reviewing the vehicle certification(s). If the producer receives notice that a certification has not been properly filed, the producer must send a notification, with a copy to CBP, to any known importers of the covered vehicle, of that determination within 30 days of receipt of the CBP notice. See 19 CFR 182.95(h), 182.96(h), and 182.97(h). If a vehicle certification is not properly filed, an importer, upon receipt of notification from the producer, must promptly and voluntarily correct any claims for covered vehicles for which that vehicle certification formed the basis for the vehicle's eligibility for preferential tariff treatment, pay any duties that may be due, and submit the required statement pursuant to § 182.11(c).

Within 10 business days of receiving the notification from CBP that the vehicle certification was determined to be not properly filed under paragraph (g), the producer may resubmit the certification in accordance with §§ 182.95(i), 182.96(i), and 182.97(i). This resubmission process allows the vehicle producer, after the initial vehicle certification was determined to be not properly filed, to submit a new vehicle certification for the same category and same calculation period. This new certification would undergo the same review for omissions and errors process that the initial certification underwent, as described in paragraph (g). The producer may resubmit a vehicle certification under §§ 182.95(i), 182.96(i), and 182.97(i) for the same category and same calculation period up to two times per certification period. During the resubmission period, after the vehicle certification has been determined to not be properly filed, an importer does not have a reasonable basis for claiming that the covered vehicle meets the product-specific rules of origin, and thus, an importer should not submit claims for USMCA preferential tariff treatment under § 182.11(b) or § 182.32. The importer may only submit a claim for USMCA preferential tariff treatment after the producer receives notice that the resubmitted certification that forms the basis for the covered vehicle's eligibility for preferential tariff treatment has been properly filed. An importer may make a post-importation claim, if it qualifies, under § 182.32, for covered vehicles entered for consumption, or withdrawn from warehouse for consumption, during the vehicle certification resubmission period when the certifications that form the basis for the covered vehicle's eligibility for preferential tariff treatment have subsequently been determined to be properly filed.

During the certification period, if there are any material changes to the information contained in the vehicle certification that would affect its validity, for example, changes to the vehicle certification period, vehicle category chosen, or the calculation period of LVC requirement and/or steel or aluminum purchases, the producer must request a modification of the properly filed certification pursuant to § 182.95(k), 182.96(k), or 182.97(k). This modification process, as described in paragraph (k), only applies to vehicle certifications that have been previously considered properly filed. If CBP determines that the new, modified certification is properly filed under paragraph (g) or (i), the new certification supersedes the former certification and the new certification is effective for the certification period specified in paragraph (j). Accordingly, the new, modified vehicle certification that the producer submits to CBP must include all the applicable information in §§ 182.95(c), 182.96(c), and 182.97(c) for the entirety of the certification period and should not be limited to the modification. Additionally, the producer must submit a list of the material changes to the information contained in the certification and an explanation as to why the modification is necessary with respect to the validity of the certification. Within 30 days of receiving notice that the new certification has been properly filed, the producer must send a notification, with a copy to CBP, to any known importers of that determination.

Section 182.98, Appeal of the determination that LVC, steel purchasing, or aluminum purchasing certification is not properly filed, sets forth the appeals process, following the review of the second resubmission of the vehicle certification pursuant to §§ 182.95(i)(2), 182.96(i)(2), and 182.97(i)(2), for the vehicle producer to appeal a determination that the LVC, steel purchasing, or aluminum purchasing certification is not properly filed. While CBP believes that it is unlikely that a vehicle producer will need to resubmit a vehicle certification twice and file an appeal, CBP is establishing this appeals process, pursuant to its general USMCA rulemaking authority in 19 U.S.C. 4535(a), to provide a recourse for appeal and a means for a vehicle producer to submit arguments to CBP explaining why it believes the vehicle certification should be considered properly filed. Once it has been determined that a vehicle certification has not been properly filed, the covered vehicle is not considered an originating good under the USMCA, and the importer may not make a claim for USMCA preferential tariff treatment. Given that the appeal of a determination that a vehicle certification is not properly filed is not a matter subject to protest under 19 U.S.C. 1514(a)(1) through (a)(7), neither the vehicle producer nor the importer may file a protest under 19 U.S.C. 1514 or part 174, if a claim for USMCA preferential tariff treatment of the covered vehicle has not yet been made when the determination is made. Since there is no existing recourse enabling the vehicle producer or the importer to appeal a determination that the vehicle certification is not properly filed in this scenario, CBP has established this new appeals process, which is limited to vehicle certifications. Section 182.98 contains the scope of the appeal, the procedures, and the applicable timelines. The appeal cannot be filed until both opportunities for resubmission of a vehicle certification pursuant to §§ 182.95(i)(2), 182.96(i)(2), and 182.97(i)(2) have been completed. When an appeal involves DOL's review of the LVC certification for omissions and errors, CBP will coordinate with DOL regarding the appeal, as necessary. An importer of the covered vehicle should not submit claims for USMCA preferential tariff treatment under § 182.11(b) or § 182.32 for covered vehicles until the producer has received notice that the certification that forms the basis for the covered vehicle's eligibility for preferential tariff treatment has been properly filed. At that time, if the vehicle certifications have been determined to be properly filed, the importer may make a post-importation claim, if it qualifies, under § 182.32.

2. Motor Vehicle Averaging

For the purpose of calculating the RVC or LVC of a covered vehicle, the producer of the vehicle may elect to average the RVC or LVC calculation. These averaging elections are described in § 182.100, Motor vehicle averaging elections. To elect RVC averaging, the producer must comply with all the RVC averaging provisions set forth in section 16 of Appendix A of part 182, including the averaging categories and averaging periods. To elect LVC averaging, the vehicle producer must comply with all the LVC averaging provisions set forth in section 18 of Appendix A of part 182, including the averaging categories. The LVC averaging periods are set forth in § 182.93(d) and (e). A producer who elects to average its RVC or LVC calculation must separately average covered vehicles that are subject to an alternative staging regime. The producer may not average its RVC or LVC across covered vehicles that are subject to an alternative staging regime and covered vehicles that are not subject to an alternative staging regime.

When filing an RVC averaging election, the averaging election must include the required data elements in § 182.100(d). CBP is discontinuing use of the motor vehicle averaging election form, CBP Form 447, which was required when filing an RVC averaging election under NAFTA, and instead allowing the RVC averaging election data elements to be provided to CBP in a free format. The LVC averaging election is a new election under USMCA. When filing an LVC averaging election, the averaging election must include the required data elements in § 182.100(e). Pursuant to § 182.100(f), a vehicle producer who files an RVC or LVC averaging election must submit, at the request of CBP, a cost submission reflecting the actual costs incurred in the production of the category of motor vehicles for which the election was made.

A producer of a covered vehicle who elects to average its RVC or LVC calculation must file an averaging election with CBP pursuant to § 182.100(c) at least 10 days before the first day of the producer's fiscal year during which the vehicles will be exported, or such shorter period as CBP may accept. The producer may request a shorter period by contacting CBP via email. Details on how to submit the averaging elections can be found at the CBP website at https://www.cbp.gov/trade/priority-issues/trade-agreements/free-trade-agreements/USMCA and https://trade.cbp.gov/USMCA/s/. Currently, vehicle producers can file the RVC or LVC averaging elections through a portal on the CBP website at https://trade.cbp.gov/USMCA/s/automotive-certification-request. If the USMCA portal is down, the averaging elections can be emailed to USMCAautoRoO@cbp.dhs.gov. CBP will notify the public on our website at https://www.cbp.gov/trade/priority-issues/trade-agreements/free-trade-agreements/USMCA, https://trade.cbp.gov/USMCA/s/, and update the regulations, as needed, if the means of submission are updated at a later date.

Section 182.101, Averaging for other automotive goods, provides the applicable provisions in Appendix A of part 182 governing the averaging of automotive parts and other vehicles. This regulation clarifies that the producer is not required to file an RVC averaging election when averaging the RVC of these automotive goods.

3. Required Year-End Reconciliation

Section 16(9) and section 17(11) of the Uniform Regulations regarding Rules of Origin, contained in Appendix A of part 182, require a year-end analysis of the actual costs of the RVC if the producer calculated the RVC based on estimated costs, and a year-end analysis of the actual purchases of steel or aluminum made over the calculation period if the producer calculated the steel or aluminum purchases on the basis of estimates. Depending on the certification period that a vehicle producer chooses, the vehicle certification may be based in whole or in part on projected costs or projected purchases. Section 182.102, Required year-end reconciliation to actual costs when estimated costs or purchases used, requires the producer of a covered vehicle, who has calculated the RVC or LVC of its vehicles or its steel or aluminum purchases on the basis of estimates, to conduct a reconciliation at the end of the producer's fiscal year to the actual costs incurred or the actual purchases made. CBP has added the LVC year-end reconciliation requirement to ensure that the producer has met all the applicable USMCA requirements during that period with actual, not projected, costs. Therefore, this year-end reconciliation is required irrespective of whether the producer filed an averaging election pursuant to § 182.100. If, based on the year-end reconciliation performed, the covered vehicle does not satisfy the RVC or LVC requirement on the basis of the actual costs, or the steel or aluminum purchasing requirement on the basis of the actual purchases, the producer must make the notifications contained in paragraph (b) that the vehicle is a non-originating good. In addition to the notifications required pursuant to sections 16(9) and 17(11) of Appendix A of part 182, CBP is also requiring the producer to notify CBP to ensure that CBP is aware that the producer did not meet the USMCA requirements for preferential tariff treatment.

4. Recordkeeping Requirements

Pursuant to section 206(a) of the USMCA Implementation Act (19 U.S.C. 1508(b)(4)(B)), any vehicle producer whose goods are the subject of a claim for USMCA preferential tariff treatment must make, keep, and pursuant to the rules and regulations promulgated by the Secretary of the Treasury and Secretary of Labor, render for examination and inspection records and supporting documents related to the LVC, steel purchasing, and aluminum purchasing requirements. Section 182.103, Producer and exporter recordkeeping responsibilities for records relating to LVC, steel purchasing, and aluminum purchasing requirements, sets forth the producer of the covered vehicle's recordkeeping responsibilities and the exporter who completed the certification of origin's recordkeeping responsibilities. The vehicle producer must make and keep, for a minimum of five years from the date that the vehicle certifications were submitted to CBP, the LVC certification, the steel purchasing certification, the aluminum purchasing certification, and all records and supporting documents necessary to demonstrate whether the covered vehicle meets the LVC, steel purchasing, and aluminum purchasing requirements. CBP encourages vehicle producers subject to an alternative staging regime to keep these records and supporting documentation for longer than the minimum five years required to demonstrate compliance with the LVC, steel purchasing and aluminum purchasing requirements should USTR later make a determination that the vehicle producer failed to meet the requirements for the alternative staging regime under 19 U.S.C. 4532(d)(5). The vehicle producer must also maintain any records related to the high-wage components of the LVC requirement as required by DOL pursuant to 29 CFR part 810. The records must be capable of being retrieved upon lawful request and must be produced to CBP or DOL upon request.

Pursuant to § 182.103(b), an exporter who completed the certification of origin for a covered vehicle must keep, for a minimum of five years from the date that the certification of origin was completed, the LVC certification, steel purchasing certification, aluminum purchasing certification, and all records and supporting documents to demonstrate whether the covered vehicle meets the LVC, steel purchasing, and aluminum purchasing requirements. The exporter must also maintain any records related to the high-wage components of the LVC requirement as required by DOL pursuant to 29 CFR part 810. The records must be capable of being retrieved upon lawful request and must be produced to CBP or DOL upon request.

CBP may deny USMCA preferential tariff treatment, as described in § 182.107, when vehicle producers or exporters do not meet these recordkeeping requirements.

Section 182.104, Importer's responsibility to maintain records relating to LVC, steel purchasing, and aluminum purchasing requirements, contains the importer of a covered vehicle's recordkeeping responsibilities. All importers claiming USMCA preferential tariff treatment, including importers of covered vehicles, are required to comply with the recordkeeping requirements in 19 CFR parts 163 and 182, and must also maintain any records related to the high-wage components of the LVC requirement as required by DOL pursuant to 29 CFR part 810. The extent of the importer's additional recordkeeping responsibilities for covered vehicles is contingent on whether the importer completed the certification of origin. If the claim for USMCA preferential tariff treatment is based on a certification of origin completed by the exporter or producer, the importer must maintain, for a minimum of five years from the date of importation of the covered vehicle, any records and supporting documents in the importer's possession relating to the vehicle certifications. If the claim for USMCA preferential tariff treatment is based on a certification of origin completed by the importer, the importer must maintain, in accordance with 19 U.S.C. 1508(b)(4)(A), for a minimum of five years from the date of importation of the covered vehicle, the vehicle certifications, and all records and supporting documents necessary to demonstrate whether the covered vehicle meets the LVC, steel purchasing, and aluminum purchasing requirements. These records must be maintained by importers as provided in § 163.5 and produced to CBP or DOL upon request. CBP encourages all importers who import vehicles subject to an alternative staging regime to keep the records and supporting documentation for longer than the minimum five years required to demonstrate compliance with the LVC, steel purchasing and aluminum purchasing requirements. These records and supporting documents will be valuable should USTR later make a determination that the vehicle producer failed to meet the requirements for the alternative staging regime under 19 U.S.C. 4532(d)(5).

5. Verifications

CBP will initiate and conduct verifications of automotive goods in accordance with the general verification and determination of origin provisions in subpart G of part 182. Section 182.105, Verification of automotive goods, contains additional verification provisions that are applicable for automotive good verifications, including when a verification involves the LVC requirement. CBP will conduct a verification of a covered vehicle involving the high-wage components of the LVC requirement in conjunction with DOL. Accordingly, the provisions in § 182.105 set forth DOL's and CBP's roles in the verification, the additional requirements that the importer, exporter, or producer must comply with, and any added procedures necessitated by DOL's involvement in the verification.

CBP will initiate all verifications of covered vehicles pursuant to the verification means in § 182.72(a), including a request for information, a questionnaire, and/or a verification visit. When CBP initiates a verification of a covered vehicle and the verification involves whether the covered vehicle meets the LVC requirement, CBP will notify the producer of the covered vehicle that CBP has initiated a verification of the covered vehicle and advise the producer whether the verification involves the high-wage components of the LVC requirement, necessitating DOL's involvement. DOL is responsible, pursuant to 19 U.S.C. 4532(e) and the DOL requirements and procedures in 29 CFR part 810, for conducting the verification of the high-wage components of the LVC requirement and determining whether the covered vehicle meets the high-wage components of the LVC requirement. CBP is responsible for verifying all other aspects of the LVC requirement, and is ultimately responsible for determining whether the covered vehicle meets the LVC requirement, the requirements in 19 CFR part 182, and whether the covered vehicle qualifies for USMCA preferential treatment.

During a verification of a covered vehicle, the importer, exporter, and producer must provide all records requested by CBP or DOL and make these records available for inspection by the appropriate CBP or DOL official as provided for in § 182.105(c). As stated in § 182.105(b), CBP or DOL also may conduct a verification of a part, component, or material that is used in the production of a covered vehicle. During the verification of such a part, component, or material, the producer of the part, component, or material must provide CBP or DOL with all the records requested and make these records available for inspection by the appropriate CBP or DOL official, and failure to do so may result in a determination that the part, component, or material is non-originating.

CBP will determine whether the covered vehicle meets the LVC requirement and qualifies for USMCA preferential tariff treatment based in part on DOL's determination on whether the covered vehicle complied with the high-wage components of the LVC requirement, and DOL's verification findings and analysis. CBP will then issue a determination of origin to the qualifying parties pursuant to § 182.75. An importer, exporter, or producer, who has the right to file a protest pursuant to § 174.12(a)(6), may protest a CBP determination of origin under 19 U.S.C. 1514 and part 174. When a protest involves DOL's analysis of the high-wage components of the LVC requirement, CBP will coordinate with DOL regarding the review of the protest. DOL is responsible, pursuant to 19 U.S.C. 4532(e)(6)(A), for conducting an administrative review of its initial analysis pursuant to its administrative review procedures in the DOL's regulations at 29 CFR part 810 and providing a determination containing the results of the administrative review to CBP. As explained in more detail in section III.E. of this IFR, CBP will review and act on the protest pursuant to the procedures and requirements set forth in part 174.

6. Alternative Staging Regime

As described in more detail above in section II.C. of this IFR, a covered vehicle may be originating pursuant to an alternative staging regime. Section 182.106, Alternative staging regime, sets forth the conditions under which a covered vehicle is eligible for USMCA preferential tariff treatment under an alternative staging regime. Pursuant to paragraph (c) of § 182.106, a producer of a covered vehicle is required to submit to CBP a separate vehicle certification that covers only those vehicles subject to the alternative staging regime under certain circumstances. If the terms of the alternative staging regime specifically exempt the producer from the LVC, steel purchasing, or aluminum purchasing requirement (including when the producer qualifies for NAFTA 403.6 treatment), then the producer must submit to CBP a vehicle certification for that LVC, steel purchasing, or aluminum purchasing requirement covering only those vehicles subject to the alternative staging regime. If the terms of the alternative staging regime contain different requirements from sections 13 through 18 of Appendix A to 19 CFR part 182, then the producer must submit to CBP a vehicle certification for that LVC, steel purchasing, or aluminum purchasing requirement that covers only those vehicles subject the alternative staging regime. This additional vehicle certification must meet the requirements set forth in §§ 182.95, 182.96, and 182.97, as applicable, with the exception of the certifying statement, and must contain the additional information, including the certifying statement, as set forth in paragraph (c) of this section.

7. Reasons for Denial of USMCA Preferential Tariff Treatment of Covered Vehicles

In addition to the general reasons for denial set forth in § 182.75(c)(2) of subpart G, CBP may deny a claim for USMCA preferential tariff treatment of covered vehicles for the additional reasons set forth in § 182.107, Denial of preferential tariff treatment of a covered vehicle. These reasons for denial relate specifically to the LVC, steel purchasing, and aluminum purchasing requirements, the vehicle certifications, and the additional recordkeeping requirements for covered vehicles. If CBP determines that one of these reasons for denial set forth in § 182.107 applies to a vehicle certification that forms the basis for a claim's eligibility for USMCA preferential tariff treatment, CBP may deny USMCA preferential tariff treatment for any claim which uses that vehicle certification as a basis for eligibility for USMCA preferential tariff treatment regardless of whether the importer lacks prior knowledge of the vehicle producer's failure to meet the LVC, steel purchasing, or aluminum purchasing requirements because of the unique nature of the vehicle certifications.

G. Other Conforming Amendments

CBP is also amending certain sections of title 19 of the CFR, including §§ 10.31(h), 113.62(a), 141.0a(a), 141.0a(f), 141.68(i), and 144.38(b), to add the appropriate cross-references to the USMCA drawback and duty-deferral program provisions alongside existing references to NAFTA duty-deferral and drawback provisions.

IV. Statutory and Regulatory Requirements

A. Administrative Procedure Act

Under the Administrative Procedure Act (APA) (5 U.S.C. 553), agencies generally are required to publish a notice of proposed rulemaking in the Federal Register that solicits public comment on the proposed regulatory amendments, considers public comments in deciding on the content of the final amendments, and publishes the final amendments at least 30 days prior to their effective date. This rule is exempt from APA rulemaking requirements pursuant to 5 U.S.C. 553(a)(1) as a foreign affairs function of the United States because it implements the preferential tariff treatment and customs related provisions of the USMCA, which is a specific trilateral agreement negotiated between the United States, Mexico, and Canada. This IFR implements trilaterally agreed upon provisions in the USMCA, the Uniform Regulations regarding the Rules of Origin, and the Uniform Regulations regarding Origin Procedures. The regulatory amendments promulgated in this IFR fulfill the United States' USMCA commitments. This IFR amends 19 CFR part 182 to add regulations implementing provisions from USMCA Chapters 1, 2, 4, 5, and 6, as well as the USMCA Uniform Regulations regarding the Rules of Origin and the Uniform Regulations regarding Origin Procedures. Additionally, this IFR makes the amendments to 19 CFR parts 10, 24, 113, 123, 141, 144, 163, and 174 to implement provisions from USMCA Chapters 2, 5, 6, and 7 as well as the USMCA Uniform Regulations regarding Origin Procedures. This IFR meets the U.S. commitments to the other USMCA countries, as agreed to in the USMCA, and fulfills our international obligations.

B. Executive Orders 12866 and 13563

Executive Order 12866 (Regulatory Planning and Review), as reaffirmed by Executive Order 13563 (Improving Regulation and Regulatory Review) and amended by Executive Order 14094 (Modernizing Regulatory Review), directs agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility.

Rules involving the foreign affairs function of the United States are exempt from the requirements of Executive Orders 12866, as amended by Executive Order 14094, and 13563. Because this rule involves a foreign affairs function of the United States by implementing a specific trilateral agreement negotiated between the United States, Mexico, and Canada, the rule is not subject to the provisions of Executive Orders 12866, as amended by Executive Order 14094, and 13563.

C. Congressional Review Act

Pursuant to the Congressional Review Act (5 U.S.C. 801, et seq.), the Office of Information and Regulatory Affairs (OIRA) designated this rule as a “major rule,” as defined by 5 U.S.C. 804(2).

D. Regulatory Flexibility Act

The Regulatory Flexibility Act (5 U.S.C. 601 et seq.), as amended by the Small Business Regulatory Enforcement and Fairness Act of 1996, requires an agency to prepare and make available to the public a regulatory flexibility analysis that describes the effect of a proposed rule on small entities (i.e., small businesses, small organizations, and small governmental jurisdictions) when the agency is required to publish a general notice of proposed rulemaking for a rule. Since a notice of proposed rulemaking is not necessary for this rule, CBP is not required to prepare a regulatory flexibility analysis for this rule.

E. Paperwork Reduction Act

The collection of information in this document was submitted to OMB for review in accordance with the requirements of the Paperwork Reduction Act (44 U.S.C. 3507). Approval and assigned OMB control number are pending. An agency may not conduct or sponsor, and a person is not required to respond to, a collection of information unless it displays a valid control number assigned by OMB. These regulations provide for a new collection of information for USMCA's automotive goods requirements. Vehicle producers will be required to submit three new vehicle certifications to CBP, including the labor value content (LVC) certification, the aluminum purchasing certification, and the steel purchasing certification. In addition, vehicle producers may submit motor vehicle averaging elections, including an averaging election for labor value content (LVC) and regional value content (RVC). This information is used by CBP to determine if vehicles imported from Canada and Mexico are entitled to preferential tariff treatment under USMCA.

The proposed information collection requirements will result in the following estimated burden hours:

Aluminum Purchasing Certification

Estimated Number of Annual Respondents: 25.

Estimated Number of Annual Responses per Respondent: 1.5.

Estimated Total Annual Responses: 37.

Estimated Time per Response: 2 hours.

Estimated Total Annual Burden Hours: 74.

Labor Value Content Certification

Estimated Number of Annual Respondents: 25.

Estimated Number of Annual Responses per Respondent: 1.5.

Estimated Total Annual Responses: 37.

Estimated Time per Response: 2 hours.

Estimated Total Annual Burden Hours: 74.

Steel Purchasing Certification

Estimated Number of Annual Respondents: 25.

Estimated Number of Annual Responses per Respondent: 1.5.

Estimated Total Annual Responses: 37.

Estimated Time per Response: 2 hours.

Estimated Total Annual Burden Hours: 74.

Labor Value Content Averaging Election

Estimated Number of Annual Respondents: 25.

Estimated Number of Annual Responses per Respondent: 1.

Estimated Total Annual Responses: 25.

Estimated Time per Response: 1 hour.

Estimated Total Annual Burden Hours: 25.

Regional Value Content Averaging Election

Estimated Number of Annual Respondents: 25.

Estimated Number of Annual Responses per Respondent: 1.

Estimated Total Annual Responses: 25.

Estimated Time per Response: 1 hour.

Estimated Total Annual Burden Hours: 25.

Comments concerning the collection of information and the accuracy of the estimated annual burden, and suggestions for reducing that burden, should be posted to the docket of this rulemaking or to reginfo.gov. Comments are specifically welcome on (a) whether the proposed collection of information is necessary for the proper performance of the mission of the agencies, and whether the information will have practical utility; (b) the accuracy of the estimate of the burden of the collections of information; (c) ways to enhance the quality, utility, and clarity of the information collection; (d) ways to minimize the burden of the information collection, including through the use of automated collection techniques or other forms of information technology; and (e) estimates of capital or start-up costs and costs of operation, maintenance, and purchase of services to maintain the information. Comments should be received on or before March 18, 2025.

Signing Authority

In accordance with Treasury Order 100-20, the Secretary of the Treasury delegated to the Secretary of Homeland Security the authority related to the customs revenue functions vested in the Secretary of the Treasury as set forth in 6 U.S.C. 212 and 215, subject to certain exceptions. This regulation is being issued in accordance with DHS Directive 07010.3, Revision 03, which delegates to the Commissioner of CBP the authority to prescribe and approve/sign regulations related to customs revenue functions.

Pete Flores, Senior Official Performing the Duties of the Commissioner, having reviewed and approved this document, has delegated the authority to electronically sign the document to the Director (or Acting Director, if applicable) of the Regulations and Disclosure Law Division of CBP, for purposes of publication in the Federal Register.

List of Subjects

19 CFR Part 10

Bonds, Exports, Imports, Reporting and recordkeeping requirements, Trade agreements.

19 CFR Part 24

Accounting, Claims, Exports, Freight, Harbors, Reporting and recordkeeping requirements, Taxes.

19 CFR Part 113

Common carriers, Exports, Freight, Laboratories, Reporting and recordkeeping requirements, Surety bonds.

19 CFR Part 123

Canada, Freight, International boundaries, Mexico, Motor carriers, Railroads, Reporting and recordkeeping requirements, Vessels.

19 CFR Part 141

Reporting and recordkeeping requirements.

19 CFR Part 144

Reporting and recordkeeping requirements, Warehouses.

19 CFR Part 163

Administrative practice and procedure, Exports, Imports, Penalties, Reporting and recordkeeping requirements.

CFR Part 174

Administrative practice and procedure.

19 CFR Part 182

Administrative practice and procedure, Canada, Exports, Mexico, Reporting and recordkeeping requirements, Trade agreements.

Amendments to the CBP Regulations

For the reasons stated above, U.S. Customs and Border Protection and the Department of the Treasury amend 19 CFR parts 10, 24, 113, 123, 141, 144, 163, 174, and 182 of title 19 of the Code of Federal Regulations as set forth below:

PART 10—ARTICLES CONDITIONALLY FREE, SUBJECT TO A REDUCED RATE, ETC.

1. The general and specific authority citations for part 10 continue to read as follows:

Authority: 19 U.S.C. 66, 1202 (General Note 3(i), Harmonized Tariff Schedule of the United States (HTSUS)), 1321, 1481, 1484, 1498, 1508, 1623, 1624, 4513.

* * * * *

Sections 10.41, 10.41a, 10.107 also issued under 19 U.S.C. 1322;

Sections 10.211 through 10.217 also issued under 19 U.S.C. 3721;

Sections 10.221 through 10.228 and §§ 10.231 through 10.237 also issued under 19 U.S.C. 2701 et seq.

* * * * *

2. In § 10.31, paragraphs (f) and (h) are revised to read as follows:

§ 10.31 Entry; bond.

* * * * *

(f) With the exceptions stated herein, a bond shall be given on CBP Form 301, containing the bond conditions set forth in § 113.62 of this chapter, in an amount equal to double the duties and fees, which it is estimated would accrue (or such larger amount as the Center director shall state in writing or by the electronic equivalent to the entrant is necessary to protect the revenue) had all the articles covered by the entry been entered under an ordinary consumption entry. In the case of samples solely for use in taking orders entered under subheading 9813.00.20, HTSUS, motion-picture advertising films entered under subheading 9813.00.25, HTSUS, and professional equipment, tools of trade and repair components for such equipment or tools entered under subheading 9813.00.50, HTSUS, the bond required to be given shall be in an amount equal to 110 percent of the estimated duties and fees, determined at the time of entry. If appropriate, a carnet, under the provisions of part 114 of this chapter, may be filed in lieu of a bond on CBP Form 301 (containing the bond conditions set forth in § 113.62 of this chapter). Cash deposits in the amount of the bond may be accepted in lieu of sureties. When the articles are entered under subheading 9813.00.05, 9813.00.20, or 9813.00.50, HTSUS without formal entry, as provided for in §§ 10.36 and 10.36a, or the amount of the bond taken under any subheading of Chapter 98, Subchapter XIII, HTSUS, is less than $25, the bond shall be without surety or cash deposit, and the bond shall be modified to so indicate. In addition, notwithstanding any other provision of this paragraph, in the case of professional equipment necessary for carrying out the business activity, trade or profession of a business person, equipment for the press or for sound or television broadcasting, cinematographic equipment, articles imported for sports purposes and articles intended for display or demonstration, if brought into the United States by a national of Canada or Mexico, or by a resident of Singapore, Chile, Morocco, Australia, El Salvador, Guatemala, Honduras, Nicaragua, the Dominican Republic, Costa Rica, Bahrain, Oman, Peru, the Republic of Korea, Colombia, or Panama and entered under Chapter 98, Subchapter XIII, HTSUS, no bond or other security will be required if the entered article is a good originating, within the meaning of General Notes 11, 12, 25, 26, 27, 28, 29, 30, 31, 32, 33, 34, and 35, HTSUS, in the country of which the importer is a national or resident, as applicable. In the case of articles imported for sports purposes and articles intended for display or demonstration, if brought into the United States by a national of Canada or Mexico, the bond shall be without surety or cash deposit in an amount equal to 110 percent of the estimated duties and fees determined at the time of entry, if the entered article is not originating, within the meaning of General Notes 11 and 12, HTSUS, in the country of which the importer is a national.

* * * * *

(h) After the entry and bond have been accepted, the articles may be released to the importer. The entry shall not be liquidated as the transaction does not involve liquidated duties. However, a TIB importer may be required to file an entry for consumption and pay duties, or pay liquidated damages under its bond for a failure to do so, in the case of merchandise imported under subheading 9813.00.05, HTSUS, and subsequently exported to Canada or Mexico (see § 181.53 or 182.53 of this chapter).

3. In § 10.36a, paragraph (a) is revised to read as follows:

§ 10.36a Vehicles, pleasure boats and aircraft brought in for repair or alteration.

(a) A vehicle (such as an automobile, truck, bus, motorcycle, tractor, trailer), pleasure boat, or aircraft brought into the United States by an operator of such vehicle, pleasure boat, or aircraft for repair or alteration (with repair or alteration defined as restoration, addition, renovation, re-dyeing, cleaning, re-sterilizing, or other treatment that does not destroy the essential characteristics of, or create a new or commercially different good from, the good imported into the United States) may be entered on the operator's baggage declaration, in lieu of formal entry and examination, and may be passed under subheading 9813.00.05, Harmonized Tariff Schedule of the United States (HTSUS), at the place of arrival in the same manner as passengers' baggage. When the vehicle, aircraft, or pleasure boat to be entered is being towed by or transported on another vehicle, the operator of the towing or transporting vehicle may make entry for the vehicle, aircraft or pleasure boat to be repaired or altered. The bond, prescribed by § 10.31(f), filed to support entry under this section, shall be without surety or cash deposit except as provided by this paragraph and paragraph (d) of this section. The examination may be made by an inspector who is qualified to determine the amount of such bond to be filed in support of the entry. The privilege accorded by this paragraph shall not apply when two or more vehicles, pleasure boats, or aircraft are to be entered by the same importer under subheading 9813.00.05, HTSUS, at the same time. In that event, the importer must file a formal entry supported by bond with surety or cash deposit in lieu of surety.

* * * * *

4. In § 10.41a, paragraphs (g)(1) and (3) are revised to read as follows:

§ 10.41a Lift vans, cargo vans, shipping tanks, skids, pallets, and similar instruments of international traffic; repair components.

* * * * *

(g)(1) Except as provided in paragraph (j) of this section, a container (as defined in Article 1 of the Customs Convention on Containers) that is designated as an instrument of international traffic is deemed to remain in international traffic provided that the container exits the United States within 365 days of the date on which it was admitted under this section. A container that is designated as an instrument of international traffic and admitted from Canada or Mexico is deemed to remain in international traffic beyond this 365-day time limit when CBP grants an extension, at the request of the person who filed the application for release under paragraph (a)(1) of this section, provided that the container exits the United States prior to the date of expiration of the extension granted. An exit from the United States in this context means a movement across the border of the United States into a foreign country where either:

(i) All merchandise is unladen from the container; or

(ii) Merchandise is laden aboard the container (if the container is empty).

* * * * *

(3) If the container does not exit the United States within 365 days of the date on which it is admitted under this section, or, by the date on which an extension granted under paragraph (g)(1) of this section expires, such container shall be considered to have been removed from international traffic, and entry for consumption must be made within 10 business days after the end of the month in which the container is deemed removed from international traffic. When entry is required under this section, any containers considered removed from international traffic in the same month may be listed on one entry. Such entry may be made at any port of entry. Under 19 U.S.C. 1484(a)(1)(B), the importer of record is required, using reasonable care, to complete the entry by filing with CBP the declared value, classification and rate of duty applicable to the merchandise. The importer of record must use the value of the container as determined in accordance with section 402, Tariff Act of 1930 (19 U.S.C. 1401a), as amended by the Trade Agreements Act of 1979 (TAA).

5. In § 10.212, paragraph (l) is revised to read as follows:

§ 10.212 Definitions.

* * * * *

(l) USMCA. “USMCA” means the Agreement between the United States of America, the United Mexican States, and Canada, entered into force by the United States, Canada and Mexico on July 1, 2020.

* * * * *

§ 10.213 [Amended]

6. In § 10.213(a)(8), remove the words “General Note 12(t)” and add, in their place, the words “General Note 11”.

§ 10.214 [Amended]

7. Amend § 10.214 as follows:

a. In paragraph (b), remove the word “NAFTA” from the table and add, in its place, the word “USMCA”; and

b. In paragraph (c)(12), remove the word “NAFTA” and add, in its place, the word “USMCA”.

8. In § 10.222, remove the definition for “NAFTA” and add, in alphabetical order, the definition for “USMCA”.

The addition reads as follows:

§ 10.222 Definitions.

* * * * *

USMCA. “USMCA” means the Agreement between the United States of America, the United Mexican States, and Canada, entered into force by the United States, Canada and Mexico on July 1, 2020.

* * * * *

§ 10.223 [Amended]

9. In § 10.223(a)(7), remove the words “Annex 401 of the NAFTA” and add, in their place, the words “Annex 4-B of the USMCA”.

§ 10.224 [Amended]

10. In § 10.224(c)(12), remove the word “NAFTA” and add, in its place, the word “USMCA”.

11. Amend § 10.232 as follows:

a. Remove the definition for “NAFTA”;

b. Amend the definition of “Preferential tariff treatment” by removing the words “Annex 302.2 of the NAFTA” and adding, in their place, the words “Annex 2-B of the USMCA”; and

c. Add, in alphabetical order, the definition for “USMCA”.

The addition reads as follows:

§ 10.232 Definitions.

* * * * *

USMCA. “USMCA” means the Agreement between the United States of America, the United Mexican States, and Canada, entered into force by the United States, Canada and Mexico on July 1, 2020.

12. In § 10.233, revise paragraphs(b) introductory text and (b)(1) to read as follows:

§ 10.233 Articles eligible for preferential treatment.

* * * * *

(b) Application of the USMCA rules of origin. In determining whether an article is a CBTPA originating good for purposes of paragraph (a) of this section, application of the provisions of General Note 11 of the HTSUS, and part 182, appendix A of this chapter, will be subject to the following rules:

(1) No country other than the United States and a CBTPA beneficiary country may be treated as being a party to the USMCA;

* * * * *

13. In § 10.237, revise paragraph (b) to read as follows:

§ 10.237 Verification and justification of claim for preferential tariff treatment.

* * * * *

(b) Importer requirements. In order to make a claim for preferential tariff treatment under § 10.235, the importer:

(1) Must have records that explain how the importer came to the conclusion that the article qualifies for preferential tariff treatment. Those records must include documents that support a claim that the article in question qualifies for preferential tariff treatment because it meets the applicable rule of origin set forth in General Note 11, HTSUS, and in part 182, appendix A of this chapter. A properly completed Certificate of Origin in the form prescribed in § 10.236(b) is a record that would serve this purpose;

* * * * *

14. Revise § 10.301 to read as follows:

§ 10.301 Scope and applicability.

The provisions of §§ 10.302 through 10.311 of this part relate to the procedures for obtaining duty preferences on imported goods under the United States-Canada Free-Trade Agreement (the Agreement) entered into on January 2, 1988, and the United States-Canada Free-Trade Agreement Implementation Act of 1988 (102 Stat. 1851). The United States and Canada agreed to suspend operation of the Agreement with effect from January 1, 1994, to coincide with the entry into force of the North American Free Trade Agreement (see part 181 of this chapter) and to continue suspending operation of the Agreement with the entry into force of the Agreement Between the United States of America, the United Mexican States, and Canada (USMCA) (see part 182 of this chapter) and, accordingly, the provisions of §§ 10.302 through 10.311 of this part apply only to goods imported from Canada that were entered for consumption, or withdrawn from warehouse for consumption, during the period January 1, 1989, through December 31, 1993. In situations involving goods subject to bilateral restrictions or prohibitions, or country of origin marking, other criteria for determining origin may be applicable pursuant to Article 407 of the Agreement.

PART 24—CUSTOMS FINANCIAL AND ACCOUNTING PROCEDURE

15. The general and specific authority citation for part 24 is revised to read as follows:

Authority: 5 U.S.C. 301; 19 U.S.C. 58a-58c, 66, 1202 (General Note 3(i), Harmonized Tariff Schedule of the United States), 1505, 1520, 1624; 26 U.S.C. 4461, 4462; 31 U.S.C. 3717, 9701; Pub. L. 107-296, 116 Stat. 2135 (6 U.S.C. 1 et seq.).

* * * * *

Section 24.23 also issued under 19 U.S.C. 4531; Sec. 892, Public Law 108-357, 118 Stat. 1418 (19 U.S.C. 58c); Sec. 32201, Public Law 114-94, 129 Stat. 1312 (19 U.S.C. 58c); Public Law 115-271, 132 Stat. 3895 (19 U.S.C. 58c).

* * * * *

Section 24.36 also issued under 26 U.S.C. 5001(c)(4), 5041(c)(7), 5051(a)(6), 6423; Public Law 115-97; Public Law 116-260; 134 Stat. 3046.

16. In § 24.23, paragraph (c)(3) is revised to read as follows:

§ 24.23 Fees for processing merchandise.

* * * * *

(c) * * *

(3) The ad valorem, surcharge, and specific fees provided for under paragraphs (b)(1) and (2) of this section will not apply to goods originating within the meaning of General Note 11, HTSUS (see also 19 U.S.C. 4531), or to goods that qualify for preferential tariff treatment under § 182.82 of this chapter (see also Annex 6-A of the USMCA), that are entered for consumption, or withdrawn from warehouse for consumption, on or after July 1, 2020. The ad valorem, surcharge, and specific fees will also not apply to goods originating in Canada or Mexico within the meaning of General Note 12, HTSUS, that are entered for consumption, or withdrawn from warehouse for consumption, prior to July 1, 2020 where such goods qualify to be marked, respectively, as goods of Canada or Mexico pursuant to Annex 311 of the North American Free Trade Agreement and without regard to whether the goods are marked. For qualifying goods originating in Mexico, the exemption applies to goods entered or released (as defined in this section) after June 29, 1999. Where originating goods or goods that qualify for preferential tariff treatment under § 182.82 of this chapter are entered or released with other goods that are not originating goods or are goods that do not qualify for preferential tariff treatment, the ad valorem, surcharge, and specific fees will apply only to those goods which are not originating goods or are goods that do not qualify for preferential tariff treatment.

* * * * *

17. In § 24.36, paragraph (a)(1) introductory text is revised to read as follows:

§ 24.36 Refunds of excessive duties, taxes, etc.

(a) * * *

(1) Except as otherwise provided in paragraphs (a)(1)(i) through (iii) of this section, the refund shall include interest on the excess moneys deposited with Customs, and such interest shall accrue from the date the duties, taxes, fees or interest were deposited or, in a case in which a proper claim is filed under 19 U.S.C. 1520(d), from the date such claim is filed, to the date of liquidation or reliquidation of the applicable entry or reconciliation. An example follows:

* * * * *

PART 113—CBP BONDS

18. The general authority citation for part 113 continues to read as follows:

Authority: 19 U.S.C. 66, 1623, 1624.

* * * * *

19. In § 113.62, revise paragraph (a)(1) to read as follows:

§ 113.62 Basic importation and entry bond conditions.

* * * * *

(a) Agreement to pay duties, taxes, and charges. (1) If merchandise is imported and released from CBP custody or withdrawn from a CBP bonded warehouse into the commerce of, or for consumption in, the United States, or under § 181.53 or 182.53 of this chapter is withdrawn from a duty-deferral program for exportation to Canada or Mexico or for entry into a duty-deferral program in Canada or Mexico, the obligors (principal and surety, jointly and severally) agree to:

* * * * *

PART 123—CBP RELATIONS WITH CANADA AND MEXICO

20. The general authority citation for part 123 continues to read as follows:

Authority: 19 U.S.C. 66, 1202 (General Note 3(i), Harmonized Tariff Schedule of the United States (HTSUS)), 1415, 1431, 1433, 1436, 1448, 1624, 2071 note.

* * * * *

21. Revise § 123.0 to read as follows:

§ 123.0 Scope.

This part contains special regulations pertaining to CBP procedures at the Canadian and Mexican borders. Included are provisions governing report of arrival, manifesting, unlading and lading, instruments of international traffic, shipments in transit through Canada or Mexico or through the United States, commercial traveler's samples transiting the United States or Canada, baggage arriving from Canada or Mexico including baggage transiting the United States or Canada or Mexico, and electronic information for rail and truck cargo in advance of arrival. Aircraft arriving from or departing for Canada or Mexico are governed by the provisions of part 122 of this chapter. The arrival of all vessels from, and clearance of all vessels departing for, Canada or Mexico are governed by the provisions of part 4 of this chapter. Fees for services provided in connection with the arrival of aircraft, vessels, vehicles and other conveyances from Canada or Mexico are set forth in § 24.22 of this chapter. Regulations pertaining to the treatment of goods from Canada or Mexico under the North American Free Trade Agreement are contained in part 181 of this chapter. Regulations pertaining to the treatment of goods from Canada or Mexico under the Agreement Between the United States of America, the United Mexican States, and Canada (USMCA) are contained in part 182 of this chapter. The requirements for the United States Postal Service to transmit advance electronic information for inbound international mail shipments are set forth in § 145.74 of this chapter.

PART 141—ENTRY OF MERCHANDISE

22. The general and specific authority citations for part 141 continue to read as follows:

Authority: 19 U.S.C. 66, 1448, 1484, 1498, 1624.

* * * * *

Section 141.68 also issued under 19 U.S.C. 1315;

* * * * *

23. In § 141.0a, paragraphs (a) and (f) are revised to read as follows:

§ 141.0a Definitions.

* * * * *

(a) Entry. “Entry” means that documentation or data required by § 142.3 of this chapter to be filed with the appropriate CBP officer or submitted electronically to the Automated Commercial Environment (ACE) or any other CBP-authorized electronic data interchange system to secure the release of imported merchandise from CBP custody, or the act of filing that documentation. “Entry” also means that documentation or data required by § 181.53 or 182.53 of this chapter to be filed with CBP to withdraw merchandise from a duty-deferral program in the United States for exportation to Canada or Mexico or for entry into a duty-deferral program in Canada or Mexico.

* * * * *

(f) Entered for consumption. “Entered for consumption” means that an entry summary for consumption has been filed with CBP in proper form, including electronic submission to the Automated Commercial Environment (ACE) or any other CBP-authorized electronic data interchange system, with estimated duties attached. “Entered for consumption” also means the necessary documentation has been filed with CBP to withdraw merchandise from a duty-deferral program in the United States for exportation to Canada or Mexico or for entry into a duty-deferral program in Canada or Mexico (see § 181.53 or 182.53 of this chapter).

* * * * *

24. In § 141.68, paragraph (i) is revised to read as follows:

§ 141.68 Time of entry.

* * * * *

(i) Exportation to Canada or Mexico of goods imported into the United States under a duty-deferral program defined in § 181.53 or 182.53 of this chapter. When merchandise in a U.S. duty-deferral program is withdrawn for exportation to Canada or Mexico or for entry into a duty-deferral program in Canada or Mexico, the date of entry is the date that the entry is required to be filed under § 181.53(a)(2)(iii) or 182.53(a)(2)(iii) of this chapter.

* * * * *

PART 144—WAREHOUSE AND REWAREHOUSE ENTRIES AND WITHDRAWALS

25. The general authority citation for part 144 continues to read as follows:

Authority: 19 U.S.C. 66, 1484, 1557, 1559, 1624.

* * * * *

26. In § 144.38, paragraph (b) is revised to read as follows:

§ 144.38 Withdrawal for consumption.

* * * * *

(b) Withdrawal for exportation to Canada or Mexico. A withdrawal for exportation to Canada or Mexico or for entry into a duty-deferral program in Canada or Mexico is considered a withdrawal for consumption pursuant to § 181.53 or 182.53 of this chapter.

* * * * *

PART 163—RECORDKEEPING

27. The general authority citation for part 163 continues to read as follows:

Authority: 5 U.S.C. 301; 19 U.S.C. 66, 1484, 1508, 1509, 1510, 1624.

28. Amend § 163.1(a)(2) as follows:

a. Redesignate paragraph (a)(2)(xviii) as paragraph (a)(2)(xix);

b. In newly redesignated paragraph (a)(2)(xix), remove the word “Customs” and add in its place the word “CBP”; and

c. Add a new paragraph (a)(2)(xviii).

The addition reads as follows:

§ 163.1 Definitions.

* * * * *

(a) * * *

(2) * * *

(xviii) The maintenance of any documentation in support of a claim for preferential tariff treatment under the Agreement Between the United States of America, the United Mexican States, and Canada (USMCA) pursuant to part 182 of this chapter, including the certification of origin.

* * * * *

§ 163.7 [Amended]

29. Amend § 163.7(a)(2) by adding the phrase “to a USMCA country as defined in 19 U.S.C. 4502(10) (see also part 182 of this chapter) or” after the phrase “knowingly caused merchandise to be exported,”.

30. Amend Appendix to part 163 as follows:

a. Revise the § 10.307 listing; and

b. Add a new listing under section IV in numerical order.

The revision and addition read as follows:

Appendix to Part 163—Interim (a)(1)(A) List

* * * * *

IV. * * *

† [§ 10.307 Documents, etc. required for entries under CFTA Certificate of origin of CF 353]

[† CFTA provisions are suspended while USMCA remains in effect. See part 182.]

* * * * *

§ 182.13 USMCA records that the importer may have in support of a USMCA claim for preferential tariff treatment, including the certification of origin.

* * * * *

PART 174—PROTESTS

31. The general authority citation for part 174 continues to read as follows:

Authority: 19 U.S.C. 66, 1514, 1515, 1624.

32. Amend § 174.12(a) as follows:

a. In paragraph (a)(5), remove the word “or” after the phrase “§ 181.11(a) of this chapter;”;

b. Redesignate paragraph (a)(6) as paragraph (a)(7);

c. Add a new paragraph (a)(6); and

d. In newly redesignated paragraph (a)(7), remove the number “5” and add in its place the number “6”.

The addition reads as follows:

§ 174.12 Filing of protests.

(a) * * *

(6) With respect to a determination of origin under part 182, subpart G, of this chapter, any exporter or producer of the merchandise subject to the determination of origin, if the exporter or producer completed and signed a certification of origin covering the merchandise as provided for in § 182.12 of this chapter; or

* * * * *

33. Revise § 174.13(a)(9) to read as follows:

§ 174.13 Contents of protest.

(a) * * *

(9) A declaration, to the best of the protestant's knowledge, as to whether the entry is the subject of drawback, or if there is the ability for a party to make such entry the subject of drawback (see §§ 181.50, 182.50, 190.81, and 191.81 of this chapter).

* * * * *

34. Revise § 174.15(b) to read as follows:

§ 174.15 Consolidation of protests filed by different parties.

* * * * *

(b) NAFTA or USMCA transactions. The following rules shall apply to a consolidation of multiple protests concerning a determination of origin under part 181, subpart G, or part 182, subpart G, of this chapter if one of the protests is filed by or on behalf of an exporter or producer described in § 174.12(a)(5) or (a)(6) of this part:

(1) If consolidation under paragraph (a) of this section is pursuant to specific written requests for consolidation received from all interested parties who filed protests under this part, those interested parties shall be deemed to have waived their rights to confidentiality as regards business information within the meaning of § 181.121 of this chapter for NAFTA transactions or within the meaning of § 182.2 of this chapter for USMCA transactions. In such cases, a separate notice of the decision will be issued to each interested party under this part but without regard to whether the notice reflects confidential business information obtained from one but not all of those interested parties.

(2) If consolidation under paragraph (a) of this section is done by the port director or Center director, before January 19, 2017, or the Center director on or after January 19, 2017, in the absence of specific written requests for consolidation from all interested parties who filed protests under this part, no waiver of confidentiality by those interested parties shall be deemed to have taken place. In such cases, a separate notice of the decision will be issued to each interested party and each such notice shall adhere to the principle of confidentiality set forth in § 181.121 of this chapter for NAFTA transactions or § 182.2 of this chapter for USMCA transactions.

35. In § 174.22, amend paragraph (a) by adding a sentence to the end of the paragraph.

§ 174.22 Accelerated disposition of protest.

(a) * * * Accelerated disposition of a protest is not available for protests involving eligibility for USMCA preferential tariff treatment of a covered vehicle if the protest relates to the Department of Labor's analysis of the high-wage components of the labor value content (LVC) requirements as described under § 182.105(e) of this chapter.

* * * * *

§ 174.29 [Amended]

36. In § 174.29, add the phrase “or (a)(6)” after the phrase “under § 174.12(a)(5)”.

PART 182—UNITED STATES-MEXICO-CANADA AGREEMENT

37. The general and specific authority citations for part 182 are revised to read as follows:

Authority: 19 U.S.C. 66, 1202 (General Note 3(i) and General Note 11, Harmonized Tariff Schedule of the United States (HTSUS)), 1624, 4513, 4535; Section 182.1 also issued under 19 U.S.C. 4502; Subpart D also issued under 19 U.S.C. 1520(d); Subpart E also issued under 19 U.S.C. 4534; Subpart 182.61 also issued under 19 U.S.C. 4531, 4532; Subpart G also issued under 19 U.S.C. 4533; Subpart H also issued under 19 U.S.C. 4533; Subpart I also issued under 19 U.S.C. 4532.

Subpart A—General Provisions

38. Amend § 182.0 by adding a sentence to the end of the paragraph to read as follows:

§ 182.0 Scope.

* * * Additional provisions applicable to the USMCA are contained in parts 10, 24, 163, 174, and 177 of this chapter.

39. Amend § 182.1 by adding the definitions for “Alternative staging regime”,

“Automotive good”, “Corporate level”, “Covered vehicle”, “Customs offenses”,

“DOL”, “Heavy truck”, “Light truck”, “Passenger vehicle”, “Tariff preference level”,

“Textile or apparel good”, “USMCA drawback”, “Vehicle certifications”, and “Wool apparel” in alphabetical order to read as follows:

§ 182.1 General definitions.

* * * * *

Alternative staging regime means the application of the requirements of section 19 of Appendix A to this part to the production of covered vehicles to allow producers of such vehicles to bring such production into compliance with the requirements of sections 13 through 18 of Appendix A to this part;

Automotive good means either a covered vehicle or a part, component, or material listed in Table A.1, A.2, B, C, D, E, F, or G of Appendix A to this part;

* * * * *

Corporate level. For an independent producer of a covered vehicle, its purchases or expenditures at the corporate level means the producer's total purchases or expenditures by value in one or more of the USMCA countries. For a subsidiary company whose financial information is included in the parent company's consolidated financial statements, its purchases or expenditures at the corporate level means the parent company's total purchases or expenditures by value in one or more of the USMCA countries. For purposes of the high-wage technology expenditures credit for the labor value content (LVC) requirement, corporate level must include all USMCA countries with such expenditures.

Covered vehicle means a passenger vehicle, light truck, or heavy truck;

* * * * *

Customs offenses means any act committed for the purpose of, or having the effect of, avoiding the laws or regulations of the United States pertaining to the provisions of the USMCA governing importations or exportations of goods between, or transit of goods through, the territories of the United States, Canada, and Mexico, specifically those that violate a customs law or regulation for restrictions or prohibitions on imports or exports, duty evasion, transshipment, falsification of documents relating to the importation or exportation of goods, fraud, or smuggling of goods;

* * * * *

DOL means the United States Department of Labor;

* * * * *

Heavy truck means a vehicle other than a vehicle that is solely or principally for off-road use of subheading 8701.20, 8704.22, 8704.23, 8704.32 or 8704.90, HTSUS, or a chassis fitted with an engine of heading 8706, HTSUS, as in effect on July 1, 2020, that is for use in such a vehicle;

* * * * *

Light truck means a vehicle of subheading 8704.21 or 8704.31, HTSUS, as in effect on July 1, 2020, except for a vehicle that is solely or principally for off-road use;

* * * * *

Passenger vehicle means a vehicle of subheading 8703.21 through 8703.90, HTSUS, as in effect on July 1, 2020, except for: A vehicle with a compression-ignition engine of subheadings 8703.31 through 8703.33, HTSUS, as in effect on July 1, 2020, or a vehicle of subheading 8703.90, HTSUS, as in effect on July 1, 2020, with both a compression-ignition engine and an electric motor for propulsion, a three- or four-wheeled motorcycle, an all-terrain vehicle, a motorhome or entertainer coach, or an ambulance, hearse or prison van;

* * * * *

Tariff preference level means a quantitative limit for certain non-originating textile or apparel goods that may be entitled to preferential tariff treatment based on the goods meeting the requirements set forth in § 182.82 of this part;

Textile or apparel good means a textile or apparel good classified in the HTSUS Chapters 54 through 63 or the following HTSUS headings or subheadings, as in effect on July 1, 2020: 4202.12, 4202.22, 4202.32, 4202.92, 5004 through 5007, 5104 through 5113, 5204 through 5212, 5303 through 5311, 6601, 7019, 9404.90, and 9619;

* * * * *

USMCA drawback means any drawback, waiver, or reduction of U.S. customs duty provided for in subpart E of this part;

* * * * *

Vehicle certifications means the labor value content (LVC) certification, steel purchasing certification, and aluminum purchasing certification for covered vehicles required by §§ 182.95, 182.96, and 182.97 of this part;

Wool apparel means apparel predominantly of wool, by weight; woven apparel predominantly of man-made fibers by weight, and containing 36 percent or more of wool, by weight; or knitted or crocheted apparel predominantly of man-made fibers by weight, and containing 23 percent or more of wool by weight;

* * * * *

Subpart E—Restrictions on Drawback and Duty-Deferral Programs

40. Revise § 182.42(c) to read as follows:

§ 182.42 Duties and fees not subject to drawback.

* * * * *

(c) Customs duties paid or owed under unused merchandise substitution drawback. There will be no payment of such drawback under 19 U.S.C. 1313(c)(2), 1313(j)(2), and 1313(p), when the basis for drawback is imported duty-paid petroleum derivatives (that is, not articles manufactured under 19 U.S.C. 1313(a) or (b)), pursuant to § 190.173 of this chapter, on goods exported to Canada or Mexico per Article 2.5 of the USMCA.

41. Revise § 182.43 to read as follows:

§ 182.43 Eligible goods subject to USMCA drawback.

Except as otherwise provided in this subpart, drawback is authorized for an imported good that is entered for consumption and is:

(a) Subsequently exported to Canada or Mexico;

(b) Used as a material in the production of another good that is subsequently exported to Canada or Mexico; or

(c) Substituted by a good of the same kind and quality as defined in § 182.44(d) of this subpart and used as a material in the production of another good that is subsequently exported to Canada or Mexico.

42. Amend § 182.44 by adding new paragraphs (h) and (i) to read as follows:

§ 182.44 Calculation of drawback.

* * * * *

(h) Substitution of finished petroleum derivatives under 19 U.S.C. 1313(p) for derivatives manufactured under 19 U.S.C. 1313(a) or (b). Upon presentation of a USMCA drawback claim under 19 U.S.C. 1313(p) for manufactured or produced petroleum derivatives in accordance with § 190.174 of this chapter, the amount of drawback payable is based on the lesser amount of the customs duties paid on the good either to the United States or to Canada or Mexico. The amount of drawback payable may not exceed the amount of drawback attributable to the article manufactured or produced under 19 U.S.C. 1313(a) or (b) which serves as the basis for drawback. For purposes of substitution drawback under this subpart, the term “same kind and quality” is as used in 19 U.S.C. 1313(p) and part 190, subpart Q, of this chapter dealing with substitution of finished petroleum derivatives.

(i) Goods sold at retail and returned under 19 U.S.C. 1313(c)(1)(C)(ii). Upon presentation of the USMCA drawback claim under 19 U.S.C. 1313(c)(1)(C)(ii) for goods ultimately sold at retail by the importer or the person who received the merchandise from the importer, and for any reason returned to and accepted by the importer or the person who received the merchandise from the importer, the amount of drawback payable is based on the lesser amount of the customs duties paid on the good either to the United States or to Canada or Mexico. The amount of drawback payable may not exceed 99 percent of the duty paid on such imported merchandise into the United States. Substitution pursuant to 19 U.S.C. 1313(c)(2) is not permitted (see § 182.42(c) of this subpart).

43. In § 182.45, revise paragraph (c) to read as follows:

§ 182.45 Goods eligible for full drawback.

* * * * *

(c) Goods not conforming to sample or specifications or shipped without consent of consignee under 19 U.S.C. 1313(c)(1)(C)(i). An imported good exported to Canada or Mexico by reason of failure of the good to conform to sample or specification or by reason of shipment of the good without the consent of the consignee is eligible for drawback under 19 U.S.C. 1313(c)(1)(C)(i) without regard to the limitation on drawback set forth in § 182.44 of this subpart. Such a good must be exported or destroyed within the statutory five-year time period and in compliance with the requirements set forth in part 190, subpart D, of this chapter, as applicable.

* * * * *

44. Revise § 182.47 to read as follows:

§ 182.47 Completion of claim for drawback.

(a) General. A claim for drawback will be granted, upon the submission of appropriate documentation to substantiate compliance with the drawback laws and regulations of the United States, evidence of exportation to Canada or Mexico, and satisfactory evidence of the payment of duties to Canada or Mexico. Unless otherwise provided in this subpart, the documentation, filing procedures, time and place requirements and other applicable procedures required to determine whether a good qualifies for drawback must be in accordance with the provisions of part 190 of this chapter, as appropriate; however, a drawback claim subject to the provisions of this subpart must be filed separately from any part 190 drawback claim (that is, a claim that involves goods exported to countries other than Canada or Mexico). Claims inappropriately filed or otherwise not completed within the periods specified in § 182.46 of this subpart will be considered abandoned.

(b) Complete drawback claim—(1) General. A complete drawback claim under this subpart must consist of the filing of the appropriate completed drawback entry, evidence of exportation (a copy of the Canadian or Mexican customs entry showing the amount of duty paid to Canada or Mexico) and its supporting documents. Each drawback entry filed under this subpart must be filed using the indicator “USMCA Drawback”.

(2) Specific claims. The following documentation must be submitted to CBP in order for a drawback claim to be processed under this subpart. Missing documentation or incorrect or incomplete information on required customs forms or supporting documentation will result in an incomplete drawback claim.

(i) Manufacturing drawback claim. The following must be submitted in connection with a claim for direct identification manufacturing drawback or substitution manufacturing drawback:

(A) A manufacturing drawback ruling number;

(B) CBP Form 7501, or its electronic equivalent, or the import entry number;

(C) Evidence of exportation and satisfactory evidence of the payment of duties in Canada or Mexico. Satisfactory evidence must include the Canadian or Mexican customs entry number and the amount of duty paid to Canada or Mexico;

(D) Waiver of right to drawback. If the person exporting to Canada or Mexico was not the importer or the manufacturer, written waivers executed by the importer or manufacturer and by any intervening person to whom the good was transferred must be submitted in order for the claim to be considered complete; and

(E) An affidavit of the party claiming drawback stating that no other drawback claim has been made on the designated goods, that such party has not provided an exporter's certification of origin pertaining to the exported goods to another party except as stated on the drawback claim, and that the party agrees to notify CBP if the party subsequently provides such an exporter's certification of origin to any person.

(ii) Unused merchandise drawback claim under 19 U.S.C. 1313(j)(1). The following must be submitted in connection with a drawback claim covering a good eligible for unused merchandise drawback under 19 U.S.C. 1313(j)(1):

(A) The foreign entry number and date of entry, the HTSUS classification for the foreign entry, the amount of duties paid for the foreign entry and the applicable exchange rate. For goods in the same condition, a certification from the claimant that provides as follows: “Same condition—The undersigned certifies that the merchandise herein described is in the same condition as when it was imported under the import entry(s) and further certifies that this merchandise was not subjected to any process of manufacture or other operation except the allowable operations as provided for by regulation.”;

(B) Information sufficient to trace the movement of the imported goods after importation;

(C) In-bond application submitted pursuant to part 18 of this chapter, if applicable. This is required for merchandise which is examined at one port but exported through border points outside of that port. Such goods must travel in bond from the location where they were examined to the point of the border crossing (exportation). If examination is waived, in-bond transportation is not required;

(D) CBP must be notified at least five business days in advance of the intended date of exportation in order to have the opportunity to examine the goods (see § 190.35 of this chapter);

(E) Acceptable documentary evidence of exportation to Canada or Mexico may include originals or copies of any of the following documents that are issued by the exporting carrier: bill of lading, air waybill, freight waybill, export ocean bill of lading, Canadian customs manifest, and cargo manifest. Supporting documentary evidence must establish fully the time and fact of exportation, the identity of the exporter, and the identity and location of the ultimate consignee of the exported goods;

(F) If the party exporting to Canada or Mexico was not the importer, a written waiver from the importer and from each intermediate person to whom the goods were transferred is required in order for the claim to be considered complete; and

(G) An affidavit of the party claiming drawback stating that no other drawback claim has been made on the designated goods.

(iii) Nonconforming or improperly shipped goods drawback claim. The following must be submitted in the case of goods not conforming to sample or specifications, or shipped without the consent of the consignee and subject to a drawback claim under 19 U.S.C. 1313(c)(1)(C)(i):

(A) CBP Form 7501, or its electronic equivalent, to establish the fact of importation, the receipt of the imported goods, and the identity of the party to whom drawback is payable (see § 182.48(c) of this subpart);

(B) Documentary evidence to support the claim that the goods did not conform to sample or specifications, or were shipped without the consent of the consignee. In the case of nonconforming goods, such documentation may include a copy of a purchase order and any related documents such as a specification sheet, catalogue or advertising brochure from the supplier, the basis for which the order was placed, and copy of a letter or credit memo from the supplier indicating acceptance of the returned merchandise. This documentation is necessary to establish that the goods are, in fact, being returned to the party from which they were procured or that they are being sent to the supplier's other customer directly;

(C) CBP Form 7512, or its electronic equivalent, if applicable;

(D) Notification of intent to export or waiver of prior notice. CBP must be notified at least five business days in advance of the intended date of exportation in order to have the opportunity to examine the goods (see § 190.42 of this chapter); and

(E) Evidence of exportation, as provided in paragraph (b)(2)(ii)(E) of this section.

(iv) Meats cured with imported salt. The provisions of paragraph (b)(2)(i) of this section relating to direct identification manufacturing drawback will apply to claims for drawback on meats cured with imported salt filed under this subpart insofar as applicable to and not inconsistent with the provisions of this subpart, and the forms referred to in that paragraph must be modified to show that the claim is being made for refund of duties paid on salt used in curing meats.

(v) Jet aircraft engines. The provisions of paragraph (b)(2)(i) of this section relating to direct identification manufacturing drawback will apply to claims for drawback on foreign-built jet aircraft engines repaired or reconditioned in the United States filed under this subpart insofar as applicable to and not inconsistent with the provisions of this subpart and the provisions of part 190, subpart N, of this chapter.

(vi) Substitution of finished petroleum derivatives under 19 U.S.C. 1313(p) for derivatives manufactured under 19 U.S.C. 1313(a) or (b). The provisions of paragraph (b)(2)(i) of this section relating to manufacturing drawback will apply to claims for drawback on manufactured or produced petroleum derivatives, in accordance with § 190.174 of this chapter, filed under this subpart insofar as applicable to and not inconsistent with the provisions of this subpart and the provisions of part 190, subpart Q, of this chapter.

(vii) Goods sold at retail and returned under 19 U.S.C. 1313(c)(1)(C)(ii). The following must be submitted in the case of goods ultimately sold at retail by the importer or the person who received the merchandise from the importer, and for any reason returned to and accepted by the importer or the person who received the merchandise from the importer and subject to a drawback claim under 19 U.S.C. 1313(c)(1)(C)(ii):

(A) CBP Form 7501, or its electronic equivalent, to establish the fact of importation, the receipt of the imported goods, and the identity of the party to whom drawback is payable (see § 182.48(c) of this subpart);

(B) Documentary evidence to support the claim that the goods were ultimately sold at retail by the importer or the person who received the merchandise from the importer, and were returned to and accepted by the importer or the person who received the merchandise from the importer;

(C) CBP Form 7512, or its electronic equivalent, if applicable;

(D) Notification of intent to export or waiver of prior notice. CBP must be notified at least five business days in advance of the intended date of exportation in order to have the opportunity to examine the goods (see § 190.42 of this chapter); and

(E) Evidence of exportation, as provided in paragraph (b)(2)(ii)(E) of this section.

(c) Evidence of exportation and of duties paid in Canada or Mexico. For purposes of this subpart, evidence of exportation and satisfactory evidence of payment of duties in Canada or Mexico must consist of one of the following types of documentation, provided that, for purposes of evidence of duties paid, such documentation includes the import entry number, the date of importation, the tariff classification number, the rate of duty and the amount of duties paid:

(1) In the case of Canada, the Canadian entry document, presented with either the K-84 Statement or the Detailed Coding Statement. A Canadian customs document that is not accompanied by a valid receipt is not adequate evidence of exportation and payment of duty in Canada;

(2) In the case of Mexico, the Mexican entry document (the “pedimento”);

(3) The final customs duty determination of Canada or Mexico, or a copy thereof, with respect to the relevant entry; or

(4) An affidavit, from the person claiming drawback, which is based on information received from the importer of the good in Canada or Mexico.

45. Add § 182.48 to subpart E to read as follows:

§ 182.48 Person entitled to receive drawback.

(a) General. The person named as exporter on the notice of exportation or on the bill of lading, air waybill, freight waybill, Canadian or Mexican customs manifest, cargo manifest, or certified copies of these documents, will be considered the exporter and entitled to drawback.

(b) Manufacturing drawback. The person named as the exporter is entitled to claim manufacturing drawback, unless the manufacturer or producer reserves the right to claim drawback. The manufacturer or producer who reserves this right may claim drawback, will receive payment upon production of satisfactory evidence that the reservation was made with the knowledge and consent of the exporter. Drawback also may be granted to the agent of the manufacturer, producer, or exporter, or to the person the manufacturer, producer, exporter, or agent directs in writing to receive the drawback of duties.

(c) Nonconforming or improperly shipped goods drawback under 19 U.S.C. 1313(c)(1)(C)(i) and drawback on goods sold at retail and returned under 19 U.S.C. 1313(c)(1)(C)(ii). The person named as the exporter is entitled to claim rejected merchandise drawback; if the claimant was not the importer of the merchandise or its agent, the claimant must submit a statement signed by the importer and every other person, other than the ultimate purchaser, that owned the goods, that no other claim for drawback was made on the goods (see § 190.42(b) of this chapter).

(d) Unused merchandise drawback under 19 U.S.C. 1313(j)(1). The person named as the exporter is entitled to claim drawback under 19 U.S.C. 1313(j)(1) unless the exporter has in writing waived its right to claim drawback (see § 190.33 of this chapter).

46. Add § 182.50(b) to read as follows:

§ 182.50 Liquidation and payment of drawback claims.

* * * * *

(b) Time for liquidation. A drawback claim will not be liquidated until either a written waiver of the right to protest under 19 U.S.C. 1514 is filed with CBP or the liquidation of the import entry has become final under U.S. law. In addition, except in the case of goods covered by § 182.45 of this subpart, a drawback claim must not be liquidated for a period of three years after the date of entry of the goods in Canada or Mexico. A drawback claim may be adjusted pursuant to 19 U.S.C. 4534(e)(1) even after liquidation of the U.S. import entry has become final.

* * * * *

47. Add § 182.53 to subpart E to read as follows:

§ 182.53 Collection and waiver or reduction of duty under duty-deferral programs.

(a) General—(1) Definitions. The following definitions apply for purposes of this section:

(i) Date of exportation. Date of exportation means the date of importation into Canada or Mexico as reflected on the applicable Canadian or Mexican entry document (see § 182.47(c)(1) and (2) of this subpart).

(ii) Duty-deferral program. A duty-deferral program means any measure which postpones duty payment upon arrival of a good in the United States until withdrawn or removed for exportation to Canada or Mexico or for entry into a Canadian or Mexican duty-deferral program. Such measures govern manipulation warehouses, manufacturing warehouses, smelting and refining warehouses, foreign trade zones, and those temporary importations under bond that are specified in paragraph (b)(5) of this section.

(2) Treatment as entered or withdrawn for consumption—(i) General.

(A) Where a good is imported into the United States pursuant to a duty-deferral program and is subsequently withdrawn from the duty-deferral program for exportation to Canada or Mexico or is used as a material in the production of another good that is subsequently withdrawn from the duty-deferral program for exportation to Canada or Mexico, and provided that the good is a “good subject to USMCA drawback” within the meaning of 19 U.S.C. 4534 and is not described in § 182.45 of this subpart, the documentation required to be filed under this section in connection with the exportation of the good will, for purposes of this chapter, constitute an USMCA entry or withdrawal for consumption and the exported good must be subject to duty which will be assessed in accordance with paragraph (b) of this section.

(B) Where a good is imported into the United States pursuant to a duty-deferral program and is subsequently withdrawn from the duty-deferral program and entered into a duty-deferral program in Canada or Mexico or is used as a material in the production of another good that is subsequently withdrawn from the duty-deferral program and entered into a duty-deferral program in Canada or Mexico, and provided that the good is a “good subject to USCMA drawback” within the meaning of 19 U.S.C. 4534 and is not described in § 182.45 of this subpart, the documentation required to be filed under this section in connection with the withdrawal of the good from the U.S. duty-deferral program will, for purposes of this chapter, constitute a USMCA entry or withdrawal for consumption and the withdrawn good must be subject to duty which will be assessed in accordance with paragraph (b) of this section.

(C) Any assessment of duty under this section must include the duties and fees referred to in § 182.42(a) and (b) of this subpart and the fees provided for in § 24.23 of this chapter; these inclusions will not be subject to refund, waiver, reduction or drawback.

(ii) Bond requirements. The provisions of § 142.4 of this chapter will apply to each withdrawal and exportation transaction described in paragraph (a)(2) of this section. However, in applying the provisions of § 142.4 of this chapter in the context of this section, any reference to release from CBP custody in § 142.4 of this chapter will be taken to mean exportation to Canada or Mexico.

(iii) Documentation filing and duty payment procedures—(A) Persons required to file. In the circumstances described in paragraph (a)(2) of this section, the documentation described in paragraph (a)(2)(iii)(B) of this section must be filed by one of the following persons:

(1) In the case of a withdrawal of the goods from a warehouse, the person who has the right to withdraw the goods in accordance with § 144.31 of this chapter;

(2) In the case of a temporary importation under bond (TIB) specified in paragraph (b)(5) of this section, the TIB importer whether or not it sells the goods for export to Canada or Mexico unless § 10.31(h) of this chapter applies; or

(3) In the case of a withdrawal from a foreign trade zone, the person who has the right to make entry (see § 146.62 of this chapter). However, if a zone operator is not the person with the right to make entry of the good, the zone operator will be responsible for the payment of any duty due in the event the zone operator permits such other person to remove the goods from the zone (§§ 146.67 and 146.68 of this chapter) and such other person fails to comply with the requirements of this provision.

(B) Documentation required to be filed and required filing date. The person required to file must file CBP Form 7501, or its electronic equivalent, no later than 10 working days after the date of exportation to Canada or Mexico or 10 working days after the goods' being entered into a duty-deferral program in Canada or Mexico. Except where the context otherwise requires and except as otherwise specifically provided in this section, the procedures for completing and filing CBP Form 7501, or its electronic equivalent, in connection with the entry of merchandise under this chapter will apply for purposes of this paragraph. For purposes of completing CBP Form 7501, or its electronic equivalent, under this paragraph, any reference to the entry date will be taken to refer to the date of exportation of the good or the date the good is entered into a duty-deferral program in Canada or Mexico. The CBP Form 7501, or its electronic equivalent, required under this paragraph, may be transmitted electronically. See §§ 141.62, 141.63, and 144.38 (bonded warehouse) of this chapter.

(C) Duty payment. The duty estimated to be due under paragraph (b) of this section must be deposited with CBP 60 calendar days after the date of exportation of the good. If a good is entered into a duty-deferral program in Canada or Mexico, the duty estimated to be due under paragraph (b) of this section, but without any waiver or reduction provided for in that paragraph, must be deposited with CBP 60 calendar days after the date the good is entered into such duty-deferral program. Nothing precludes the deposit of such estimated duty at the time of filing the CBP Form 7501, or its electronic equivalent, under paragraph (a)(2)(iii)(B) of this section or at any other time within the 60-day period prescribed in this paragraph. However, any interest calculation will run from the date the duties are required to be deposited.

(3) Waiver or reduction of duties—(i) General. Except in the case of duties and fees referred to in § 182.42(a) and (b) of this subpart and fees provided for in § 24.23 of this chapter, CBP may waive or reduce the duties paid or owed under paragraph (a)(2) of this section by the person who is required to file the CBP Form 7501, or its electronic equivalent (see paragraph (a)(2)(iii)(A) of this section) in accordance with paragraph (b) of this section, provided that a claim for waiver or reduction of the duties is filed with CBP within the appropriate 60-day time frame. The claim must be based on evidence of exportation or entry into a Canadian or Mexican duty-deferral program and satisfactory evidence of duties paid in Canada or Mexico (see § 182.47(c) of this subpart).

(ii) Filing of claim and payment of reduced duties. A claim for a waiver or reduction of duties under paragraph (a)(3)(i) of this section must be made on CBP Form 7501, or its electronic equivalent, which must set forth, in addition to the information required under paragraph (a)(2)(iii)(B) of this section, a description of the goods exported to Canada or Mexico, and the Canadian or Mexican import entry number, date of importation, tariff classification number, rate of duty and amount of duty paid. If a claim for reduction of duties is filed under this paragraph, the reduced duties must be deposited with CBP when the claim is filed.

(iii) Drawback on goods entered into a duty-deferral program in Canada or Mexico. After goods within a duty-deferral program in the United States, which were exported from the United States and entered into a duty-deferral program in Canada or Mexico, are then withdrawn from that Canadian or Mexican duty-deferral program either for entry into Canada or Mexico or for export to a non-USMCA country, the person who filed the CBP Form 7501, or its electronic equivalent and the information required in paragraph (a)(2)(iii)(B) of this section, may file a claim for drawback if the goods are withdrawn within five years from the date of the original importation of the good into the United States. If the goods are entered for consumption in Canada or Mexico, drawback will be calculated in accordance with § 182.44 of this subpart.

(4) Liquidation of entry—(i) If no claim is filed. If no claim for a waiver or reduction of duties is filed in accordance with paragraph (a)(3) of this section, CBP will determine the final duties due under paragraph (a)(2)(i) of this section and will post a notice of liquidation of the entry filed under this section in accordance with § 159.9 of this chapter. Where no claim was filed in accordance with this section and CBP fails to liquidate, or extend liquidation of, the entry filed under this section within one year from the date of entry, upon the date of expiration of that one-year period the entry will be deemed liquidated by operation of law in the amount asserted by the exporter on the CBP Form 7501, or its electronic equivalent, filed under paragraph (a)(2)(iii)(A) of this section. A protest under 19 U.S.C. 1514 and part 174 of this chapter must be filed within 180 days from the date of liquidation under this section.

(ii) If a claim is filed. If a claim for a waiver or reduction of duties is filed in accordance with paragraph (a)(3) of this section, an extension of liquidation of the entry filed under this section will take effect for a period not to exceed three years from the date the entry was filed. Before the close of the extension period, CBP will liquidate the entry filed under this section and will post a bulletin of liquidation in accordance with § 159.9 of this chapter. If CBP fails to liquidate the entry filed under this section within four years from the date of the entry, upon the date of expiration of that four-year period the entry will be deemed liquidated by operation of law in the amount asserted by the exporter on the CBP Form 7501, or its electronic equivalent, filed under paragraph (a)(3)(ii) of this section. A protest under 19 U.S.C. 1514 and part 174 of this chapter must be filed within 180 days from the date of liquidation under this section.

(b) Assessment and waiver or reduction of duty—(1) Manipulation in warehouse. Where a good subject to USMCA drawback under this subpart is withdrawn from a bonded warehouse (see 19 U.S.C. 1562) after manipulation for exportation to Canada or Mexico or for entry into a duty-deferral program in Canada or Mexico, duty will be assessed on the good in its condition and quantity, and at its weight, at the time of such withdrawal from the warehouse and with such additions to, or deductions from, the final appraised value as may be necessary by reason of its change in condition. Such duty must be paid no later than 60 calendar days after the date of exportation or of entry into the duty-deferral program of Canada or Mexico, except that, upon filing of a proper claim under paragraph (a)(3) of this section, the duty will be waived or reduced in an amount that does not exceed the lesser of the total amount of duty payable on the good under this section or the total amount of customs duties paid to Canada or Mexico.

(2) Bonded manufacturing warehouse. Where a good is manufactured in a bonded warehouse (see 19 U.S.C. 1311) with imported materials and is then withdrawn for exportation to Canada or Mexico or for entry into a duty-deferral program in Canada or Mexico, duty will be assessed on the materials in their condition and quantity, and at their weight, at the time of their importation into the United States. Such duty must be paid no later than 60 calendar days after either the date of exportation or of entry into a duty-deferral program of Canada or Mexico, except that, upon filing of a proper claim under paragraph (a)(3) of this section, the duty will be waived or reduced in an amount that does not exceed the lesser of the total amount of duty payable on the materials under this section or the total amount of customs duties paid to Canada or Mexico.

(3) Bonded smelting or refining warehouse. For any qualifying imported metal-bearing materials (see 19 U.S.C. 1312), duty will be assessed on the imported materials and the charges against the bond canceled no later than 60 calendar days after either the date of exportation of the treated materials to Canada or Mexico or the date of entry of the treated materials into a duty-deferral program of Canada or Mexico, either from the bonded smelting or refining warehouse or from such other customs bonded warehouse after the transfer of the same quantity of material from a bonded smelting or refining warehouse. However, upon filing of a proper claim under paragraph (a)(3) of this section, the duty on the imported materials will be waived or reduced in an amount that does not exceed the lesser of the total amount of duty payable on the imported materials under this section or the total amount of customs duties paid to Canada or Mexico.

(4) Foreign trade zone. For a good that is manufactured or otherwise changed in condition in a foreign trade zone (see 19 U.S.C. 81c(a)) and then withdrawn from the zone for exportation to Canada or Mexico or for entry into a Canadian or Mexican duty-deferral program, the duty assessed, as calculated under paragraph (b)(4)(i) or (ii) of this section, must be paid no later than 60 calendar days after either the date of exportation of the good to Canada or Mexico or the date of entry of the good into a duty-deferral program of Canada or Mexico, except that, upon filing of a proper claim under paragraph (a)(3) of this section, the duty will be waived or reduced in an amount that does not exceed the lesser of the total amount of duty payable on the good under this section or the total amount of customs duties paid to Canada or Mexico.

(i) Nonprivileged foreign status. In the case of a nonprivileged foreign status good, duty is assessed on the good in its condition and quantity, and at its weight, at the time of its exportation from the zone to Canada or Mexico, or its entry into a duty-deferral program of Canada or Mexico.

(ii) Privileged foreign status. In the case of a privileged foreign status good, duty is assessed on the good in its condition and quantity, and at its weight, at the time privileged status is elected.

(5) Temporary importation under bond. Except in the case of a good imported from Canada or Mexico for repair or alteration, where a good, regardless of its origin, was imported temporarily free of duty for repair, alteration or processing (subheading 9813.00.05, HTSUS) and is subsequently exported to Canada or Mexico, duty will be assessed on the good on the basis of its condition at the time of its importation into the United States. Such duty must be paid no later than 60 calendar days after either the date of exportation or the date of entry into a duty-deferral program of Canada or Mexico, except that, upon filing of a proper claim under paragraph (a)(3) of this section, the duty will be waived or reduced in an amount that does not exceed the lesser of the total amount of duty payable on the good under this section or the total amount of customs duties paid to Canada or Mexico.

(c) Recordkeeping requirements. If a person intends to claim a waiver or reduction of duty on goods under this section, that person must maintain records concerning the value of all involved goods or materials at the time of their importation into the United States and concerning the value of the goods at the time of their exportation to Canada or Mexico or entry into a duty-deferral program of Canada or Mexico, and if a person files a claim under this section for a waiver or reduction of duty on goods exported to Canada or Mexico or entered into a Canadian or Mexican duty-deferral program, that person must maintain evidence of exportation or entry into a Canadian or Mexican duty-deferral program and satisfactory evidence of the amount of any customs duties paid to Canada or Mexico on the good (see § 182.47(c) of this subpart). Failure to maintain adequate records will result in denial of the claim for waiver or reduction of duty.

(d) Failure to file proper claim. If the person identified in paragraph (a)(2)(iii)(A) of this section fails to file a proper claim within the 60-day period specified in this section, that person, or the FTZ operator, pursuant to paragraph (a)(2)(iii)(A)(3) of this section, will be liable for payment of the full duties assessed under this section and without any waiver or reduction thereof.

(e) Subsequent claims for preferential tariff treatment. If a claim for a refund of duties is allowed by the Canadian or Mexican customs administration under Article 5.11 of the USMCA (post-importation claim) or under any other circumstance after duties have been waived or reduced under this section, CBP may reliquidate the entry filed under this section pursuant to 19 U.S.C. 4534(e) even after liquidation of the entry has become final.

48. Add § 182.55 to subpart E to read as follows:

§ 182.55 Goods exported from duty-deferral programs that are not a “good subject to USMCA drawback” within the meaning of 19 U.S.C. 4534.

(a) An importer, or its agent, claiming a good is not a “good subject to USMCA drawback” within the meaning of 19 U.S.C. 4534 must notify CBP at:

(1) The time of importation and admission into the duty-deferral program; or

(2) The time of filing the documentation required under § 182.53(a)(2)(iii)(B) of this subpart.

(b) A person must maintain records supporting a claim that a good is not a “good subject to USMCA drawback” within the meaning of 19 U.S.C. 4534. The records must be made available for examination and inspection by a CBP official in the same manner as provided in part 163 of this chapter in the case of U.S. importer records.

Subpart G—Origin Verifications and Determinations

49. In § 182.71, add two sentences to the end of the section

§ 182.71 Applicability.

* * * Additional verification procedures apply to automotive goods and are set forth in subpart I of this part. For textile and apparel goods, CBP may choose to conduct a verification pursuant to the verification means and procedures contained in this subpart or may alternatively choose to conduct a verification pursuant to a site visit as described in § 182.83 of this part.

50. Amend § 182.75 as follows:

a. Revise paragraph (c)(2); and

b. In paragraph (c)(4), remove the phrase “unless CBP determines that there is a pattern of conduct of false or unsupported representations pursuant to § 182.76,”.

The revision reads as follows:

§ 182.75 Determinations of origin.

* * * * *

(c) * * *

(2) Denial of preferential tariff treatment. CBP may deny the claim for preferential tariff treatment if:

(i) The certification of origin is not submitted to CBP upon request as required pursuant to § 182.12(a) of this part, or, for textile or apparel goods claiming USMCA preferential tariff treatment under a tariff preference level (TPL), the certificate of eligibility is not submitted to CBP upon request as required pursuant to § 182.82(d) of this part;

(ii) The claim or certification of origin is invalid or based on inaccurate information and is not corrected within the required time period pursuant to § 182.11(c) of this part;

(iii) CBP determines that the importer, exporter, or producer failed to provide sufficient information to substantiate the claim;

(iv) CBP determines that the good does not qualify for preferential tariff treatment, including failing to meet the rules of origin requirements in General Note 11, HTSUS, and Appendix A to this part, or the TPL requirements in § 182.82 of this part;

(v) The importer, exporter, or producer fails to respond to the request for information pursuant to § 182.73(f)(1) subject to the conditions in § 182.75(c)(1) of this subpart;

(vi) The importer, exporter, or producer fails to respond to the questionnaire pursuant to § 182.73(f)(1) of this subpart;

(vii) The exporter or producer fails to consent to a verification visit pursuant to § 182.74 of this subpart;

(viii) The importer, exporter, or producer fails to maintain records demonstrating that the good qualifies for preferential tariff treatment as required pursuant to this part;

(ix) The importer, exporter, or producer denies access, as requested by CBP, to records or documentation that are in its possession or required to be maintained pursuant to this part;

(x) The exporter or producer denies access to records or documentation that are in its possession or required to be maintained, or to facilities during a verification visit as required pursuant to this part;

(xi) CBP finds a pattern of conduct pursuant to § 182.76 of this subpart or, for textile and apparel goods, pursuant to § 182.83(g) of this part;

(xii) CBP determines, pursuant to a site visit for textiles or apparel goods conducted under § 182.83 of this part, that any of the reasons for denial set forth in § 182.83(e) of this part applies;

(xiii) CBP determines, for automotive goods, that any of the reasons for denial set forth in § 182.107 of this part applies; or

(xiv) CBP determines that any other reason to deny a claim for preferential tariff treatment as set forth in this part applies.

* * * * *

Subpart H—Textile and Apparel Goods

51. Revise § 182.81 to read as follows:

§ 182.81 Applicability.

This subpart applies only to textile or apparel goods. This subpart contains the provisions for textile or apparel goods that are claiming USMCA preferential tariff treatment under a tariff preference level (TPL) and the provisions related to site visits. With the exception of §§ 182.11, 182.12, 182.14, 182.16, subpart D, and the rules of origin set forth in Appendix A of this part, the relevant requirements and procedures set forth in this part apply to TPLs. For textile or apparel goods, including TPLs, CBP has the discretion to conduct a verification pursuant to the general verification means and procedures contained in subpart G of this part or to choose to conduct a verification pursuant to a site visit as set forth in this subpart. Unless otherwise specified in this subpart, the requirements and procedures set forth in subpart G of this part do not apply to a site visit conducted pursuant to this subpart.

52. Revise § 182.82 to read as follows:

§ 182.82 Claim for preferential tariff treatment under tariff preference level.

(a) Basis of claim. Textile or apparel goods described in paragraph (b) of this section that do not qualify as originating goods under the rules of origin in General Note 11, HTSUS, and Appendix A of this part may qualify for preferential tariff treatment under the USMCA under an applicable tariff preference level (TPL). An importer, who cannot make a claim pursuant to § 182.11(b) for these non-originating goods, may make a claim for USMCA preferential tariff treatment under a TPL, including an exemption from the merchandise processing fee, for such textile or apparel goods provided that:

(1) The textile or apparel goods are eligible for a TPL claim under paragraph (b) of this section;

(2) The annual quantitative limit has not been reached for the subject TPL as indicated in U.S. Note 11, Subchapter XXIII, Chapter 98, HTSUS, and paragraph (b) of this section; and

(3) The claim is based on a certificate of eligibility, as specified in paragraph (d) of this section.

(b) Goods eligible for TPL claims. The following goods are eligible for a TPL claim made under paragraph (c) of this section:

(1) Cotton or man-made fiber apparel goods of a USMCA country. Cotton or man-made fiber apparel goods described in U.S. Notes 11(a)(i) and (b)(i), Subchapter XXIII, Chapter 98, HTSUS, that are both cut (or knit-to-shape) and sewn or otherwise assembled in the territory of a USMCA country, and that meet the applicable conditions for preferential tariff treatment under the USMCA, other than the condition that they are originating goods. The preferential tariff treatment is limited to the quantities specified in U.S. Notes 11(a) and 11(b), Subchapter XXIII, Chapter 98, HTSUS;

(2) Wool apparel goods of a USMCA country. Wool apparel goods described in U.S. Note 11, Subchapter XXIII, Chapter 98, HTSUS, and that meet the applicable conditions for preferential tariff treatment under the USMCA, other than the condition that they are originating goods. The preferential tariff treatment is limited to the quantities specified in U.S. Note 11(a)(i)(B) and (b)(i)(C), Subchapter XXIII, Chapter 98, HTSUS;

(3) Cotton or man-made fiber fabrics and made-up goods. Fabrics and made-up goods described in U.S. Note 11(a)(ii) and (b)(ii), Subchapter XXIII, Chapter 98, HTSUS, made from cotton or man-made fiber, provided that the goods meet the applicable conditions for preferential tariff treatment under the USMCA, other than the condition that they are originating goods. The preferential tariff treatment is limited to the quantities specified in U.S. Note 11(a)(ii) and (b)(ii), Subchapter XXIII, Chapter 98, HTSUS; and

(4) Cotton or man-made fiber spun yarn. Yarn described in U.S. Note 11(a)(iii) and (b)(iii), Subchapter XXIII, Chapter 98, HTSUS, made from cotton or man-made fiber, provided that the yarn meets the applicable conditions for preferential tariff treatment under the USMCA, other than the condition that they are originating goods. The preferential tariff treatment is limited to the quantities specified in U.S. Note 11(a)(iii) and (b)(iii), Subchapter XXIII, Chapter 98, HTSUS.

(c) Making a TPL claim. A claim for preferential tariff treatment under a TPL is made by including on the entry summary, or equivalent documentation, or by the method specified for equivalent reporting via an authorized electronic data interchange system, the applicable subheading in Chapter 98, HTSUS, the applicable subheading under which each non-originating textile or apparel good is classified with the letter “S+” as a prefix to the subheadings of the HTSUS, and the certificate of eligibility number. The applicable subheadings in Chapter 98, HTSUS, are:

(1) For goods described in paragraph (b)(1) of this section, subheadings 9823.52.01 and 9823.53.01;

(2) For goods described in paragraph (b)(2) of this section, subheadings 9823.52.02, 9823.52.03, 9823.53.02;

(3) For goods described in paragraph (b)(3) of this section, subheadings 9823.52.04, 9823.52.05, 9823.52.06, 9823.53.03, 9823.53.04, and 9823.53.05; and

(4) For goods described in paragraph (b)(4) of this section, subheadings 9823.52.07, 9823.52.08, and 9823.53.06.

(d) Certificate of eligibility. An importer who makes a claim for preferential tariff treatment pursuant to paragraph (c) of this section must submit, at the request of CBP, a certificate of eligibility issued by an authorized official of the government of Mexico or Canada. The certificate of eligibility must contain information demonstrating that a good is eligible for a TPL claim as set forth in paragraph (b) of this section and to track allocation and use of a TPL. The certificate of eligibility must be transmitted electronically pursuant to any electronic means authorized by CBP for that purpose.

(e) Post-importation claims. (1) Right to make a post-importation claim. Where a textile or apparel good would have qualified for preferential tariff treatment under paragraph (a) of this section when it was imported into the United States but no claim for preferential tariff treatment was made under paragraph (c) of this section, the importer of that good may file a claim for a refund of any excess customs duties at any time within one year after the date of importation of the good. As this post-importation claim is not filed in accordance with 19 U.S.C. 1520(d) or subpart D of this part, the claim must be filed in accordance with the procedures set forth in paragraph (e)(2) of this section.

(2) Filing procedures. Post-importation claims under a TPL must be filed with the certificate of eligibility for the year the entry summary, or equivalent documentation, is accepted by CBP. Post-importation claims will not be granted if the quantitative limits for the subject TPL, as provided for in paragraph (b) of this section, are already met.

(f) Denial of preferential tariff treatment. If the importer fails to comply with the requirements under this section, including the submission of a certificate of eligibility upon request in accordance with paragraph (d) of this section, or if the textile or apparel good is not eligible to make a TPL claim under paragraph (b) of this section, CBP may deny preferential tariff treatment to the textile or apparel good.

(g) Verifications. CBP will conduct a verification of a textile or apparel good claiming USMCA preferential tariff treatment under a TPL pursuant to the means and procedures in either subpart G of this part or § 182.83 of this subpart.

53. Add § 182.83 to subpart H to read as follows:

§ 182.83 Verifications of textile and apparel goods.

(a) Verification of textile and apparel goods. For textile and apparel goods, CBP has two alternative means of conducting a verification. CBP may conduct a verification for purposes of determining whether a textile and apparel good qualifies for preferential tariff treatment using any of the means described in § 182.72(a) of this part. Alternatively, as described in this section, CBP may conduct a site visit to the premises of the exporter or producer of textile or apparel goods in Mexico or Canada for the purpose of determining:

(1) That a textile or apparel good qualifies for preferential tariff treatment; or

(2) That customs offenses with regard to a textile or apparel good are occurring or have occurred.

(b) Verification of a material during a site visit. When conducting a verification of a textile or apparel good imported into the United States, CBP may conduct a verification of the material that is used in the production of that good. A verification of a material producer may be conducted pursuant to the site visit procedures set forth in this section. With the exception of § 182.75, the provisions in this section also apply to the verification of a material and references to the term “producer” apply to a producer of a textile or apparel good or to a material producer.

(c) Site visit procedures. (1) Consent required. Prior to conducting a site visit in Canada or Mexico pursuant to this section, CBP must obtain the consent of the exporter, producer, or a person having capacity to consent on behalf of the exporter or producer, either prior to the site visit or at the time of the site visit, to access the relevant records or facilities. CBP must, at the time of the request for consent, inform the exporter, producer, or person having the capacity to consent to a site visit of:

(i) The legal authority for the visit;

(ii) The specific purpose of the visit; and

(iii) The names and titles of the U.S. officials performing the visit.

(2) Failure to receive CBP on initial date. (i) If the exporter, producer, or a person having the capacity to consent on behalf of the exporter or producer is not able to receive CBP to carry out the site visit, the site visit will be conducted on the following business day unless:

(A) CBP agrees otherwise; or

(B) The exporter, producer, or person having the capacity to consent on behalf of the exporter or producer substantiates a valid reason acceptable to CBP for why the site visit cannot occur on the following business day.

(ii) If the exporter, producer, or person having the capacity to consent on behalf of the exporter or producer, does not have a valid reason acceptable to CBP for why the site visit cannot take place on the following business day, CBP will consider any reasonable alternative proposed dates, taking into account the availability of relevant employees or facilities of the exporter or producer to be visited. After such consideration, CBP may deem consent for the site visit or access to the records or facilities to be denied.

(3) Availability of records and facilities. During a site visit, CBP may request access to:

(i) Records and facilities relevant to the claim for preferential tariff treatment; or

(ii) Records and facilities relevant to the customs offenses being verified.

(d) Right to request report of the site visit. The exporter or producer may request CBP's written report of the results of the site visit. The exporter or producer must submit this request in writing to CBP. CBP will provide the exporter or producer the portions of the report that pertain to that exporter or producer, including any findings, subject to the confidentiality provisions in § 182.2 of this part.

(e) Denial of preferential tariff treatment. CBP may deny preferential tariff treatment to any textile or apparel good imported or produced by the person that is the subject of the verification if CBP determines any of the following:

(1) CBP determines, pursuant to a site visit conducted under this section, that it has not received sufficient information to determine that the textile or apparel good qualifies for preferential tariff treatment;

(2) CBP determines that the textile or apparel good does not qualify for preferential tariff treatment, including failing to meet the rules of origin requirements in General Note 11, HTSUS, and Appendix A to this part, or the TPL requirements in § 182.82 of this subpart;

(3) CBP is unable to determine, pursuant to a site visit conducted under paragraph (a)(2) of this section, that the exporter or producer is complying with applicable customs measures affecting trade in textile or apparel goods;

(4) CBP is unable to conduct a site visit because access to or consent for the site visit is denied by the exporter, producer, or person having the capacity to consent on behalf of the exporter or producer;

(5) The exporter, producer, or a person having the capacity to consent on behalf of the exporter or producer prevents CBP from completing the site visit on the initial date of the site visit and the exporter or producer does not provide an acceptable alternative date for the site visit;

(6) The exporter, producer, or person having the capacity to consent on behalf of the exporter or producer fails to provide CBP with access to relevant documents or facilities during a site visit as required under § 182.83(c)(3) of this section; or

(7) CBP determines that any other reason to deny a claim for preferential tariff treatment as set forth in § 182.75(c)(2) of this part applies.

(f) Intent to deny and determination of origin. After CBP conducts a site visit under this section, CBP will issue a determination of origin pursuant to the procedures set forth in § 182.75, with the exception of § 182.75(c)(1). If CBP conducts a site visit under this section and, as a result, intends to deny preferential tariff treatment to a textile or apparel good, it must, prior to issuing a determination of origin, issue an intent to deny pursuant to § 182.75(c)(3).

(g) Pattern of conduct for textile or apparel goods. Where the verification of identical textile or apparel goods by CBP indicates a pattern of conduct by an exporter or producer of false or unsupported representations that a textile or apparel good imported into the territory of the United States qualifies for preferential tariff treatment, CBP may withhold preferential tariff treatment to identical textile or apparel goods imported, exported, or produced by that person until it is demonstrated to CBP that those identical textile or apparel goods qualify for preferential tariff treatment.

Subpart I—Automotive Goods

54. Add § 182.91 to read as follows:

§ 182.91 Applicability.

This subpart contains the additional requirements and procedures applicable only to automotive goods, including covered vehicles claiming USMCA preferential tariff treatment under § 182.11(b) or § 182.32 of this part. Covered vehicles claiming USMCA preferential tariff treatment must also meet the requirements and follow the procedures contained in this part, including the requirements set forth in Appendix A of this part. This subpart contains the labor value content (LVC), steel purchasing, and aluminum purchasing requirements for covered vehicles (passenger vehicles, light trucks, and heavy trucks), the LVC, steel purchasing, and aluminum purchasing certification requirements and procedures, the motor vehicle averaging election requirements and procedures, the recordkeeping requirements, the verification procedures applicable to automotive goods, and additional reasons that CBP may deny preferential tariff treatment to covered vehicles.

55. Add § 182.92 to read as follows:

§ 182.92 Claim for preferential tariff treatment for covered vehicles.

(a) General. An importer may make a claim for USMCA preferential tariff treatment under § 182.11(b) or § 182.32 of this part for a covered vehicle only if the requirements set forth in this part are met, including the certification of origin requirement in § 182.12 of this part, the LVC requirement in § 182.93 of this subpart, and the steel purchasing and aluminum purchasing requirements in § 182.94 of this subpart, and if the vehicle producer has complied with the LVC, steel purchasing, and aluminum purchasing certification requirements under §§ 182.95, 182.96, and 182.97 of this subpart.

(b) Requirement to include vehicle certification unique identifier. An importer making a claim for USMCA preferential tariff treatment for a covered vehicle under § 182.11(b) of this part must include on the entry summary or equivalent documentation, or by the method specified for equivalent reporting via an authorized data interchange system, the unique identifier assigned by CBP for each of the LVC, steel purchasing, and aluminum purchasing certifications that forms the basis for the covered vehicle's eligibility for preferential tariff treatment. An importer making a claim for USMCA preferential tariff treatment for a covered vehicle under § 182.32 of this part must include, in the post-importation claim, the unique identifier assigned by CBP for each of the LVC, steel purchasing, or aluminum purchasing certifications that forms the basis for the covered vehicle's eligibility for preferential tariff treatment.

56. Add § 182.93 to read as follows:

§ 182.93 Labor value content (LVC) requirement.

(a) General. A covered vehicle is eligible for USMCA preferential tariff treatment only if the producer of the covered vehicle meets the LVC requirement, as set forth in General Note 11(k)(vi), HTSUS, and section 18 of Appendix A to this part or, if the producer is subject to the alternative staging regime, General Note 11(k)(viii), HTSUS, and section 19 of Appendix A to this part.

(b) Administering the LVC component. The Department of Labor (DOL) is responsible for implementing and administering the high-wage components of the LVC requirement. The DOL regulations that set forth information concerning the high-wage components of the LVC requirement and the applicable procedures are in 29 CFR part 810. CBP is responsible for determining whether a covered vehicle meets the LVC requirement generally, setting procedures for submitting the LVC certification, verifying the LVC requirement in conjunction with DOL, and determining whether a covered vehicle qualifies for USMCA preferential tariff treatment. CBP and DOL may exchange information as necessary to properly administer the LVC requirement, subject to the confidentiality provisions in § 182.2 of this part and the DOL regulations in 29 CFR part 810.

(c) LVC calculation. For the purpose of determining whether a covered vehicle meets the LVC requirement, the producer of the covered vehicle must calculate the LVC requirement pursuant to General Note 11(k)(vi), HTSUS, and section 18 of Appendix A to this part and the requirements for the high-wage components of the LVC requirement set forth in the DOL regulations at 29 CFR part 810.

(d) Calculation periods. The producer of a covered vehicle may base the LVC calculation over the calculation periods set forth in either this paragraph or paragraph (e) of this section. The following calculation periods are provided for in section 18(19) of Appendix A to this part, and include:

(1) The previous fiscal year of the producer;

(2) The previous calendar year;

(3) The quarter or month to date in which the vehicle is produced or exported;

(4) The producer's fiscal year to date in which the vehicle is produced or exported; or

(5) The calendar year to date in which the vehicle is produced or exported.

(e) Additional calculation periods. If the fiscal year of the producer of a covered vehicle begins after July 1, 2020, but before July 1, 2021, the producer may base the LVC calculation over the period beginning on July 1, 2020 and ending at the end of the following fiscal year, as provided for in sections 16(4) and 16(5) of Appendix A to this part.

(1) Additional calculation periods applicable to all covered vehicles. For the period from July 1, 2020 to June 30, 2023, the producer of a covered vehicle may base the LVC calculation over the following periods:

(i) July 1, 2020 to June 30, 2021;

(ii) July 1, 2021 to June 30, 2022;

(iii) July 1, 2022 to June 30, 2023; and

(iv) July 1, 2023 to the end of the producer's fiscal year.

(2) Additional calculation periods for heavy trucks. In addition to the calculation periods contained in paragraph (e)(1) of this section, the producer of a heavy truck may base the LVC calculation of a heavy truck over the following additional periods:

(i) July 1, 2023 to June 30, 2024;

(ii) July 1, 2024 to June 30, 2025;

(iii) July 1, 2025 to June 30, 2026;

(iv) July 1, 2026 to June 30, 2027; and

(v) July 1, 2027 to the end of the producer's fiscal year.

(3) Calculation periods. When basing the LVC calculation over the additional calculation periods set forth in this paragraph, the producer may calculate:

(i) Beginning on July 1 of the previous year and ending on June 30 of the current year, except for the additional calculation periods set forth in paragraph (e)(1)(iv) or (e)(2)(v) of this section when the period ends at the end of the producer's fiscal year; or

(ii) Beginning on July 1 of the current year and ending on June 30 of the following year, except for the additional calculation periods in paragraph (e)(1)(iv) or (e)(2)(v) of this section when the period ends at the end of the producer's fiscal year.

57. Add § 182.94 to subpart I to read as follows:

§ 182.94 Steel purchasing and aluminum purchasing requirements.

(a) General. A covered vehicle is eligible for USMCA preferential tariff treatment only if the producer of the covered vehicle meets both the steel purchasing and the aluminum purchasing requirements, as set forth in General Note 11(k)(v), HTSUS, and section 17 of Appendix A to this part or, if the producer is subject to alternative staging regime, General Note 11(k)(viii), HTSUS, and section 19 of Appendix A of this part.

(b) Steel and aluminum purchasing calculations. For the purpose of determining whether the producer of a covered vehicle has met the steel or aluminum purchasing requirement, the producer must calculate the steel and aluminum requirements pursuant to General Note 11(k)(v), HTSUS, and section 17 of Appendix A to this part. The producer may calculate the value of the steel and aluminum purchases using a method in section 17(6) of Appendix A to this part and may calculate the purchases of steel or aluminum on the basis of the categories set forth in in section 17(9) of Appendix A to this part.

(c) Calculation periods. The producer of a covered vehicle may calculate the purchases of steel or aluminum over the calculation periods set forth in either this paragraph or paragraph (d) of this section. The following calculation periods are provided for in section 17(7) of Appendix A to this part, and include:

(1) The previous fiscal year of the producer;

(2) The previous calendar year;

(3) The quarter or month to date in which the vehicle is exported;

(4) The producer's fiscal year to date in which the vehicle is exported; or

(5) The calendar year to date in which the vehicle is exported.

(d) Additional calculation periods. If the fiscal year of a producer begins after July 1, 2020, but before July 1, 2021, the producer of a covered vehicle may calculate the purchases of steel and aluminum over the period beginning on July 1, 2020 and ending at the end of the following fiscal year, as provided for in sections 16(4) and 16(5) of Appendix A to this part.

(1) Additional calculation periods applicable to all covered vehicles. For the period from July 1, 2020 to June 30, 2023, the producer of a covered vehicle may calculate the purchases of steel and aluminum over the following periods:

(i) July 1, 2020 to June 30, 2021;

(ii) July 1, 2021 to June 30, 2022;

(iii) July 1, 2022 to June 30, 2023; and

(iv) July 1, 2023 to the end of the producer's fiscal year.

(2) Additional calculation periods for heavy trucks. In addition to the calculation periods set forth in paragraph (d)(1) of this section, the producer of a heavy truck may calculate the purchases of steel and aluminum for a heavy truck over the additional following periods:

(i) July 1, 2023 to June 30, 2024;

(ii) July 1, 2024 to June 30, 2025;

(iii) July 1, 2025 to June 30, 2026;

(iv) July 1, 2026 to June 30, 2027; and

(v) July 1, 2027 to the end of the producer's fiscal year.

(3) Calculation periods. When calculating the purchases of steel and aluminum over the additional calculation periods set forth in this paragraph, the producer may calculate:

(i) beginning on July 1 of the previous year and ending on June 30 of the current year, except for the additional calculation periods set forth in paragraph (d)(1)(iv) or (d)(2)(v) of this section when the period ends at the end of the producer's fiscal year; or

(ii) beginning on July 1 of the current year and ending on June 30 of the following year, except for the additional calculation periods in paragraph (d)(1)(iv) or (d)(2)(v) of this section when the period ends at the end of the producer's fiscal year.

(e) Calculation periods may differ. The producer of a covered vehicle may choose different calculation periods for its steel purchasing calculation and aluminum purchasing calculation.

58. Add § 182.95 to subpart I to read as follows:

§ 182.95 Labor value content (LVC) certification.

(a) General. A covered vehicle is eligible for USMCA preferential tariff treatment only if the producer of the covered vehicle has certified to CBP that the production of the vehicle by the producer meets the LVC requirement, as described in § 182.93 of this subpart. The producer of the covered vehicle must have information in its possession in accordance with § 182.103(a) of this subpart that proves the accuracy of the calculations relied on for the LVC certification.

(b) Submission of LVC certification for vehicles subject to an exemption or different requirements under an alternative staging regime. For covered vehicles that qualify as originating pursuant to an alternative staging regime, if the terms of the alternative staging regime specifically exempt the producer from the LVC requirement or contain different requirements than the LVC requirement set forth in § 182.93 of this subpart, the producer of the covered vehicle must submit to CBP a LVC certification that covers only those vehicles subject to the alternative staging regime pursuant to § 182.106(c) of this subpart.

(c) LVC certification data elements. The LVC certification must include the information required by 29 CFR part 810 and the following information:

(1) Producer. The certifying vehicle producer's name, corporate address (including country), Federal Employer Identification Number or alternative unique identification number of the producer's choosing, such as a Business Number (BN) issued by the Canada Revenue Agency, Registro Federal de Contribuyentes (RFC) number issued by Mexico's Tax Administration Service (SAT), Legal Entity Identifier (LEI) number issued by the Global Legal Entity Identifier Foundation (GLEIF), or an identification number issued to the person or enterprise by CBP, and a point of contact for the certifying vehicle producer;

(2) Certifier. The name, title, address (including country), telephone number, and email address of the person completing the certification;

(3) LVC calculation. The calculation used to determine that the production of covered vehicles specified under paragraph (c)(4) of this section meets the LVC requirement in General Note 11(k)(vi), HTSUS, § 182.93(c) of this subpart, and Appendix A to this part. The calculation should include each of the elements described in the formula based on net cost, as set forth in section 18(6)(a) of Appendix A to this part, or in the formula based on total annual purchase value, as set forth in section 18(6)(b) of Appendix A to this part, and the resulting LVC percentage;

(4) Vehicle category. The vehicle class, model line, and/or other category indicating the motor vehicles covered by the certification;

(5) Calculation period. For the calculation provided in paragraph (c)(3) of this section, the calculation period over which the calculation is made, as specified in § 182.93(d) and (e) of this subpart;

(6) Plant or facility information. The name, address, and Federal Employer Identification Number or alternative unique identification number of the producer's choosing, such as a Business Number (BN) issued by the Canada Revenue Agency, Registro Federal de Contribuyentes (RFC) number issued by Mexico's Tax Administration Service (SAT), Legal Entity Identifier (LEI) number issued by the Global Legal Entity Identifier Foundation (GLEIF), or an identification number issued to the person or enterprise by CBP, for each plant or facility the producer of the covered vehicle is relying on to meet the high-wage material and manufacturing expenditures component of the LVC requirement for the calculation provided in paragraph (c)(3) in this section;

(7) Average hourly base wage rate. A statement that the average hourly base wage rate, calculated as required by DOL's regulations at 29 CFR part 810, meets or exceeds US $16 per hour for each plant or facility identified in paragraph (c)(6) of this section;

(8) High-wage transportation or related costs. If applicable, a statement that the producer is using high-wage transportation or related costs to meet the high-wage material and manufacturing expenditures component. If the producer is using high-wage transportation or related costs, the producer must identify the company name, address, and Federal Employer Identification Number or alternative unique identification number of the producer's choosing, such as a Business Number (BN) issued by the Canada Revenue Agency, Registro Federal de Contribuyentes (RFC) number issued by Mexico's Tax Administration Service (SAT), Legal Entity Identifier (LEI) number issued by the Global Legal Entity Identifier Foundation (GLEIF), or an identification number issued to the person or enterprise by CBP, for each company the producer used to calculate its high-wage transportation or related costs for the calculation provided in paragraph (c)(3) of this section;

(9) High-wage technology expenditures credit. If applicable, a statement that the producer is using the high-wage technology expenditures credit to meet the LVC requirement for the calculation provided in paragraph (c)(3) of this section. If the producer is using the high-wage technology expenditures credit, a producer must identify the percentage the producer is claiming as a credit towards the total LVC requirement; and

(10) High-wage assembly expenditures credit. If applicable, a statement that the producer is using the high-wage assembly expenditures credit to meet the LVC requirement for the calculation provided in paragraph (c)(3) of this section. If the producer is using the high-wage assembly expenditures credit, the producer must identify the following:

(i) The name, address, and Federal Employer Identification Number (for U.S. plants) or alternative unique identification number of the producer's choosing, such as a Business Number (BN) issued by the Canada Revenue Agency, Registro Federal de Contribuyentes (RFC) number issued by Mexico's Tax Administration Service (SAT), Legal Entity Identifier (LEI) number issued by the Global Legal Entity Identifier Foundation (GLEIF), or an identification number issued to the person or enterprise by CBP, for the assembly plant the producer used to qualify for the high-wage assembly expenditures credit; and

(ii) A statement that the average hourly base wage rate, calculated as required by DOL's regulations at 29 CFR part 810, meets or exceeds US $16 per hour for the assembly plant used to qualify for the high-wage assembly expenditures credit.

(11) Authorized signature, date and certifying statement. The certification must be signed and dated by the certifier and include the following certifying statement: “I certify that, for the vehicle category and over the relevant period indicated in this document, the producer has satisfied the LVC requirement as set out in General Note 11(k)(vi), HTSUS, section 18 of the Uniform Regulations regarding Rules of Origin, and 19 CFR 182.93. The information in this document is true and accurate, and I assume responsibility for proving such representations and agree to maintain and present upon request or to make available during a verification visit, documentation necessary to support this certification.”

(d) Responsible official or agent. The LVC certification must be signed and dated by a responsible official of the producer, or by the producer's authorized agent having knowledge of the relevant facts.

(e) Language. The LVC certification must be completed in English, French, or Spanish. If the LVC certification is not in English, CBP may require the producer to submit an English translation of the certification.

(f) Submission of LVC certification. The producer of the covered vehicle must submit the LVC certification to CBP through an authorized electronic data interchange system or other specified means at least 90 days prior to the beginning of the certification period described in paragraph (j) of this section.

(g) Review of LVC certification to determine whether it is properly filed. After the producer of the covered vehicle submits the LVC certification to CBP pursuant to paragraphs (f) or (i) of this section, the LVC certification will be reviewed for omissions and errors to determine whether the certification has been properly filed.

(1) Review for omissions and errors. DOL, in consultation with CBP, will review the LVC certification for omissions and errors to determine whether the certification has been properly filed.

(2) LVC certification contains no omissions or errors. Upon a determination that the LVC certification contains no omissions or errors, CBP will provide written or electronic notification to the producer of the covered vehicle that the certification has been properly filed and is effective for the period specified in paragraph (j) of this section.

(3) LVC certification contains omissions or errors. Upon a determination that the LVC certification contains an omission or error, CBP will provide written or electronic notification to the producer of the covered vehicle that an omission or error was discovered, provide a description of the omission or error, and that the producer has the right to submit a revised LVC certification.

(i) Submission of revised LVC certification. Upon receipt of this notification that an omission or error was discovered, the producer must submit a revised certification or an explanation of why the producer believes the certification contains no omission or error to CBP within five business days. If no revised certification is submitted within the five business days, CBP will provide written or electronic notification to the producer of the covered vehicle that the certification has not been properly filed.

(ii) Review of revised LVC certification. Upon a determination that the revised LVC certification contains no omissions or errors, CBP will provide written or electronic notification to the producer of the covered vehicle that the certification has been properly filed and is effective for the period specified in paragraph (j) of this section. Upon a determination that the revised LVC certification contains an omission or error, CBP will provide written or electronic notification to the producer of the covered vehicle that the certification was not properly filed.

(h) Making a claim for USMCA preferential tariff treatment during review for omissions and errors period. If the LVC certification was filed by the required date, as specified in paragraph (f) of this section, an importer may make a claim for USMCA preferential tariff treatment under § 182.11(b) or § 182.32 of this part for such covered vehicles during the period of review for omissions and errors, as described in paragraph (g) of this section, until the producer has received notice from CBP that the LVC certification that forms the basis for the covered vehicle's eligibility for preferential tariff treatment has not been properly filed under paragraph (g)(3)(ii) of this section. If the producer receives notice that the LVC certification has not been properly filed under paragraph (g)(3)(ii) of this section, the producer must send a notification, with a copy to CBP, to any known importers of the covered vehicle of that determination within 30 days of receipt of the CBP notice.

(i) Resubmission of the LVC certification upon determination that the LVC certification was not properly filed. Upon notification that the LVC certification has not been properly filed under paragraph (g)(3)(ii) of this section, the producer of the covered vehicle may, within 10 business days of receiving the notification, resubmit a new LVC certification to CBP.

(1) Resubmission process. The producer must resubmit a new LVC certification to CBP pursuant to the means set forth in paragraph (f) of this section and CBP will use the review of omissions and errors process as described in paragraph (g) of this section to determine whether the new certification is properly filed.

(2) Right to resubmit LVC certification. The producer may resubmit a new LVC certification for the same category and same calculation period up to two times per certification period, as described in this section.

(3) Making a claim for USMCA preferential tariff treatment during resubmission period. Notwithstanding paragraph (h) of this section, if a producer chooses to resubmit the new LVC certification, an importer of the covered vehicle should not submit claims for USMCA preferential tariff treatment under § 182.11(b) or § 182.32 of this part for such covered vehicles until the producer has received notice that the new certification that forms the basis for the covered vehicle's eligibility for preferential tariff treatment has been properly filed.

(j) Certification periods. (1) For an LVC calculation based on the previous fiscal year of the producer pursuant to § 182.93(d)(1) of this subpart, the certification period begins on the first day of the following fiscal year of the producer. If the certification is considered properly filed, the certification is effective for covered vehicles produced or exported, as the case may be, within that period;

(2) For an LVC calculation based on the previous calendar year pursuant to § 182.93(d)(2) of this subpart, the certification period begins on the first day of the following calendar year. If the certification is considered properly filed, the certification is effective for covered vehicles produced or exported, as the case may be, within that period;

(3) For all other LVC calculation periods pursuant to § 182.93(d) of this subpart, the certification period begins on the first day of that calculation period. If the certification is considered properly filed, the certification is effective for covered vehicles produced or exported, as the case may be, within that period;

(4) For an LVC calculation based on an additional calculation period calculated pursuant to § 182.93(e)(3)(i) of this subpart, the certification period begins on first day of the following period, meaning July 1 of the current year and ends on June 30 of the following year, except for the additional calculation periods in § 182.93(e)(1)(iv) or (e)(2)(v) when the certification period begins on the first day of the following fiscal year of the producer. If the certification is considered properly filed, the certification is effective for covered vehicles produced or exported, as the case may be, within that period; and

(5) For an LVC calculation based on an additional calculation period calculated pursuant to § 182.93(e)(3)(ii) of this subpart, the certification period begins on the first day of that calculation period, meaning July 1 of the current year and ends on the last day of the calculation period, except for the additional calculation periods in § 182.93(e)(1)(iv) or (e)(2)(v) when the certification period begins on the first day of the current fiscal year of the producer. If the certification is considered properly filed, the certification is effective for covered vehicles produced or exported, as the case may be, within that period.

(k) Request for modification of a properly filed LVC certification. The producer of the covered vehicle must request a modification of a properly filed LVC certification in the event of any material changes to the information contained in the certification that would affect its validity.

(1) Submission process. The producer must submit a modification request to CBP by submitting a new certification through the means set forth in paragraph (f) of this section, along with a list of the material changes to the information contained in the certification and an explanation as to why the modification is necessary with respect to the validity of the certification. If CBP grants the modification request, DOL, in consultation with CBP, will review the new LVC certification to determine whether it is properly filed in accordance with the procedures set forth in paragraph (g) of this section. If CBP denies the modification request, CBP will provide written or electronic notification to the producer of the covered vehicle.

(2) Resubmission process. The producer may resubmit the new certification, pursuant to the procedures in paragraph (i) of this section, upon a determination that the new certification was not properly filed. The producer may resubmit the new LVC certification up to two times in accordance with paragraph (i)(2) of this section.

(3) Effective date of new LVC certification. If CBP determines that the new certification is properly filed under paragraph (g) or (i) of this section, the new certification supersedes the former certification and is effective for the period specified in paragraph (j) of this section. Within 30 days of receiving notice that the new certification has been properly filed, the producer must send a notification, with a copy to CBP, to any known importers of that determination.

59. Add § 182.96 to subpart I to read as follows:

§ 182.96 Steel purchasing certification.

(a) General. A covered vehicle is eligible for USMCA preferential tariff treatment only if the producer of the covered vehicle has certified to CBP that the production of the vehicle by the producer meets the steel purchasing requirement, as described in § 182.94 of this subpart. The producer of the covered vehicle must have information in its possession in accordance with § 182.103(a) of this subpart that proves the accuracy of the calculations relied on for the steel purchasing certification.

(b) Submission of steel purchasing certification for vehicles subject to an exemption or different requirements under an alternative staging regime. For covered vehicles that qualify as originating pursuant to an alternative staging regime, if the terms of the alternative staging regime specifically exempt the producer from the steel purchasing requirements or contain different requirements from the steel purchasing requirements set forth in § 182.94 of this subpart, the producer of the covered vehicle must submit to CBP a steel purchasing certification that covers only those vehicles subject to the alternative staging regime pursuant to § 182.106(c) of this subpart.

(c) Steel purchasing certification data elements. The steel purchasing certification must include:

(1) Producer. The producer of the covered vehicle's name, address (including country), email address, telephone number, and any Manufacturers Identification Codes (MID), Federal Employer Identification Numbers (EIN), or Importer of Record Numbers (IOR) associated with the producer. The address of a producer provided under this paragraph is the place of production of the good in a USMCA country's territory;

(2) Certifier. The name, title, address (including country), telephone number, and email address of the person completing the certification;

(3) Producer's purchases of steel. The calculation used to determine that the producer of the covered vehicle has complied with the steel purchasing requirement in General Note 11(k)(v), HTSUS, and Appendix A to this part. The calculation should include the total value of the vehicle producer's purchases at the corporate level of steel listed in Table S of Appendix A to this part in the territories of one or more of the USMCA countries, the total value of those purchases that qualify as originating goods, and the resulting percentage;

(4) Vehicle category. For the calculation provided in paragraph (c)(3) of this section, the vehicle category for which the purchases are calculated, as specified in section 17(9) of Appendix A to this part;

(5) Calculation periods. For the calculation provided in paragraph (c)(3) of this section, the calculation period over which the purchases are made, as specified in § 182.94(c) and (d) of this subpart;

(6) Steel producer, service center, or distributor. The name and address (including country) for each steel producer, service center, or distributor relied upon in calculating the total value of purchases of steel that qualify as originating goods under paragraph (c)(3) of this section, and any Manufacturers Identification Codes (MID), Federal Employer Identification Numbers (EIN), or Importer of Record Numbers (IOR) associated with those entities; and

(7) Authorized signature, date and certifying statement. The certification must be signed and dated by the certifier and include the following certifying statement: “I certify that, for the vehicle category and over the relevant period indicated in this document, the producer has satisfied the steel purchasing requirement as set out in General Note 11(k)(v), HTSUS, section 17 of the Uniform Regulations regarding Rules of Origin, and 19 CFR 182.94. The information in this document is true and accurate, and I assume responsibility for proving such representations and agree to maintain and present upon request or to make available during a verification visit, documentation necessary to support this certification.”

(d) Responsible official or agent. The steel purchasing certification must be signed and dated by a responsible official of the producer, or by the producer's authorized agent having knowledge of the relevant facts.

(e) Language. The steel purchasing certification must be completed in English, French, or Spanish. If the certification is not in English, CBP may require the producer to submit an English translation of the certification.

(f) Submission of steel purchasing certification. The producer of the covered vehicle must submit the steel purchasing certification to CBP through an authorized electronic data interchange system or other specified means at least 90 days prior to the beginning of the certification period described in paragraph (j) of this section.

(g) Review of steel purchasing certification to determine whether it is properly filed. After the producer of the covered vehicle submits the steel purchasing certification to CBP pursuant to paragraph (f) or (i) of this section, CBP will review the certification for errors or omissions to determine whether the certification has been properly filed.

(1) Steel purchasing certification contains no omissions or errors. If, upon review of the certification, CBP determines the certification contains no omissions or errors, CBP will provide written or electronic notification to the producer of the covered vehicle that the certification has been properly filed and is effective for the period specified in paragraph (j) of this section.

(2) Steel purchasing certification contains omissions or errors. If, upon review of the certification, CBP determines that the certification contains an omission or error, CBP will provide written or electronic notification to the producer of the covered vehicle that an omission or error was discovered, provide a description of the omission or error, and that the producer has the right to submit a revised steel purchasing certification.

(i) Submission of revised steel purchasing certification. Upon receipt of this notification that an omission or error was discovered, the producer must submit a revised certification or an explanation of why the producer believes the certification contains no omission or error to CBP within five business days. If no revised certification is submitted within the five business days, CBP will provide written or electronic notification to the producer of the covered vehicle that the certification has not been properly filed.

(ii) Review of revised steel purchasing certification. Upon a determination that the revised steel purchasing certification contains no omissions or errors, CBP will provide written or electronic notification to the producer of the covered vehicle that the certification has been properly filed and is effective for the period specified in paragraph (j) of this section. Upon a determination that the revised steel purchasing certification contains an omission or error, CBP will provide written or electronic notification to the producer of the covered vehicle that the certification was not properly filed.

(h) Making a claim for USMCA preferential tariff treatment during review for omissions and errors period. If the steel purchasing certification was filed by the required date, as specified in paragraph (f) of this section, an importer may make a claim for USMCA preferential tariff treatment under § 182.11(b) or § 182.32 of this part for such covered vehicles during the period of review for omissions and errors, as described in paragraph (g) of this section, until the producer has received notice from CBP that the steel purchasing certification that forms the basis for the covered vehicle's eligibility for preferential tariff treatment has not been properly filed under paragraph (g)(2)(ii) of this section. If the producer receives notice that the steel purchasing certification has not been properly filed under paragraph (g)(2)(ii) of this section, the producer must send a notification, with a copy to CBP, to any known importers of the covered vehicle of that determination within 30 days of receipt of the CBP notice.

(i) Resubmission of the steel purchasing certification upon determination that the steel purchasing certification was not properly filed. Upon notification that the steel purchasing certification has not been properly filed under paragraph (g)(2)(ii) of this section, the producer of the covered vehicle may, within 10 business days of receiving the notification, resubmit a new steel purchasing certification to CBP.

(1) Resubmission process. The producer must resubmit a new steel purchasing certification to CBP pursuant to the means set forth in paragraph (f) of this section and CBP will use the review of omissions and errors process as described in paragraph (g) of this section to determine whether the new certification is properly filed.

(2) Right to resubmit steel purchasing certification. The producer may resubmit a new steel purchasing certification for the same category and same calculation period up to two times per certification period, as described in this section.

(3) Making a claim for USMCA preferential tariff treatment during resubmission period. Notwithstanding paragraph (h) of this section, if a producer chooses to resubmit the new steel purchasing certification, an importer of the covered vehicle should not submit claims for USMCA preferential tariff treatment under § 182.11(b) or § 182.32 of this part for such covered vehicles until the producer has received notice that the new certification that forms the basis for the covered vehicle's eligibility for preferential tariff treatment has been properly filed.

(j) Certification periods. (1) For a steel purchasing calculation based on the previous fiscal year of the producer pursuant to § 182.94(c)(1) of this subpart, the certification period begins on the first day of the following fiscal year of the producer. If the certification is considered properly filed, the certification is effective for covered vehicles produced within that period;

(2) For a steel purchasing calculation based on the previous calendar year pursuant to § 182.94(c)(2) of this subpart, the certification period begins on the first day of the following calendar year. If the certification is considered properly filed, the certification is effective for covered vehicles produced within that period;

(3) For all other steel purchasing calculation periods pursuant to § 182.94(c) of this subpart, the certification period begins on the first day of that calculation period. If the certification is considered properly filed, the certification is effective for covered vehicles exported within that period;

(4) For a steel purchasing calculation based on an additional calculation period calculated pursuant to § 182.94(d)(3)(i) of this subpart, the certification period begins on first day of the following period, meaning July 1 of the current year and ends on June 30 of the following year, except for the additional calculation periods in § 182.94(d)(1)(iv) or (d)(2)(v) when the certification period begins on the first day of the following fiscal year of the producer. If the certification is considered properly filed, the certification is effective for covered vehicles produced within that period; and

(5) For a steel purchasing calculation based on an additional calculation period calculated pursuant to § 182.94(d)(3)(ii) of this subpart, the certification period begins on the first day of that calculation period, meaning July 1 of the current year and ends on the last day of the calculation period, except for the additional calculation periods in § 182.94(d)(1)(iv) or (d)(2)(v) when the certification period begins on the first day of the current fiscal year of the producer. If the certification is considered properly filed, the certification is effective for covered vehicles exported within that period.

(k) Request for modification of a properly filed steel purchasing certification. The producer of the covered vehicle must request a modification of a properly filed steel purchasing certification in the event of any material changes to the information contained in the certification that would affect its validity.

(1) Submission process. The producer must submit a modification request to CBP by submitting a new certification through the means set forth in paragraph (f) of this section, along with a list of the material changes to the information contained in the certification and an explanation as to why the modification is necessary with respect to the validity of the certification. If CBP grants the modification request, CBP will review the new steel purchasing certification to determine whether it is properly filed in accordance with the procedures set forth in paragraph (g) of this section. If CBP denies the modification request, CBP will provide written or electronic notification to the producer of the covered vehicle.

(2) Resubmission process. The producer may resubmit the new certification, pursuant to the procedures in paragraph (i) of this section, upon a determination that the new certification was not properly filed. The producer may resubmit the new steel purchasing certification up to two times in accordance with paragraph (i)(2) of this section.

(3) Effective date of new steel purchasing certification. If CBP determines that the new certification is properly filed under paragraph (g) or (i) of this section, the new certification supersedes the former certification and is effective for the period specified in paragraph (j) of this section. Within 30 days of receiving notice that the new certification has been properly filed, the producer must send a notification, with a copy to CBP, to any known importers of that determination.

60. Add § 182.97 to subpart I to read as follows:

§ 182.97 Aluminum purchasing certification.

(a) General. A covered vehicle is eligible for USMCA preferential tariff treatment only if the producer of the covered vehicle has certified to CBP that the production of the vehicle by the producer meets the aluminum purchasing requirement, as described in § 182.94 of this subpart. The producer of the covered vehicle must have information in its possession in accordance with § 182.103(a) of this subpart that proves the accuracy of the calculations relied on for the aluminum purchasing certification.

(b) Submission of aluminum purchasing certification for vehicles subject to an exemption or different requirements under an alternative staging regime. For covered vehicles that qualify as originating pursuant to an alternative staging regime, if the terms of the alternative staging regime specifically exempt the producer from the aluminum purchasing requirements or contain different requirements from the aluminum purchasing requirements set forth in § 182.94 of this subpart, the producer of the covered vehicle must submit to CBP an aluminum purchasing certification that covers only those vehicles subject to the alternative staging regime pursuant to § 182.106(c) of this subpart.

(c) Aluminum purchasing certification data elements. The aluminum purchasing certification must include:

(1) Producer. The producer of the covered vehicle's name, address (including country), email address, telephone number, and any Manufacturers Identification Codes (MID), Federal Employer Identification Numbers (EIN), or Importer of Record Numbers (IOR) associated with the producer. The address of a producer provided under this paragraph is the place of production of the good in a USMCA country's territory;

(2) Certifier. The name, title, address (including country), telephone number, and email address of the person completing the certification;

(3) Producer's purchase of aluminum. The calculation used to determine that the producer of the covered vehicle has complied with the aluminum purchasing requirement in General Note 11(k)(v), HTSUS, and Appendix A to this part. The calculation should include the total value of the vehicle producer's purchases at the corporate level of aluminum listed in Table S of Appendix A to this part in the territories of one or more of the USMCA countries, the total value of those purchases that qualify as originating goods, and the resulting percentage;

(4) Vehicle category. For the calculation provided in paragraph (c)(3) of this section, the vehicle category for which the purchases are calculated, as specified in section 17(9) of Appendix A to this part;

(5) Calculation periods. For the calculation provided in paragraph (c)(3) of this section, the calculation period over which the purchases are made, as specified in § 182.94(c) and (d) of this subpart;

(6) Aluminum producer, service center, or distributor. The name and address (including country) for each aluminum producer, service center, or distributor relied upon in calculating the total value of purchases of aluminum that qualify as originating goods under paragraph (c)(3) of this section, and any Manufacturers Identification Codes (MID), Federal Employer Identification Numbers (EIN), or Importer of Record Numbers (IOR) associated with those entities; and

(7) Authorized signature, date and certifying statement. The certification must be signed and dated by the certifier and include the following certifying statement: “I certify that, for the vehicle category and over the relevant period indicated in this document, the producer has satisfied the aluminum purchasing requirement as set out in General Note 11(k)(v), HTSUS, section 17 of the Uniform Regulations regarding Rules of Origin, and 19 CFR 182.94. The information in this document is true and accurate, and I assume responsibility for proving such representations and agree to maintain and present upon request or to make available during a verification visit, documentation necessary to support this certification.”

(d) Responsible official or agent. The aluminum purchasing certification must be signed and dated by a responsible official of the producer, or by the producer's authorized agent having knowledge of the relevant facts.

(e) Language. The aluminum purchasing certification must be completed in English, French, or Spanish. If the certification is not in English, CBP may require the producer to submit an English translation of the certification.

(f) Submission of aluminum purchasing certification. The producer of the covered vehicle must submit the aluminum purchasing certification to CBP through an authorized electronic data interchange system or other specified means at least 90 days prior to the beginning of the certification period described in paragraph (j) of this section.

(g) Review of aluminum purchasing certification to determine whether it is properly filed. After the producer of the covered vehicle submits the aluminum purchasing certification to CBP pursuant to paragraph (f) or (i) of this section, CBP will review the certification for errors or omissions to determine whether the certification has been properly filed.

(1) Aluminum purchasing certification contains no omissions or errors. If, upon review of the certification, CBP determines the certification contains no omissions or errors, CBP will provide written or electronic notification to the producer of the covered vehicle that the certification has been properly filed and is effective for the period specified in paragraph (j) of this section.

(2) Aluminum purchasing certification contains omissions or errors. If, upon review of the certification, CBP determines that the certification contains an omission or error, CBP will provide written or electronic notification to the producer of the covered vehicle that an omission or error was discovered, provide a description of the omission or error, and that the producer has the right to submit a revised aluminum purchasing certification.

(i) Submission of revised aluminum purchasing certification. Upon receipt of this notification that an omission or error was discovered, the producer must submit a revised certification or an explanation of why the producer believes the certification contains no omission or error to CBP within five business days. If no revised certification is submitted within the five business days, CBP will provide written or electronic notification to the producer of the covered vehicle that the certification has not been properly filed.

(ii) Review of revised aluminum purchasing certification. Upon a determination that the revised aluminum purchasing certification contains no omissions or errors, CBP will provide written or electronic notification to the producer of the covered vehicle that the certification has been properly filed and is effective for the period specified in paragraph (j) of this section. Upon a determination that the revised aluminum purchasing certification contains an omission or error, CBP will provide written or electronic notification to the producer of the covered vehicle that the certification was not properly filed.

(h) Making a claim for USMCA preferential tariff treatment during review for omissions and errors period. If the aluminum purchasing certification was filed by the required date, as specified in paragraph (f) of this section, an importer may make a claim for USMCA preferential tariff treatment under § 182.11(b) or § 182.32 of this part for such covered vehicles during the period of review for omissions and errors, as described in paragraph (g) of this section, until the producer has received notice from CBP that the aluminum purchasing certification that forms the basis for the covered vehicle's eligibility for preferential tariff treatment has not been properly filed under paragraph (g)(2)(ii) of this section. If the producer receives notice that the aluminum purchasing certification has not been properly filed under paragraph (g)(2)(ii) of this section, the producer must send a notification, with a copy to CBP, to any known importers of the covered vehicle of that determination within 30 days of receipt of the CBP notice.

(i) Resubmission of the aluminum purchasing certification upon determination that the aluminum purchasing certification was not properly filed. Upon notification that the aluminum purchasing certification has not been properly filed under paragraph (g)(2)(ii) of this section, the producer of the covered vehicle may, within 10 business days of receiving the notification, resubmit a new aluminum purchasing certification to CBP.

(1) Resubmission process. The producer must resubmit a new aluminum purchasing certification to CBP pursuant to the means set forth in paragraph (f) of this section and CBP will use the review of omissions and errors process as described in paragraph (g) of this section to determine whether the new certification is properly filed.

(2) Right to resubmit aluminum purchasing certification. The producer may resubmit a new aluminum purchasing certification for the same category and same calculation period up to two times per certification period, as described in this section.

(3) Making a claim for USMCA preferential tariff treatment during resubmission period. Notwithstanding paragraph (h) of this section, if a producer chooses to resubmit the new aluminum purchasing certification, an importer of the covered vehicle should not submit claims for USMCA preferential tariff treatment under § 182.11(b) or § 182.32 of this part for such covered vehicles until the producer has received notice that the new certification that forms the basis for the covered vehicle's eligibility for preferential tariff treatment has been properly filed.

(j) Certification periods. (1) For an aluminum purchasing calculation based on the previous fiscal year of the producer pursuant to § 182.94(c)(1) of this subpart, the certification period begins on the first day of the following fiscal year of the producer. If the certification is considered properly filed, the certification is effective for covered vehicles produced within that period;

(2) For an aluminum purchasing calculation based on the previous calendar year pursuant to § 182.94(c)(2) of this subpart, the certification period begins on the first day of the following calendar year. If the certification is considered properly filed, the certification is effective for covered vehicles produced within that period;

(3) For all other aluminum purchasing calculation periods pursuant to § 182.94(c) of this subpart, the certification period begins on the first day of that calculation period. If the certification is considered properly filed, the certification is effective for covered vehicles exported within that period;

(4) For an aluminum purchasing calculation based on an additional calculation period calculated pursuant to § 182.94(d)(3)(i) of this subpart, the certification period begins on first day of the following period, meaning July 1 of the current year and ends on June 30 of the following year, except for the additional calculation periods in § 182.94(d)(1)(iv) or (d)(2)(v) when the certification period begins on the first day of the following fiscal year of the producer. If the certification is considered properly filed, the certification is effective for covered vehicles produced within that period; and

(5) For an aluminum purchasing calculation based on an additional calculation period calculated pursuant to § 182.94(d)(3)(ii) of this subpart, the certification period begins on the first day of that calculation period, meaning July 1 of the current year and ends on the last day of the calculation period, except for the additional calculation periods in § 182.94(d)(1)(iv) or (d)(2)(v) when the certification period begins on the first day of the current fiscal year of the producer. If the certification is considered properly filed, the certification is effective for covered vehicles exported within that period.

(k) Request for modification of a properly filed aluminum purchasing certification. The producer of the covered vehicle must request a modification of a properly filed aluminum purchasing certification in the event of any material changes to the information contained in the certification that would affect its validity.

(1) Submission process. The producer must submit a modification request to CBP by submitting a new certification through the means set forth in paragraph (f) of this section, along with a list of the material changes to the information contained in the certification and an explanation as to why the modification is necessary with respect to the validity of the certification. If CBP grants the modification request, CBP will review the new aluminum purchasing certification to determine whether it is properly filed in accordance with the procedures set forth in paragraph (g) of this section. If CBP denies the modification request, CBP will provide written or electronic notification to the producer of the covered vehicle.

(2) Resubmission process. The producer may resubmit the new certification, pursuant to the procedures in paragraph (i) of this section, upon a determination that the new certification was not properly filed. The producer may resubmit the new aluminum purchasing certification up to two times in accordance with paragraph (i)(2) of this section.

(3) Effective date of new aluminum purchasing certification. If CBP determines that the new certification is properly filed under paragraph (g) or (i) of this section, the new certification supersedes the former certification and is effective for the period specified in paragraph (j) of this section. Within 30 days of receiving notice that the new certification has been properly filed, the producer must send a notification, with a copy to CBP, to any known importers of that determination.

61. Add § 182.98 to subpart I to read as follows:

§ 182.98 Appeal of the determination that LVC, steel purchasing, or aluminum purchasing certification is not properly filed.

(a) Producer of a covered vehicle's right to appeal. If, following the review of the second resubmission of the vehicle certification pursuant to §§ 182.95(i)(2), 182.96(i)(2), and 182.97(i)(2) of this subpart, CBP determines that the vehicle certification is not properly filed as provided in §§ 182.95(g)(3)(ii), 182.96(g)(2)(ii), and 182.97(g)(2)(ii) of this subpart, the producer of the covered vehicle may file a written appeal. This filing cannot be made unless the producer utilized both opportunities for resubmission of a vehicle certification and the producer has received notification from CBP that the resubmitted certification has not been properly filed. The determination as to whether a vehicle certification is properly filed does not qualify as a matter subject to protest under part 174 of this chapter.

(b) Appeal of not properly filed determination. Upon receipt of notification that the vehicle certification is not properly filed, following the second resubmission of the vehicle certification pursuant to §§ 182.95(i)(2), 182.96(i)(2), and 182.97(i)(2) of this subpart, the producer of the covered vehicle may file a written appeal to CBP Headquarters, Trade Policy and Programs, Office of Trade. This filing must be received by CBP within 14 days of the producer of the covered vehicle receiving the notification that, following the second resubmission, the certification was not properly filed. The Office of Trade will review the not properly filed determination and will render a written decision on the appeal within 30 days after receipt of the appeal. When an appeal involves DOL's review of the LVC certification for omissions and errors, CBP will coordinate with DOL regarding the appeal as necessary.

(c) Making a claim for USMCA preferential tariff treatment during appeal period. If a producer of the covered vehicle chooses to appeal the determination that a vehicle certification is not properly filed under this section, an importer of the covered vehicle may not submit claims for USMCA preferential tariff treatment under § 182.11(b) or § 182.32 of this part for such covered vehicles until the producer has received notice that the vehicle certification that forms the basis for the covered vehicle's eligibility for preferential tariff treatment has been properly filed.

§ 182.99 [Reserved]

62. Add and reserve § 182.99 to subpart I.

63. Add § 182.100 to subpart I to read as follows:

§ 182.100 Motor vehicle averaging elections.

(a) RVC averaging. For the purpose of calculating the regional value content (RVC) of a covered vehicle, the producer of the vehicle may elect to average the RVC calculation. The producer must comply with all the RVC averaging provisions set forth in section 16 of Appendix A to this part to elect RVC averaging.

(1) RVC averaging categories. The producer of a covered vehicle may elect to average its RVC calculation using any of the categories provided for in section 16(1) of Appendix A to this part, on the basis of either all motor vehicles in the category or only those motor vehicles in the category that are exported to the territory of one or more of the other USMCA countries:

(i) The same model line of motor vehicles in the same class of vehicles produced in the same plant in the territory of a USMCA country;

(ii) The same class of motor vehicles produced in the same plant in the territory of a USMCA country;

(iii) The same model line or same class of motor vehicles produced in the territory of a USMCA country; or

(iv) Any other category as the USMCA countries may decide.

(2) RVC averaging periods. For purposes of calculating the RVC of a covered vehicle, the calculation may be averaged over the producer's fiscal year. If the fiscal year of a producer begins after July 1, 2020, but before July 1, 2021, the producer may base the RVC calculation over the period beginning on July 1, 2020 and ending at the end of the following fiscal year, as provided for in section 16(4) and 16(5) of Appendix A to this part.

(i) RVC averaging periods applicable to all covered vehicles. For the period from July 1, 2020 to June 30, 2023, the producer of a covered vehicle may base the RVC calculation over the following periods:

(A) July 1, 2020 to June 30, 2021;

(B) July 1, 2021 to June 30, 2022;

(C) July 1, 2022 to June 30, 2023; and

(D) July 1, 2023 to the end of the producer's fiscal year.

(ii) Additional RVC averaging periods for heavy trucks. In addition to the calculation periods set forth in paragraph (a)(2) of this section, a producer of a heavy truck may base the RVC calculation of a heavy truck over the additional following periods:

(A) July 1, 2023 to June 30, 2024;

(B) July 1, 2024 to June 30, 2025;

(C) July 1, 2025 to June 30, 2026;

(D) July 1, 2026 to June 30, 2027; and

(E) July 1, 2027 to the end of the producer's fiscal year.

(3) Election to average. A producer of a covered vehicle who elects to average its RVC calculation must file an averaging election with CBP pursuant to paragraph (c) of this section.

(b) LVC averaging. For purposes of calculating the LVC of a covered vehicle, the producer of the vehicle may elect to average the LVC calculation. The producer must comply with all the LVC averaging provisions set forth in section 18 of Appendix A to this part to elect LVC averaging.

(1) LVC averaging categories. The producer of a covered vehicle may elect to average its LVC calculation using any of the categories provided for in section 18(15) of Appendix A to this part, on the basis of either all motor vehicles in the category or only those motor vehicles in the category that are exported to the territory of one or more of the other USMCA countries.

(2) LVC averaging periods. For purposes of calculating the LVC of a covered vehicle, the calculation may be averaged over the calculation periods as described in § 182.93(d) and (e) of this subpart.

(3) Election to average. A producer of a covered vehicle who elects to average its LVC calculation must file an averaging election with CBP pursuant to paragraph (c) of this section.

(c) Filing of RVC and LVC averaging elections. If the producer of a covered vehicle elects to average its RVC or LVC calculations, the producer must file an RVC or LVC averaging election with CBP via an authorized electronic data interchange system or other specified means at least 10 days before the first day of the producer's fiscal year during which the vehicles will be exported, or such shorter period as CBP may accept.

(d) RVC averaging election required data elements. When filing an RVC averaging election pursuant to paragraph (c) of this section, the averaging election must include:

(1) Producer. The producer of the covered vehicle's name, address (including country), email address, and telephone number;

(2) Averaging period. The period with respect to which the election is made pursuant to paragraph (a)(2) of this section, including the starting and ending dates;

(3) Averaging category. The averaging category chosen by the producer pursuant to paragraph (a)(1) of this section;

(4) Vehicles to be averaged. The model name, the model line (if the averaging category under section 16(1)(a) or 16(1)(c) of Appendix A to this part is chosen), class of motor vehicle, and tariff classification of the motor vehicles in that category;

(5) Location of the plant. The location(s) of the plant at which the motor vehicles are produced;

(6) Basis of calculation. Whether the basis of the calculation is all vehicles in that category chosen by the producer or only those vehicles in that category that are exported to the territory of one or more of the other USMCA countries;

(7) Basis of regional value content. The basis of the calculation in determining the estimated RVC of motor vehicles pursuant to paragraph (a) of this section; and

(8) Authorized signature and date. The authorized officer's name, title, address (including country), telephone number, email address, signature, and date.

(e) LVC averaging election required data elements. When filing an LVC averaging election pursuant to paragraph (c) of this section, the averaging election must include:

(1) Producer. The producer's name, address (including country), email address, and telephone number;

(2) Averaging period. The period with respect to which the election is made pursuant to paragraph (b)(2) of this section, including the starting and ending dates;

(3) Averaging category. The averaging category chosen by the producer pursuant to paragraph (b)(1) of this section;

(4) Vehicles to be averaged. The model name, the model line (if the averaging category under section 18(15)(a) and 18(15)(c) of Appendix A to this part is chosen), class of motor vehicle, and tariff classification of the motor vehicles in that category;

(5) Location of the plant. The location(s) of the plant at which the motor vehicles are produced;

(6) Basis of calculation. Whether the basis of the calculation is all vehicles in that category chosen by the producer or only those vehicles in that category that are exported to the territory of one or more of the other USMCA countries;

(7) Estimated LVC and net cost. The estimated LVC and net cost of vehicles in that category with respect to the basis of calculation ; and

(8) Authorized signature and date. The authorized officer's name, title, address (including country), telephone number, email address, signature, and date.

(f) Cost submission for motor vehicles. A producer of a covered vehicle who files an RVC or LVC averaging election pursuant to paragraph (c) of this section must submit, at the request of CBP, a cost submission reflecting the actual costs incurred in the production of the category of motor vehicles for which the election was made. The requested cost submission must be submitted to CBP within 180 calendar days after the close of the producer's fiscal year or within 60 days from the date on which the request was made, whichever is later.

64. Add § 182.101 to subpart I to read as follows:

§ 182.101 Averaging for other automotive goods.

(a) Automotive parts. For the purpose of calculating the RVC of an automotive good provided for in section 16(10) of Appendix A to this part, the producer of the automotive good may average its RVC calculation pursuant to the provisions set forth in sections 16(5) and 16(10) of Appendix A to this part.

(b) Other vehicles. For the purpose of calculating the RVC of a motor vehicle provided for in sections 20(2) or (3) of Appendix A to this part, the producer of the automotive good may average its RVC calculation pursuant to the provisions set forth in sections 16(5) and section 20(6) of Appendix A to this part.

(c) Averaging election not required. The producer of the automotive good is not required to file an RVC averaging election with CBP when averaging the RVC pursuant to this section.

65. Add § 182.102 to subpart I to read as follows:

§ 182.102 Required year-end reconciliation to actual costs when estimated costs or purchases used.

(a) Year-end reconciliation required. (1) RVC and LVC. When the producer of a covered vehicle has calculated the RVC or LVC of its vehicles on the basis of estimated costs, including standard costs, budgeted forecasts or other similar estimating procedures, before or during the producer's fiscal year, the producer must conduct a reconciliation at the end of the producer's fiscal year to the actual costs incurred over the period with respect to the production of the vehicle, irrespective of whether the producer filed an averaging election pursuant to § 182.100 of this subpart.

(2) Steel and aluminum purchases. When the producer of a covered vehicle has calculated steel and aluminum purchases on the basis of estimates before or during the applicable period, the producer must conduct a reconciliation at the end of the producer's fiscal year to the actual purchases made over the period with respect to the production of the vehicle.

(b) Notification. If, based on the year-end reconciliation performed under paragraph (a) of this section, the covered vehicle does not satisfy the RVC or LVC requirement on the basis of the actual costs, or the steel or aluminum purchasing requirement on the basis of the actual purchases, the producer must, within 30 days of making that determination:

(1) Provide written notification to CBP that the vehicle is a non-originating good; and

(2) Inform any person to whom the producer has provided a certification of origin for the vehicle, or a written statement that the vehicle is an originating good, that the vehicle is a non-originating good.

66. Add § 182.103 to subpart I to read as follows:

§ 182.103 Producer and exporter recordkeeping responsibilities for records relating to LVC, steel purchasing, and aluminum purchasing requirements.

(a) Producer recordkeeping responsibilities. A producer of a covered vehicle whose good is subject to a claim for USMCA preferential tariff treatment must make and keep, for a minimum of five years from the date that the vehicle certifications were submitted to CBP, the LVC certification, the steel purchasing certification, the aluminum purchasing certification, and all records and supporting documents that the producer of the covered vehicle has to demonstrate whether the covered vehicle meets the LVC, steel purchasing, and aluminum purchasing requirements. The records must be capable of being retrieved upon lawful request or demand by CBP. The producer of the covered vehicle must also maintain any records related to the high-wage components of the LVC requirement as required by DOL pursuant to 29 CFR part 810, and produce such records to DOL upon request.

(b) Exporter who completed the certification of origin recordkeeping responsibilities. An exporter who completed the certification of origin for a covered vehicle must keep, for a minimum of five years from the date that the certification of origin was completed, the LVC certification, the steel purchasing certification, the aluminum purchasing certification, and all records and supporting documents that the exporter has to demonstrate whether the covered vehicle meets the LVC, steel purchasing, and aluminum purchasing requirements. The records must be capable of being retrieved upon lawful request or demand by CBP. The exporter must also maintain any records related to the high-wage components of the LVC requirement as required by DOL pursuant to 29 CFR part 810, and produce such records to DOL upon request.

67. Add § 182.104 to subpart I to read as follows:

§ 182.104 Importer's responsibility to maintain records relating to LVC, steel purchasing, and aluminum purchasing requirements.

(a) General. In addition to any other records that the importer is required to prepare, maintain, or make available to CBP under this part or under part 163 of this chapter, an importer claiming USMCA preferential tariff treatment for a covered vehicle has additional recordkeeping responsibilities. The extent of the importer's recordkeeping responsibilities depends on whether the importer completed the certification of origin.

(1) Claims based on certification of origin completed by the exporter or producer. If the claim for USMCA preferential tariff treatment is based on a certification of origin completed by the exporter or producer, the importer must maintain, for a minimum of five years from the date of importation of the covered vehicle, any records and supporting documents in the importer's possession relating to the LVC, steel purchasing, and aluminum purchasing certifications that formed the basis for the covered vehicle's eligibility for USMCA preferential tariff treatment; or

(2) Claims based on certification of origin completed by the importer. If the claim for USMCA preferential tariff treatment is based on a certification of origin completed by the importer, the importer must maintain, for a minimum of five years from the date of importation of the covered vehicle, the LVC certification, the steel purchasing certification, the aluminum purchasing certification, and all records and supporting documents to demonstrate whether the covered vehicle meets the LVC, steel purchasing, and aluminum purchasing requirements. The importer must also maintain any records related to the high-wage components of the LVC requirement as required by DOL pursuant to 29 CFR part 810, and produce such records to DOL upon request.

(b) Method of maintenance. The records referred to in paragraph (a) of this section must be maintained by importers as provided in § 163.5 of this chapter.

(c) Relation to other recordkeeping requirements. Nothing in this section precludes compliance with any other applicable recordkeeping or reporting requirements, including, but not limited to, any recordkeeping requirements set forth in this chapter, and the DOL regulations at 29 CFR part 810.

68. Add § 182.105 to subpart I to read as follows:

§ 182.105 Verification of automotive goods.

(a) General. CBP will initiate all verifications of automotive goods, including covered vehicles, pursuant to the means set forth in § 182.72(a) of this part. The general verification and determination provisions set forth in subpart G of this part and the provisions contained in this section are applicable for automotive good verifications.

(b) Verification of a part, component, or material of a covered vehicle. When conducting a verification of a covered vehicle imported into the United States, CBP may conduct a verification of the parts, components, or materials used in the production of that covered vehicle. This verification will be conducted in conjunction with DOL, if applicable. A verification of a part, component, or material producer may be conducted pursuant to any of the verification means set forth in § 182.72(a) of this part. With the exception of § 182.73(c) and § 182.75, the provisions in subpart G of this part apply to the verification of a part, component, or material, and, with the exception of paragraph (d)(1) of this section, the provisions in this section also apply to the verification of a part, component, or material. References to the term “producer” in this section apply to a producer of a covered vehicle or to a part, component, or material producer.

(c) Availability of records—(1) Verification of a covered vehicle. During a verification of a covered vehicle, the importer, exporter, and producer must make all records that they are required to maintain pursuant to this part, including §§ 182.103 and 182.104 of this subpart, and the DOL regulations at 29 CFR part 810, available for inspection by a CBP or DOL official conducting a verification. With respect to records related to vehicle certifications, an importer, whose claim is based on a certification of origin completed by the exporter or producer, must only make those records in the importer's possession, as described in § 182.104, available for inspection by a CBP or DOL official conducting a verification. CBP may deny the claim for preferential tariff treatment of the covered vehicle for failure to maintain the records required by CBP or DOL or for denying a CBP or DOL official access to these records.

(2) Verification of a part, component, or material of a covered vehicle. During the verification of a part, component, or material used in the production of a covered vehicle, any records in the part, component, or material producer's possession related to whether the part, component, or material qualifies as originating must be made available for inspection by a CBP or DOL official conducting a verification. CBP may consider the part, component, or material that is used in the production of the covered vehicle and is the subject of the verification to be a non-originating part, component, or material if a CBP or DOL official is denied access to these records.

(d) Verification of the high-wage components of the LVC requirement. When conducting a verification of a covered vehicle involving the high-wage components of the LVC requirement, CBP will conduct the verification in conjunction with DOL. DOL is responsible, pursuant to 19 U.S.C. 4532(e) and the DOL requirements and procedures in 29 CFR part 810, for conducting the verification of the high-wage components of the LVC requirement and determining whether the covered vehicle meets the high-wage components of the LVC requirement. CBP is responsible for verifying all other aspects of the LVC requirement not covered by DOL, including the annual purchase value and cost components of the high-wage material and manufacturing expenditures, and is ultimately responsible for determining whether the covered vehicle meets the LVC requirement, the requirements in this part, and whether the covered vehicle qualifies for USMCA preferential treatment.

(1) Producer notification. When CBP initiates a verification of a covered vehicle and that verification involves determining whether the covered vehicle meets the LVC requirement, CBP will notify the producer of the covered vehicle, through one of the communication means specified in § 182.73(d)(2) of this part, that CBP has initiated a verification of the covered vehicle and advise whether DOL will verify the high-wage components of the LVC requirement, subject to the confidentiality provisions in § 182.2 of this part and the DOL's regulations at 29 CFR part 810.

(2) Determinations of origin involving the LVC requirement. When issuing a determination of origin pursuant to § 182.75 of this part, CBP will determine whether the covered vehicle meets the LVC requirement and qualifies for preferential tariff treatment based in part on DOL's determination of whether the covered vehicle complied with the high-wage components of the LVC requirement and DOL's verification findings and analysis.

(e) Protests. An importer, exporter, or producer, who has the right to file a protest pursuant to § 174.12(a)(6) of this chapter, may protest a CBP determination of origin under part 174 of this chapter. When a protest involves DOL's analysis of the high-wage components of the LVC requirement, CBP will coordinate with DOL regarding the review of the protest and accelerated disposition of the protest will not be available pursuant to § 174.22 of this chapter. DOL is responsible, pursuant to 19 U.S.C. 4532(e)(6)(A), for conducting an administrative review of its initial analysis pursuant to DOL's regulations at 29 CFR part 810 and providing a determination containing the results of the administrative review to CBP. CBP will review and act on the protest pursuant to the procedures and requirements set forth in part 174 of this chapter.

69. Add § 182.106 to subpart I to read as follows:

§ 182.106 Alternative staging regime.

(a) General. Pursuant to General Note 11(k)(viii), HTSUS, Appendix A to this part, and as may be further provided for in subchapter XXIII of chapter 99 of the HTSUS, a covered vehicle may be originating pursuant to an alternative staging regime. A covered vehicle is only eligible for USMCA preferential tariff treatment under an alternative staging regime provided that:

(1) Use of the alternative staging regime has been authorized by the Office of the U.S. Trade Representative (USTR);

(2) USTR has not made a determination that the producer of the covered vehicle failed to meet the requirements for use of an alternative staging regime under 19 U.S.C. 4532(d)(5);

(3) The alternative staging regime period is in effect;

(4) The terms of the alternative staging regime petition, as authorized by the USTR, are met; and

(5) The covered vehicle meets the requirements in this part, including the requirements in this subpart, unless the terms of the alternative staging regime specifically exempt the producer from these requirements or contain different requirements.

(b) Verifications. CBP will conduct a verification of a covered vehicle subject to an alternative staging regime pursuant to the same procedures that govern other covered vehicles as set forth in § 182.105 of this subpart.

(c) Vehicle certifications for covered vehicles subject to an exemption or different requirements under an alternative staging regime. For covered vehicles that qualify as originating pursuant to an alternative staging regime, if the terms of the alternative staging regime specifically exempt the producer from the LVC, steel purchasing, or aluminum purchasing requirement, or contain different requirements from sections 13 through 18 of Appendix A to this part, then the producer must submit to CBP a vehicle certification for that requirement that covers only those vehicles subject the alternative staging regime. In addition to meeting all other requirements set forth in §§ 182.95, 182.96, and 182.97 of this subpart, as applicable, with the exception of §§ 182.95(c)(11), 182.96(c)(7), and 182.97(c)(7), a producer's vehicle certification submitted pursuant to this paragraph must include the following additional information:

(1) A list of the vehicles covered by the alternative staging regime;

(2) A description of the applicable exemption or different requirements as provided under the alternative staging regime; and

(3) An authorized signature, date, and the following certifying statement: “I certify that, for the vehicles listed and over the relevant period indicated in this document, the producer has satisfied the requirements of the alternative staging regime as set out in General Note 11(k)(viii), HTSUS, section 19 of the Uniform Regulations regarding Rules of Origin, 19 CFR 182.106, and under the terms authorized by the Office of the U.S. Trade Representative (USTR). The information in this document is true and accurate, and I assume responsibility for proving such representations and agree to maintain and present upon request or to make available during a verification visit, documentation necessary to support this certification.”

70. Add § 182.107 to subpart I to read as follows:

§ 182.107 Denial of preferential tariff treatment of covered vehicles.

CBP may deny any claim for preferential tariff treatment of any covered vehicle if:

(a) CBP determines that the good does not qualify for preferential tariff treatment due to a failure to meet the LVC, steel purchasing, or aluminum purchasing requirements set forth in General Note 11, HTSUS, Appendix A to this part, or §§ 182.93 and 182.94 of this subpart;

(b) The producer of the covered vehicle fails to submit the required LVC, steel purchasing, or aluminum purchasing certifications to CBP, pursuant to §§ 182.95, 182.96, and 182.97 of this subpart;

(c) CBP determines that an LVC, steel purchasing, or aluminum purchasing certification that forms the basis for a covered vehicle's eligibility for USMCA preferential tariff treatment is not properly filed pursuant to §§ 182.95, 182.96, and 182.97 of this subpart;

(d) CBP determines that an LVC, steel purchasing, or aluminum purchasing certification that forms the basis for a covered vehicle's eligibility for USMCA preferential tariff treatment is invalid after it was determined to be properly filed;

(e) The importer, exporter, or producer fails to maintain records of the vehicle certifications and supporting documents as required pursuant to §§ 182.103 and 182.104 of this subpart;

(f) The importer, exporter, or producer fails to provide a CBP or DOL official the records or documentation that are in its possession or required to be maintained pursuant to § 182.105(c) of this subpart; or

(g) CBP determines that any other reason to deny a claim for preferential tariff treatment as set forth in § 182.75(c)(2) of this part applies.

Robert F. Altneu,
Director, Regulations & Disclosure Law Division Regulations & Rulings, Office of Trade, U.S. Customs and Border Protection.

[FR Doc. 2025-00550 Filed 1-16-25; 8:45 am]

BILLING CODE 9111-14-P